POSTAL SERVICE

Change in Rates of General Applicability for Competitive Products

AGENCY: Postal ServiceTM.

ACTION: Notice of a change in rates of general applicability for competitive products.

SUMMARY: This notice sets forth changes in rates of general applicability for #petitive products.

DATES: Effective date: January 21, 2018.

FOR FURTHER INFORMATION CONTACT: Elizabeth A. Reed, 202-268-3179.

SUPPLEMENTARY INFORMATION: Pursuant to their authority under 39 U.S.C. 3632, the Governors of the Postal Service established prices for competitive products. The Governors' Decisions and the record of proceedings in connection with such decisions are reprinted below in accordance with section 3632(b)(2).

Stanley F. Mires,
Attorney, Federal Compliance.

Decision of the Governors of the United States Postal Service on Changes in Rates of General Applicability for Competitive Products (Governors' Decision No. 16-8)

November 14, 2016

Statement of Explanation and Justification

Pursuant to authority under section 3632 of title 39, as amended by the Postal Accountability and Enhancement Act of 2006 (“PAEA”), the Governors establish new prices of general applicability for the Postal Service's shipping services (competitive products). The price changes are described generally below, with a schedule of the new prices in the attachment.

The changes I establish should enable each competitive product to cover its attributable costs (39 U.S.C. § 3633(a)(2)) and should result in competitive products as a whole complying with 39 U.S.C. § 3633(a)(3), which, as implemented by 39 C.F.R. § 3015.7(c), requires competitive products collectively to contribute a minimum of 5.5 percent to the Postal Service's institutional costs. Accordingly, no issue of subsidization of competitive products by market dominant products should arise (39 U.S.C. § 3633(a)(1)). I therefore find that the new prices are in accordance with 39 U.S.C. §§ 3632-3633 and 39 C.F.R. § 3015.2.

I. Domestic Products

A. Priority Mail Express

Overall, the Priority Mail Express price change represents a 3.9 percent increase. The existing structure of zoned Retail, Commercial Base, and Commercial Plus price categories is maintained, with Commercial Base and Commercial Plus prices continuing to be set equal to each other.

Retail prices will increase an average of 3.9 percent. The price for the Retail Flat Rate Envelope, a significant portion of all Priority Mail Express volume, is increasing to $24.70.

The Commercial Base price category offers lower prices to customers who use online and other authorized postage payment methods. The Commercial Base prices will increase 3.7 percent on average. Commercial Base prices will be set at an average 11.3 percent discount off of Retail prices.

The Commercial Plus price category has traditionally offered even lower prices to large-volume customers. However, recognizing that the Postal Service is at a competitive disadvantage in the marketplace by publishing these highly discounted prices that are viewable by all customers, Commercial Plus prices were matched to the Commercial Base prices in 2016 and 2017, and will continue to be in 2018. For January, Commercial Plus prices as a whole will receive a 3.7 percent increase.

B. Priority Mail

On average, the Priority Mail prices will be increased by 3.9 percent. The existing structure of Priority Mail Retail, Commercial Base, and Commercial Plus price categories is maintained.

Retail prices will increase an average of 0.8 percent. Retail Flat Rate Box prices will be: Small, $7.20; Medium, $13.65; Large, $18.90 and Large APO/FPO/DPO, $17.40. The regular Flat Rate Envelope will be priced at $6.70, with the Legal Size and Padded Flat Rate Envelopes priced at $7.00 and $7.25, respectively.

The Commercial Base price category offers lower prices to customers using authorized postage payment methods. The Commercial Base prices will increase 6.2 percent on average. Commercial Base prices will, on average, reflect a 9.4 percent discount off of Retail prices.

The Commercial Plus price category has traditionally offered even lower prices to large-volume customers. For January, Commercial Plus prices as a whole will receive a 6.1 percent increase and will average 12.7 percent off Retail prices.

C. Parcel Select

On average, prices for non-Lightweight Parcel Select, the Postal Service's bulk ground shipping product, will increase 4.9 percent. Prices for Parcel Select Lightweight will increase by 7.0 percent.

D. Parcel Return Service

Parcel Return Service prices will have an overall price increase of 4.9 percent. Prices for parcels retrieved at a return Sectional Center Facility (RSCF) will increase by 5.2 percent, and prices for parcels picked up at a return delivery unit (RDU) will increase 4.6 percent.

E. First-Class Package Service

First-Class Package Service continues to be positioned as a lightweight (less than one pound) offering used by businesses for fulfillment purposes. Overall, First-Class Package Service prices will increase 3.9 percent.

F. Retail Ground

Retail Ground prices will increase 3.9 percent. Customers shipping in Zones 1-4 will continue to receive Priority Mail service and will only default to Retail Ground if the item contains hazardous material or is otherwise not permitted to travel by air transportation.

G. Domestic Extra Services

Premium Forwarding Service prices will increase 3.9 percent in 2018. The retail counter enrollment fee will increase to $20.10. The online enrollment option, introduced in 2014, will now be available for $18.45. The weekly reshipment fee will increase to $20.10. The prices for the flat rate full and half trays, introduced in 2017, will remain unchanged in 2018. Prices for Adult Signature service will increase to $6.10 for the basic service and $6.35 for the person-specific service. Address Enhancement Service prices will be increasing between 2.7 and 4.2 percent depending on the particular rate element, to ensure adequate cost coverage. Competitive Post Office Box prices will be increasing 6.5 percent on average, which is within the existing price ranges. Package Intercept Service will increase 3.9 percent, to $13.45.

II. International Products

A. Expedited Services

International expedited services include Global Express Guaranteed (GXG) and Priority Mail Express International (PMEI). Overall, GXG prices will rise by 3.9 percent, and PMEI will be subject to an overall 3.9 percent increase. Commercial Plus prices will be equivalent to Commercial Base; however, deeper discounting may still be made available to customers through negotiated service agreements.

B. Priority Mail International

The overall increase for Priority Mail International (PMI) will be 3.9 percent. Commercial Plus prices will be equivalent to Commercial Base; however, deeper discounting may still be made available to customers through negotiated service agreements.

C. International Priority Airmail and International Surface Air Lift

Published prices for International Priority Airmail (IPA) and International Surface Air Lift (ISAL) will increase by 3.9 percent, and published prices for IPA and ISAL M-Bags will increase by 3.9 percent.

D. Airmail M-Bags

The published prices for Airmail M-Bags will increase by 3.9 percent.

E. First-Class Package International ServiceTM

The overall increase for First-Class Package International Service (FCPIS) prices will be 3.9 percent. Commercial Plus prices will be equivalent to Commercial Base; however, deeper discounting will still be made available to customers through negotiated service agreements.

F. International Ancillary Services and Special Services

Prices for several international ancillary services and special services will be increased, with an overall increase of 3.9 percent.

Order

The changes in prices and classes set forth herein shall be effective at 12:01 A.M. on or about January 21, 2018. I direct the Secretary to have this decision published in the Federal Register at the appropriate time in accordance with 39 U.S.C. § 3632(b)(2), and direct management to simultaneously file with the Postal Regulatory Commission appropriate notice of these changes, unless this decision has been rescinded or superseded by a subsequent decision as described below. Further, this decision can be rescinded in the event any new Governor is confirmed by the Senate prior to the filing of the notice of adjustment described herein with the PRC, and a majority of the Governors then in office vote to do so, or if it is superseded by a subsequent Decision of the Governors.

By The Governors:

/s/

James H. Bilbray,

Chairman, Temporary Emergency Committee of the Board of Governors.

CERTIFICATION OF GOVERNORS' VOTE IN THE GOVERNORS' DECISION NO. 16-8

Consistent with 39 USC 3632(a), I hereby certify that the following Governors voted in favor of Governors' Decision No. 16-8:

James H. Bilbray

/s/

Date: November 14, 2016

Julie S. Moore,

Secretary of the Board of Governors.

Date: November 14, 2016

Decision of the Governors of the United States Postal Service on Changes in Rates of General Applicability for Competitive Products (Governors' Decision No. 16-10)

December 5, 2016

Statement of Explanation and Justification

Pursuant to authority under section 3632 of title 39, as amended by the Postal Accountability and Enhancement Act of 2006 (“PAEA”), I establish price changes for the Postal Service's shipping services (competitive products), specifically for First-Class Package Service. The price changes are described generally below, with a schedule of the new prices in the attachment.

After First-Class Mail Retail parcels have been transferred to the competitive product list, I hereby authorize the attached prices for the First-Class Package Service Retail parcels price category as a second price increase for this competitive product. These changes reflect a 14.5 percent average increase over the prices that are reflected in Governors' Decision 16-9.

The changes I establish should enable each competitive product to cover its attributable costs (39 U.S.C. § 3633(a)(2)) and should result in competitive products as a whole complying with 39 U.S.C. § 3633(a)(3), which, as implemented by 39 C.F.R. § 3015.7(c), requires competitive products collectively to contribute a minimum of 5.5 percent to the Postal Service's institutional costs. Accordingly, no issue of subsidization of competitive products by market dominant products should arise (39 U.S.C. § 3633(a)(1)). I therefore find that the new prices are in accordance with 39 U.S.C. §§ 3632-3633 and 39 C.F.R. § 3015.2.

Order

The changes in prices set forth herein shall be effective thirty (30) days after management has filed appropriate notice of these changes with the Postal Regulatory Commission (“Commission”). I direct the Secretary to have this decision published in the Federal Register in accordance with 39 U.S.C. § 3632(b)(2), and direct management to file with the Commission appropriate notice of these changes, unless this decision has been superseded by a subsequent decision. Further, this decision may be rescinded in the event any new Governor is confirmed by the Senate prior to the filing of the notice of adjustment with the Commission that is authorized herein, and a majority of Governors then in office vote to do so.

By The Governors:

/s/

James H. Bilbray,

Chairman, Temporary Emergency Committee of the Board of Governors.

CERTIFICATION OF GOVERNORS' VOTE IN THE GOVERNORS' DECISION NO. 16-10

Consistent with 39 USC 3632(a), I hereby certify that the following Governors voted in favor of Governors' Decision No. 16-10:

James H. Bilbray

/s/

Julie S. Moore,

Secretary of the Board of Governors.

Date: December 5, 2016

Part B

Competitive Products

2000 Competitive Product List

2100 Domestic Products

* * *

* * *

2105 Priority Mail Express

* * *

2105.6 Prices

Retail Priority Mail Express Zone/Weight
Maximum weight (pounds) | Local, zones 1 & 2 ($) | Zone 3 ($) | Zone 4 ($) | Zone 5 ($) | Zone 6 ($) | Zone 7 ($) | Zone 8 ($) | Zone 9 ($)
0.5 | 24.70 | 24.70 | 25.50 | 27.70 | 29.60 | 31.45 | 33.55 | 40.95
1 | 24.70 | 25.75 | 31.00 | 34.75 | 35.95 | 38.20 | 39.40 | 48.00
2 | 24.70 | 27.50 | 33.80 | 37.85 | 39.45 | 41.70 | 43.15 | 52.70
3 | 24.70 | 28.75 | 38.05 | 44.45 | 46.35 | 49.10 | 50.50 | 61.60
4 | 24.70 | 30.70 | 40.55 | 50.30 | 52.25 | 55.30 | 56.80 | 69.35
5 | 25.80 | 34.45 | 43.25 | 53.80 | 58.75 | 61.55 | 63.20 | 77.05
6 | 29.55 | 39.45 | 50.15 | 61.15 | 64.35 | 67.65 | 69.70 | 85.05
7 | 32.40 | 43.20 | 57.50 | 66.85 | 69.85 | 73.90 | 76.55 | 93.35
8 | 35.55 | 47.40 | 62.25 | 71.95 | 75.85 | 80.20 | 82.40 | 100.50
9 | 36.95 | 49.30 | 64.60 | 76.90 | 81.75 | 86.40 | 88.70 | 108.25
10 | 38.90 | 51.40 | 67.05 | 80.35 | 85.95 | 90.85 | 93.15 | 113.65
11 | 41.15 | 57.50 | 74.95 | 84.25 | 88.40 | 93.30 | 95.70 | 116.75
12 | 43.30 | 61.55 | 79.60 | 88.70 | 92.35 | 97.60 | 99.95 | 121.95
13 | 45.85 | 65.50 | 83.25 | 92.75 | 96.25 | 101.65 | 105.80 | 129.00
14 | 47.95 | 69.55 | 86.55 | 96.35 | 100.30 | 105.90 | 110.10 | 134.35
15 | 49.50 | 73.45 | 90.20 | 100.45 | 104.40 | 110.10 | 114.50 | 139.70
16 | 51.65 | 77.65 | 93.75 | 104.35 | 108.90 | 114.85 | 118.35 | 144.40
17 | 53.65 | 81.65 | 97.30 | 108.10 | 112.55 | 118.60 | 121.65 | 148.40
18 | 55.80 | 85.55 | 100.75 | 111.95 | 116.50 | 122.80 | 126.05 | 153.75
19 | 57.80 | 89.60 | 104.15 | 115.70 | 120.55 | 126.95 | 130.25 | 158.85
20 | 59.10 | 91.80 | 107.30 | 119.00 | 122.80 | 129.40 | 133.45 | 162.80
21 | 60.45 | 97.55 | 110.65 | 122.80 | 128.25 | 135.00 | 138.45 | 168.90
22 | 62.70 | 101.60 | 115.50 | 128.15 | 132.25 | 139.20 | 143.75 | 175.40
23 | 64.55 | 105.50 | 118.85 | 131.85 | 136.35 | 143.45 | 147.95 | 180.50
24 | 66.90 | 109.60 | 122.75 | 136.05 | 140.45 | 147.75 | 151.20 | 184.50
25 | 69.60 | 113.65 | 125.70 | 139.20 | 144.30 | 151.70 | 155.95 | 190.30
26 | 71.15 | 117.75 | 129.30 | 143.20 | 148.30 | 155.90 | 160.40 | 195.70
27 | 73.25 | 121.55 | 132.70 | 146.85 | 152.25 | 160.00 | 164.60 | 200.85
28 | 74.70 | 125.65 | 136.95 | 151.45 | 156.20 | 164.10 | 168.95 | 206.10
29 | 77.00 | 129.60 | 141.45 | 156.35 | 160.25 | 168.25 | 173.10 | 211.15
30 | 79.20 | 133.60 | 145.90 | 161.20 | 164.80 | 173.10 | 178.60 | 217.85
31 | 81.15 | 137.60 | 150.30 | 166.05 | 170.05 | 178.50 | 184.25 | 224.75
32 | 83.30 | 141.80 | 154.85 | 170.90 | 175.00 | 183.65 | 189.70 | 231.50
33 | 85.90 | 145.70 | 159.25 | 175.75 | 180.15 | 188.95 | 195.15 | 238.05
34 | 88.35 | 149.60 | 163.85 | 180.70 | 185.10 | 194.10 | 200.60 | 244.75
35 | 90.60 | 153.65 | 168.15 | 185.30 | 190.10 | 199.20 | 206.05 | 251.40
36 | 92.95 | 157.75 | 172.70 | 190.30 | 195.30 | 204.60 | 211.60 | 258.20
37 | 94.95 | 161.60 | 177.15 | 195.10 | 200.50 | 209.95 | 217.15 | 264.90
38 | 97.20 | 165.75 | 181.65 | 200.00 | 205.45 | 215.10 | 222.50 | 271.55
39 | 99.60 | 169.75 | 186.20 | 204.85 | 210.25 | 220.05 | 228.05 | 278.25
40 | 101.75 | 173.60 | 190.70 | 209.75 | 215.40 | 225.30 | 233.65 | 285.05
41 | 103.70 | 177.70 | 195.15 | 214.50 | 220.60 | 230.75 | 239.10 | 291.60
42 | 105.55 | 181.80 | 199.65 | 219.30 | 225.80 | 236.05 | 244.50 | 298.30
43 | 108.00 | 185.70 | 204.00 | 224.10 | 230.75 | 241.15 | 250.05 | 305.05
44 | 109.95 | 189.75 | 208.55 | 228.95 | 235.70 | 246.35 | 255.50 | 311.70
45 | 112.05 | 193.80 | 212.90 | 233.65 | 240.80 | 251.55 | 261.10 | 318.50
46 | 114.25 | 197.70 | 217.60 | 238.60 | 245.80 | 256.70 | 266.50 | 325.15
47 | 116.65 | 201.70 | 222.00 | 243.40 | 250.90 | 261.90 | 272.00 | 331.85
48 | 118.65 | 205.85 | 226.40 | 248.05 | 255.95 | 267.10 | 277.50 | 338.55
49 | 120.80 | 209.70 | 230.95 | 252.85 | 261.20 | 272.45 | 283.00 | 345.35
50 | 123.35 | 213.85 | 235.45 | 257.80 | 266.05 | 277.45 | 288.45 | 351.90
51 | 125.55 | 217.90 | 239.90 | 262.50 | 271.05 | 282.55 | 293.20 | 357.75
52 | 127.65 | 221.70 | 244.30 | 267.20 | 276.30 | 287.90 | 299.60 | 365.45
53 | 129.75 | 225.85 | 248.85 | 272.00 | 281.35 | 293.10 | 305.05 | 372.15
54 | 132.05 | 229.85 | 253.25 | 276.70 | 286.45 | 298.30 | 310.50 | 378.80
55 | 134.70 | 235.15 | 257.90 | 281.60 | 291.40 | 303.35 | 315.95 | 385.45
56 | 137.50 | 239.30 | 262.25 | 286.25 | 296.40 | 308.55 | 321.45 | 392.20
57 | 139.90 | 243.30 | 266.75 | 291.05 | 301.45 | 313.70 | 326.90 | 398.80
58 | 142.25 | 247.15 | 271.20 | 295.70 | 306.55 | 318.90 | 332.40 | 405.50
59 | 144.25 | 251.15 | 275.60 | 300.45 | 311.75 | 324.10 | 337.90 | 412.20
60 | 146.15 | 255.20 | 280.10 | 305.20 | 316.75 | 329.25 | 343.35 | 418.90
61 | 148.20 | 259.25 | 284.85 | 310.20 | 321.85 | 334.35 | 348.85 | 425.60
62 | 150.55 | 263.20 | 289.20 | 314.70 | 326.80 | 339.45 | 354.45 | 432.40
63 | 153.00 | 267.15 | 293.65 | 319.45 | 331.90 | 344.70 | 359.95 | 439.15
64 | 155.10 | 271.15 | 298.10 | 324.10 | 337.05 | 349.90 | 365.45 | 445.90
65 | 157.75 | 275.15 | 302.55 | 328.80 | 342.05 | 354.85 | 370.90 | 452.45
66 | 160.70 | 279.30 | 307.10 | 333.65 | 347.15 | 360.00 | 376.35 | 459.05
67 | 162.55 | 283.20 | 311.65 | 338.40 | 352.00 | 365.00 | 381.85 | 465.85
68 | 164.65 | 287.20 | 316.10 | 343.00 | 357.30 | 370.35 | 387.50 | 472.75
69 | 167.25 | 291.25 | 320.50 | 347.70 | 362.20 | 375.35 | 392.75 | 479.15
70 | 170.35 | 295.30 | 325.05 | 352.40 | 367.30 | 380.45 | 398.25 | 485.90

Retail Flat Rate Envelope
| ($)
Retail Regular Flat Rate Envelope, per piece | 24.70
Retail Legal Flat Rate Envelope, per piece | 24.90
Retail Padded Flat Rate Envelope, per piece | 25.40

Commercial Base Zone/Weight
Maximum weight (pounds) | Local, zones 1 & 2 ($) | Zone 3 ($) | Zone 4 ($) | Zone 5 ($) | Zone 6 ($) | Zone 7 ($) | Zone 8 ($) | Zone 9 ($)
0.5 | 21.98 | 21.98 | 22.69 | 24.66 | 26.39 | 28.02 | 29.87 | 36.44
1 | 21.98 | 22.94 | 27.63 | 30.93 | 32.03 | 33.99 | 35.04 | 42.76
2 | 21.98 | 24.48 | 30.12 | 33.70 | 35.09 | 37.15 | 38.45 | 46.92
3 | 21.98 | 25.62 | 33.86 | 38.78 | 40.46 | 42.86 | 44.05 | 53.72
4 | 21.98 | 27.29 | 36.10 | 43.86 | 45.58 | 48.26 | 49.55 | 60.47
5 | 22.98 | 30.64 | 38.49 | 46.92 | 51.23 | 53.67 | 55.12 | 67.22
6 | 26.22 | 34.99 | 44.49 | 53.18 | 55.95 | 58.82 | 60.63 | 73.95
7 | 28.74 | 38.34 | 50.98 | 58.15 | 60.78 | 64.25 | 66.55 | 81.21
8 | 31.56 | 42.06 | 55.24 | 62.53 | 65.97 | 69.75 | 71.66 | 87.42
9 | 32.80 | 43.73 | 57.29 | 66.89 | 71.09 | 75.14 | 77.15 | 94.14
10 | 34.52 | 45.59 | 59.48 | 69.89 | 74.76 | 79.01 | 81.02 | 98.82
11 | 35.94 | 50.24 | 65.48 | 73.62 | 77.24 | 81.57 | 83.64 | 102.04
12 | 37.87 | 53.77 | 69.58 | 77.52 | 80.72 | 85.29 | 87.36 | 106.59
13 | 40.08 | 57.26 | 72.78 | 81.06 | 84.10 | 88.81 | 92.44 | 112.76
14 | 41.92 | 60.78 | 75.64 | 84.21 | 87.64 | 92.54 | 96.24 | 117.41
15 | 43.27 | 64.16 | 78.84 | 87.78 | 91.21 | 96.24 | 100.11 | 122.12
16 | 45.16 | 67.83 | 81.94 | 91.16 | 95.17 | 100.38 | 103.45 | 126.22
17 | 46.91 | 71.36 | 85.05 | 94.51 | 98.37 | 103.68 | 106.37 | 129.74
18 | 48.79 | 74.76 | 88.06 | 97.85 | 101.79 | 107.35 | 110.17 | 134.41
19 | 50.52 | 78.28 | 91.07 | 101.14 | 105.33 | 110.97 | 113.84 | 138.87
20 | 52.68 | 81.81 | 95.58 | 106.08 | 109.42 | 115.30 | 118.92 | 145.08
21 | 53.87 | 86.93 | 98.59 | 109.42 | 114.26 | 120.33 | 123.39 | 150.53
22 | 55.88 | 90.56 | 102.92 | 114.17 | 117.89 | 124.06 | 128.14 | 156.33
23 | 57.54 | 94.04 | 105.93 | 117.50 | 121.51 | 127.85 | 131.86 | 160.88
24 | 59.65 | 97.65 | 109.38 | 121.23 | 125.18 | 131.67 | 134.78 | 164.41
25 | 62.05 | 101.29 | 112.01 | 124.06 | 128.57 | 135.19 | 139.01 | 169.58
26 | 63.41 | 104.90 | 115.25 | 127.63 | 132.18 | 138.96 | 142.96 | 174.43
27 | 65.25 | 108.34 | 118.26 | 130.87 | 135.67 | 142.58 | 146.72 | 178.99
28 | 66.57 | 111.96 | 122.03 | 135.01 | 139.20 | 146.26 | 150.58 | 183.70
29 | 68.64 | 115.49 | 126.03 | 139.33 | 142.82 | 149.92 | 154.26 | 188.16
30 | 70.57 | 119.07 | 130.02 | 143.66 | 146.92 | 154.26 | 159.14 | 194.15
31 | 72.31 | 122.64 | 133.93 | 147.99 | 151.57 | 159.05 | 164.17 | 200.30
32 | 74.23 | 126.35 | 137.98 | 152.28 | 155.98 | 163.66 | 169.07 | 206.28
33 | 76.54 | 129.83 | 141.93 | 156.61 | 160.56 | 168.36 | 173.91 | 212.15
34 | 78.74 | 133.32 | 146.02 | 161.07 | 164.98 | 172.97 | 178.75 | 218.08
35 | 80.77 | 136.94 | 149.83 | 165.17 | 169.40 | 177.53 | 183.65 | 224.06
36 | 82.84 | 140.55 | 153.91 | 169.58 | 174.06 | 182.33 | 188.59 | 230.08
37 | 84.63 | 144.04 | 157.87 | 173.86 | 178.66 | 187.09 | 193.52 | 236.10
38 | 86.61 | 147.70 | 161.87 | 178.25 | 183.08 | 191.69 | 198.33 | 241.97
39 | 88.77 | 151.29 | 165.92 | 182.52 | 187.37 | 196.12 | 203.26 | 248.00
40 | 90.66 | 154.72 | 169.97 | 186.94 | 191.93 | 200.82 | 208.20 | 254.02
41 | 92.44 | 158.40 | 173.91 | 191.17 | 196.59 | 205.66 | 213.05 | 259.91
42 | 94.08 | 162.01 | 177.91 | 195.46 | 201.19 | 210.36 | 217.89 | 265.83
43 | 96.24 | 165.49 | 181.82 | 199.69 | 205.66 | 214.94 | 222.84 | 271.85
44 | 97.99 | 169.12 | 185.87 | 204.02 | 210.08 | 219.54 | 227.68 | 277.78
45 | 99.88 | 172.73 | 189.72 | 208.20 | 214.60 | 224.19 | 232.67 | 283.85
46 | 101.84 | 176.18 | 193.96 | 212.67 | 219.08 | 228.77 | 237.51 | 289.77
47 | 103.96 | 179.79 | 197.85 | 216.92 | 223.59 | 233.41 | 242.41 | 295.75
48 | 105.75 | 183.46 | 201.76 | 221.04 | 228.10 | 238.03 | 247.30 | 301.72
49 | 107.63 | 186.90 | 205.81 | 225.33 | 232.76 | 242.82 | 252.23 | 307.74
50 | 109.94 | 190.56 | 209.86 | 229.75 | 237.09 | 247.25 | 257.08 | 313.63
51 | 111.86 | 194.19 | 213.81 | 233.94 | 241.56 | 251.82 | 261.32 | 318.80
52 | 113.80 | 197.57 | 217.70 | 238.12 | 246.22 | 256.56 | 266.96 | 325.71
53 | 115.63 | 201.25 | 221.80 | 242.41 | 250.73 | 261.22 | 271.85 | 331.63
54 | 117.70 | 204.87 | 225.70 | 246.59 | 255.24 | 265.83 | 276.70 | 337.57
55 | 120.05 | 209.57 | 229.84 | 250.97 | 259.71 | 270.35 | 281.54 | 343.50
56 | 122.54 | 213.24 | 233.75 | 255.11 | 264.18 | 274.96 | 286.48 | 349.51
57 | 124.66 | 216.81 | 237.74 | 259.38 | 268.65 | 279.56 | 291.33 | 355.40
58 | 126.78 | 220.25 | 241.69 | 263.52 | 273.21 | 284.18 | 296.22 | 361.37
59 | 128.52 | 223.82 | 245.65 | 267.75 | 277.83 | 288.83 | 301.11 | 367.34
60 | 130.27 | 227.40 | 249.65 | 271.99 | 282.30 | 293.40 | 306.01 | 373.31
61 | 132.09 | 231.06 | 253.83 | 276.41 | 286.81 | 297.96 | 310.89 | 379.30
62 | 134.16 | 234.54 | 257.69 | 280.45 | 291.24 | 302.47 | 315.88 | 385.36
63 | 136.37 | 238.08 | 261.69 | 284.69 | 295.79 | 307.18 | 320.82 | 391.37
64 | 138.20 | 241.65 | 265.64 | 288.83 | 300.36 | 311.78 | 325.71 | 397.36
65 | 140.55 | 245.23 | 269.60 | 293.02 | 304.83 | 316.26 | 330.51 | 403.24
66 | 143.19 | 248.90 | 273.69 | 297.35 | 309.34 | 320.87 | 335.36 | 409.11
67 | 144.85 | 252.37 | 277.73 | 301.59 | 313.72 | 325.29 | 340.30 | 415.14
68 | 146.76 | 255.96 | 281.68 | 305.67 | 318.43 | 330.09 | 345.33 | 421.30
69 | 149.08 | 259.57 | 285.63 | 309.86 | 322.80 | 334.51 | 349.99 | 426.99
70 | 151.80 | 263.15 | 289.68 | 314.04 | 327.36 | 339.07 | 354.93 | 433.01

Commercial Base Flat Rate Envelope
| ($)
Commercial Base Regular Flat Rate Envelope, per piece | 21.98
Commercial Base Legal Flat Rate Envelope, per piece | 22.09
Commercial Base Padded Flat Rate Envelope, per piece | 22.46

Commercial Plus Zone/Weight
Maximum weight (pounds) | Local, zones 1 & 2 ($) | Zone 3 ($) | Zone 4 ($) | Zone 5 ($) | Zone 6 ($) | Zone 7 ($) | Zone 8 ($) | Zone 9 ($)
0.5 | 21.98 | 21.98 | 22.69 | 24.66 | 26.39 | 28.02 | 29.87 | 36.44
1 | 21.98 | 22.94 | 27.63 | 30.93 | 32.03 | 33.99 | 35.04 | 42.76
2 | 21.98 | 24.48 | 30.12 | 33.70 | 35.09 | 37.15 | 38.45 | 46.92
3 | 21.98 | 25.62 | 33.86 | 38.78 | 40.46 | 42.86 | 44.05 | 53.72
4 | 21.98 | 27.29 | 36.10 | 43.86 | 45.58 | 48.26 | 49.55 | 60.47
5 | 22.98 | 30.64 | 38.49 | 46.92 | 51.23 | 53.67 | 55.12 | 67.22
6 | 26.22 | 34.99 | 44.49 | 53.18 | 55.95 | 58.82 | 60.63 | 73.95
7 | 28.74 | 38.34 | 50.98 | 58.15 | 60.78 | 64.25 | 66.55 | 81.21
8 | 31.56 | 42.06 | 55.24 | 62.53 | 65.97 | 69.75 | 71.66 | 87.42
9 | 32.80 | 43.73 | 57.29 | 66.89 | 71.09 | 75.14 | 77.15 | 94.14
10 | 34.52 | 45.59 | 59.48 | 69.89 | 74.76 | 79.01 | 81.02 | 98.82
11 | 35.94 | 50.24 | 65.48 | 73.62 | 77.24 | 81.57 | 83.64 | 102.04
12 | 37.87 | 53.77 | 69.58 | 77.52 | 80.72 | 85.29 | 87.36 | 106.59
13 | 40.08 | 57.26 | 72.78 | 81.06 | 84.10 | 88.81 | 92.44 | 112.76
14 | 41.92 | 60.78 | 75.64 | 84.21 | 87.64 | 92.54 | 96.24 | 117.41
15 | 43.27 | 64.16 | 78.84 | 87.78 | 91.21 | 96.24 | 100.11 | 122.12
16 | 45.16 | 67.83 | 81.94 | 91.16 | 95.17 | 100.38 | 103.45 | 126.22
17 | 46.91 | 71.36 | 85.05 | 94.51 | 98.37 | 103.68 | 106.37 | 129.74
18 | 48.79 | 74.76 | 88.06 | 97.85 | 101.79 | 107.35 | 110.17 | 134.41
19 | 50.52 | 78.28 | 91.07 | 101.14 | 105.33 | 110.97 | 113.84 | 138.87
20 | 52.68 | 81.81 | 95.58 | 106.08 | 109.42 | 115.30 | 118.92 | 145.08
21 | 53.87 | 86.93 | 98.59 | 109.42 | 114.26 | 120.33 | 123.39 | 150.53
22 | 55.88 | 90.56 | 102.92 | 114.17 | 117.89 | 124.06 | 128.14 | 156.33
23 | 57.54 | 94.04 | 105.93 | 117.50 | 121.51 | 127.85 | 131.86 | 160.88
24 | 59.65 | 97.65 | 109.38 | 121.23 | 125.18 | 131.67 | 134.78 | 164.41
25 | 62.05 | 101.29 | 112.01 | 124.06 | 128.57 | 135.19 | 139.01 | 169.58
26 | 63.41 | 104.90 | 115.25 | 127.63 | 132.18 | 138.96 | 142.96 | 174.43
27 | 65.25 | 108.34 | 118.26 | 130.87 | 135.67 | 142.58 | 146.72 | 178.99
28 | 66.57 | 111.96 | 122.03 | 135.01 | 139.20 | 146.26 | 150.58 | 183.70
29 | 68.64 | 115.49 | 126.03 | 139.33 | 142.82 | 149.92 | 154.26 | 188.16
30 | 70.57 | 119.07 | 130.02 | 143.66 | 146.92 | 154.26 | 159.14 | 194.15
31 | 72.31 | 122.64 | 133.93 | 147.99 | 151.57 | 159.05 | 164.17 | 200.30
32 | 74.23 | 126.35 | 137.98 | 152.28 | 155.98 | 163.66 | 169.07 | 206.28
33 | 76.54 | 129.83 | 141.93 | 156.61 | 160.56 | 168.36 | 173.91 | 212.15
34 | 78.74 | 133.32 | 146.02 | 161.07 | 164.98 | 172.97 | 178.75 | 218.08
35 | 80.77 | 136.94 | 149.83 | 165.17 | 169.40 | 177.53 | 183.65 | 224.06
36 | 82.84 | 140.55 | 153.91 | 169.58 | 174.06 | 182.33 | 188.59 | 230.08
37 | 84.63 | 144.04 | 157.87 | 173.86 | 178.66 | 187.09 | 193.52 | 236.10
38 | 86.61 | 147.70 | 161.87 | 178.25 | 183.08 | 191.69 | 198.33 | 241.97
39 | 88.77 | 151.29 | 165.92 | 182.52 | 187.37 | 196.12 | 203.26 | 248.00
40 | 90.66 | 154.72 | 169.97 | 186.94 | 191.93 | 200.82 | 208.20 | 254.02
41 | 92.44 | 158.40 | 173.91 | 191.17 | 196.59 | 205.66 | 213.05 | 259.91
42 | 94.08 | 162.01 | 177.91 | 195.46 | 201.19 | 210.36 | 217.89 | 265.83
43 | 96.24 | 165.49 | 181.82 | 199.69 | 205.66 | 214.94 | 222.84 | 271.85
44 | 97.99 | 169.12 | 185.87 | 204.02 | 210.08 | 219.54 | 227.68 | 277.78
45 | 99.88 | 172.73 | 189.72 | 208.20 | 214.60 | 224.19 | 232.67 | 283.85
46 | 101.84 | 176.18 | 193.96 | 212.67 | 219.08 | 228.77 | 237.51 | 289.77
47 | 103.96 | 179.79 | 197.85 | 216.92 | 223.59 | 233.41 | 242.41 | 295.75
48 | 105.75 | 183.46 | 201.76 | 221.04 | 228.10 | 238.03 | 247.30 | 301.72
49 | 107.63 | 186.90 | 205.81 | 225.33 | 232.76 | 242.82 | 252.23 | 307.74
50 | 109.94 | 190.56 | 209.86 | 229.75 | 237.09 | 247.25 | 257.08 | 313.63
51 | 111.86 | 194.19 | 213.81 | 233.94 | 241.56 | 251.82 | 261.32 | 318.80
52 | 113.80 | 197.57 | 217.70 | 238.12 | 246.22 | 256.56 | 266.96 | 325.71
53 | 115.63 | 201.25 | 221.80 | 242.41 | 250.73 | 261.22 | 271.85 | 331.63
54 | 117.70 | 204.87 | 225.70 | 246.59 | 255.24 | 265.83 | 276.70 | 337.57
55 | 120.05 | 209.57 | 229.84 | 250.97 | 259.71 | 270.35 | 281.54 | 343.50
56 | 122.54 | 213.24 | 233.75 | 255.11 | 264.18 | 274.96 | 286.48 | 349.51
57 | 124.66 | 216.81 | 237.74 | 259.38 | 268.65 | 279.56 | 291.33 | 355.40
58 | 126.78 | 220.25 | 241.69 | 263.52 | 273.21 | 284.18 | 296.22 | 361.37
59 | 128.52 | 223.82 | 245.65 | 267.75 | 277.83 | 288.83 | 301.11 | 367.34
60 | 130.27 | 227.40 | 249.65 | 271.99 | 282.30 | 293.40 | 306.01 | 373.31
61 | 132.09 | 231.06 | 253.83 | 276.41 | 286.81 | 297.96 | 310.89 | 379.30
62 | 134.16 | 234.54 | 257.69 | 280.45 | 291.24 | 302.47 | 315.88 | 385.36
63 | 136.37 | 238.08 | 261.69 | 284.69 | 295.79 | 307.18 | 320.82 | 391.37
64 | 138.20 | 241.65 | 265.64 | 288.83 | 300.36 | 311.78 | 325.71 | 397.36
65 | 140.55 | 245.23 | 269.60 | 293.02 | 304.83 | 316.26 | 330.51 | 403.24
66 | 143.19 | 248.90 | 273.69 | 297.35 | 309.34 | 320.87 | 335.36 | 409.11
67 | 144.85 | 252.37 | 277.73 | 301.59 | 313.72 | 325.29 | 340.30 | 415.14
68 | 146.76 | 255.96 | 281.68 | 305.67 | 318.43 | 330.09 | 345.33 | 421.30
69 | 149.08 | 259.57 | 285.63 | 309.86 | 322.80 | 334.51 | 349.99 | 426.99
70 | 151.80 | 263.15 | 289.68 | 314.04 | 327.36 | 339.07 | 354.93 | 433.01

Commercial Plus Flat Rate Envelope
| ($)
Commercial Plus Regular Flat Rate Envelope, per piece | 21.98
Commercial Plus Legal Flat Rate Envelope, per piece | 22.09
Commercial Plus Padded Flat Rate Envelope, per piece | 22.46

Pickup On Demand Service

Add $22.00 for each Pickup On Demand stop.

Sunday/Holiday Delivery

Add $12.50 for requesting Sunday or holiday delivery.

10:30 am Delivery

Add $5.00 for requesting delivery by 10:30 am.

IMpb Noncompliance Fee

Add $0.20 for each IMpb-noncompliant parcel paying commercial prices.

2110 Priority Mail

* * *

2110.6 Prices

Retail Priority Mail Zone/Weight
Maximum weight (pounds) | Local, zones 1 & 2 ($) | Zone 3 ($) | Zone 4 ($) | Zone 5 ($) | Zone 6 ($) | Zone 7 ($) | Zone 8 ($) | Zone 9 ($)
1 | 6.70 | 7.15 | 7.30 | 7.45 | 7.60 | 7.85 | 8.45 | 10.60
2 | 7.25 | 7.70 | 8.75 | 9.85 | 10.65 | 11.80 | 12.90 | 16.85
3 | 7.90 | 8.80 | 10.15 | 11.75 | 13.35 | 14.65 | 17.30 | 22.55
4 | 8.50 | 9.90 | 11.15 | 13.50 | 16.45 | 18.00 | 20.05 | 26.15
5 | 9.85 | 10.95 | 11.95 | 14.15 | 18.70 | 20.65 | 23.15 | 30.25
6 | 10.40 | 11.30 | 12.50 | 15.10 | 20.80 | 22.40 | 25.25 | 34.15
7 | 11.10 | 12.15 | 14.30 | 18.05 | 23.05 | 25.15 | 28.45 | 38.40
8 | 11.45 | 13.50 | 15.90 | 20.95 | 25.25 | 27.80 | 31.80 | 42.95
9 | 11.90 | 14.55 | 17.60 | 23.90 | 27.50 | 30.05 | 35.40 | 47.80
10 | 12.65 | 15.60 | 18.95 | 25.95 | 29.70 | 33.05 | 38.60 | 52.10
11 | 13.50 | 16.70 | 20.35 | 28.00 | 31.90 | 36.50 | 42.35 | 57.65
12 | 14.70 | 17.90 | 21.85 | 30.00 | 34.70 | 39.45 | 45.45 | 61.85
13 | 15.55 | 19.00 | 23.10 | 31.70 | 37.25 | 41.05 | 47.10 | 64.10
14 | 16.50 | 20.20 | 24.55 | 33.70 | 39.30 | 43.35 | 49.45 | 67.30
15 | 17.20 | 21.30 | 25.95 | 35.65 | 41.00 | 44.30 | 50.80 | 69.20
16 | 17.70 | 22.45 | 27.35 | 37.65 | 43.30 | 46.75 | 53.65 | 73.00
17 | 18.50 | 23.65 | 28.80 | 39.60 | 45.50 | 49.25 | 56.45 | 76.85
18 | 18.85 | 24.50 | 30.00 | 41.55 | 47.90 | 51.65 | 59.35 | 80.80
19 | 19.35 | 25.05 | 30.70 | 42.70 | 48.85 | 52.75 | 60.60 | 84.60
20 | 20.20 | 25.35 | 31.15 | 43.40 | 50.00 | 54.65 | 63.40 | 88.50
21 | 20.85 | 25.70 | 31.60 | 44.05 | 50.85 | 55.55 | 64.85 | 91.25
22 | 21.35 | 26.30 | 32.35 | 45.10 | 52.00 | 56.90 | 66.40 | 93.50
23 | 21.85 | 26.80 | 32.90 | 45.85 | 52.95 | 58.00 | 67.60 | 95.15
24 | 22.35 | 27.35 | 33.65 | 46.85 | 54.05 | 59.45 | 69.25 | 97.50
25 | 22.55 | 27.85 | 35.00 | 47.65 | 54.75 | 60.95 | 70.40 | 99.10
26 | 23.50 | 28.35 | 36.35 | 48.60 | 56.10 | 62.45 | 72.65 | 102.25
27 | 24.20 | 28.75 | 37.45 | 49.55 | 56.90 | 63.90 | 75.35 | 106.10
28 | 24.95 | 29.15 | 38.55 | 50.80 | 57.65 | 65.35 | 78.20 | 110.10
29 | 25.70 | 29.45 | 39.50 | 51.55 | 58.65 | 66.85 | 80.30 | 113.05
30 | 26.45 | 29.85 | 40.45 | 52.25 | 60.25 | 68.40 | 82.05 | 115.50
31 | 27.25 | 30.15 | 41.10 | 52.95 | 61.15 | 69.85 | 83.70 | 118.80
32 | 27.55 | 30.80 | 41.80 | 53.55 | 61.95 | 71.35 | 85.40 | 121.20
33 | 28.00 | 31.65 | 42.85 | 54.25 | 63.15 | 72.85 | 87.00 | 123.50
34 | 28.25 | 32.50 | 43.90 | 55.40 | 64.60 | 74.35 | 88.65 | 125.80
35 | 28.55 | 33.30 | 44.50 | 56.60 | 66.35 | 75.80 | 90.10 | 127.90
36 | 28.85 | 34.20 | 45.10 | 57.80 | 68.05 | 76.85 | 91.70 | 130.10
37 | 29.15 | 34.85 | 45.75 | 58.85 | 69.80 | 77.85 | 93.20 | 132.25
38 | 29.45 | 35.70 | 46.35 | 60.00 | 71.75 | 78.80 | 94.70 | 134.40
39 | 29.75 | 36.50 | 46.90 | 61.25 | 73.50 | 80.80 | 96.10 | 136.40
40 | 30.10 | 37.30 | 47.55 | 62.55 | 74.65 | 82.65 | 97.45 | 138.30
41 | 30.40 | 38.00 | 48.05 | 63.15 | 75.85 | 84.40 | 98.85 | 141.40
42 | 30.65 | 38.70 | 48.60 | 64.50 | 77.20 | 85.50 | 100.20 | 143.35
43 | 31.00 | 39.30 | 49.05 | 65.95 | 79.10 | 86.60 | 101.45 | 145.15
44 | 31.20 | 39.95 | 49.65 | 67.30 | 80.35 | 87.60 | 102.65 | 146.90
45 | 31.40 | 40.40 | 50.00 | 68.85 | 81.20 | 88.60 | 103.95 | 148.75
46 | 31.65 | 40.70 | 50.55 | 70.10 | 82.10 | 89.55 | 105.20 | 150.55
47 | 31.95 | 41.05 | 51.00 | 71.70 | 83.00 | 90.55 | 106.35 | 152.15
48 | 32.20 | 41.40 | 51.50 | 73.10 | 84.10 | 91.40 | 107.50 | 153.80
49 | 32.40 | 41.70 | 51.90 | 74.45 | 85.20 | 92.35 | 108.60 | 155.35
50 | 32.55 | 41.95 | 52.25 | 75.90 | 86.35 | 93.55 | 109.70
51 | 32.70 | 42.35 | 52.75 | 77.15 | 87.55 | 94.90 | 110.70 | 159.65
52 | 33.10 | 42.60 | 53.10 | 77.80 | 88.45 | 96.30 | 112.00 | 161.60
53 | 33.65 | 42.90 | 53.45 | 78.40 | 89.20 | 97.85 | 113.45 | 163.70
54 | 34.10 | 43.10 | 53.80 | 79.05 | 89.85 | 99.30 | 115.10 | 165.95
55 | 34.70 | 43.40 | 54.10 | 79.60 | 90.55 | 100.85 | 116.60 | 168.20
56 | 35.15 | 43.65 | 54.40 | 80.15 | 91.15 | 102.30 | 117.70 | 169.75
57 | 35.65 | 43.80 | 54.75 | 80.60 | 91.85 | 103.85 | 118.55 | 171.00
58 | 36.25 | 44.00 | 55.05 | 81.15 | 92.35 | 105.25 | 119.45 | 172.25
59 | 36.80 | 44.20 | 55.35 | 81.65 | 92.90 | 105.90 | 120.40 | 173.65
60 | 37.30 | 44.40 | 55.90 | 82.05 | 93.40 | 106.55 | 121.15 | 174.80
61 | 37.85 | 44.60 | 56.90 | 82.45 | 93.90 | 107.15 | 122.80 | 177.20
62 | 38.25 | 44.70 | 57.60 | 82.90 | 94.40 | 107.65 | 124.80 | 180.00
63 | 39.00 | 44.95 | 58.55 | 83.30 | 94.90 | 108.15 | 126.80 | 182.90
64 | 39.35 | 45.05 | 59.40 | 83.65 | 95.25 | 108.70 | 128.70 | 185.65
65 | 39.90 | 45.15 | 60.20 | 83.95 | 95.60 | 109.20 | 130.75 | 188.60
66 | 40.40 | 45.35 | 61.15 | 84.35 | 96.05 | 109.55 | 132.60 | 191.30
67 | 41.05 | 45.45 | 62.20 | 84.65 | 96.35 | 110.00 | 134.35 | 193.80
68 | 41.55 | 45.55 | 63.00 | 84.85 | 97.55 | 110.40 | 135.80 | 195.90
69 | 42.10 | 45.60 | 63.75 | 85.05 | 98.75 | 110.70 | 137.25 | 197.95
70 | 42.55 | 45.70 | 64.80 | 85.35 | 99.95 | 111.10 | 138.75 | 200.10

Retail Flat Rate Envelopes ¹
| ($)
Retail Regular Flat Rate Envelope, per piece | 6.70
Retail Legal Flat Rate Envelope, per piece | 7.00
Retail Padded Flat Rate Envelope, per piece | 7.25
Notes
1. The price for Regular, Legal, or Padded Flat Rate Envelopes also applies to sales of Regular, Legal, or Padded Flat Rate Envelopes, respectively, marked with Forever postage, at the time the envelopes are purchased.

Retail Flat Rate Boxes ¹
Size | Delivery to domestic address ($) | Delivery to APO/FPO/DPO address ($)
Small Flat Rate Box | 7.20 | 7.20
Medium Flat Rate Boxes | 13.65 | 13.65
Large Flat Rate Boxes | 18.90 | 17.40
Notes
1. The price for Small, Medium, or Large Flat Rate Boxes also applies to sales of Small, Medium, or Large Flat Rate Boxes, respectively, marked with Forever postage, at the time the boxes are purchased.

Regional Rate Boxes
Size | Local, Zones 1 & 2 ($) | Zone 3 ($) | Zone 4 ($) | Zone 5 ($) | Zone 6 ($) | Zone 7 ($) | Zone 8 ($) | Zone 9 ($)
A | 9.35 | 9.50 | 9.65 | 10.40 | 11.72 | 12.54 | 13.05 | 17.58
B | 9.66 | 10.67 | 11.62 | 12.90 | 18.40 | 20.72 | 23.28 | 31.40

Retail Balloon Price

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Base Priority Mail Zone/Weight
Maximum weight (pounds) | Local, zones 1 & 2 ($) | Zone 3 ($) | Zone 4 ($) | Zone 5 ($) | Zone 6 ($) | Zone 7 ($) | Zone 8 ($) | Zone 9 ($)
1 | 6.55 | 7.00 | 7.10 | 7.20 | 7.35 | 7.50 | 7.76 | 10.02
2 | 7.10 | 7.25 | 7.40 | 8.15 | 9.47 | 10.29 | 10.80 | 15.33
3 | 7.20 | 7.68 | 8.47 | 9.26 | 12.16 | 13.15 | 15.34 | 20.80
4 | 7.31 | 8.05 | 8.69 | 10.34 | 14.18 | 16.07 | 18.15 | 25.05
5 | 7.41 | 8.42 | 9.37 | 10.65 | 16.15 | 18.47 | 21.03 | 29.15
6 | 7.52 | 8.79 | 9.71 | 14.20 | 18.12 | 21.05 | 24.07 | 33.40
7 | 8.04 | 9.64 | 10.04 | 15.60 | 20.07 | 23.74 | 27.04 | 37.51
8 | 8.49 | 9.93 | 11.33 | 17.36 | 22.05 | 26.13 | 30.36 | 42.11
9 | 8.72 | 10.21 | 11.41 | 18.62 | 23.99 | 28.30 | 33.75 | 46.82
10 | 9.23 | 10.49 | 11.46 | 20.11 | 25.91 | 31.12 | 36.71 | 50.92
11 | 10.78 | 12.91 | 13.83 | 21.54 | 27.81 | 33.87 | 39.76 | 55.63
12 | 11.44 | 13.73 | 16.10 | 23.06 | 30.33 | 36.62 | 42.65 | 59.65
13 | 12.04 | 14.51 | 16.86 | 24.28 | 32.56 | 38.10 | 44.16 | 61.77
14 | 12.66 | 15.31 | 17.75 | 25.71 | 34.38 | 40.22 | 46.35 | 64.83
15 | 13.15 | 16.11 | 18.62 | 27.03 | 35.71 | 40.99 | 47.57 | 66.55
16 | 13.60 | 16.97 | 19.63 | 28.37 | 37.74 | 43.30 | 50.19 | 70.21
17 | 14.03 | 17.75 | 20.57 | 29.75 | 39.65 | 45.55 | 52.85 | 73.90
18 | 14.30 | 18.30 | 21.49 | 31.09 | 41.75 | 47.79 | 55.50 | 77.64
19 | 14.64 | 18.73 | 21.98 | 31.91 | 43.62 | 50.02 | 58.13 | 81.31
20 | 15.22 | 19.02 | 22.43 | 32.49 | 44.75 | 51.89 | 60.82 | 85.06
21 | 15.88 | 19.48 | 22.94 | 33.07 | 45.11 | 52.37 | 61.60 | 86.88
22 | 16.38 | 20.00 | 23.72 | 33.73 | 45.41 | 52.78 | 62.31 | 87.89
23 | 16.87 | 20.48 | 24.27 | 34.34 | 45.67 | 53.15 | 62.69 | 88.41
24 | 17.56 | 21.34 | 25.66 | 35.70 | 46.63 | 54.53 | 64.21 | 90.57
25 | 18.24 | 22.11 | 27.27 | 36.89 | 47.31 | 55.89 | 65.33 | 92.13
26 | 19.33 | 23.71 | 30.13 | 38.86 | 48.46 | 57.26 | 67.37 | 95.01
27 | 20.49 | 24.76 | 31.97 | 42.36 | 49.12 | 58.60 | 69.90 | 98.61
28 | 21.12 | 25.10 | 32.87 | 43.46 | 49.78 | 59.97 | 72.53 | 102.30
29 | 21.76 | 25.35 | 33.75 | 44.04 | 50.62 | 61.34 | 74.48 | 105.03
30 | 22.41 | 25.73 | 34.56 | 44.65 | 52.04 | 62.69 | 76.08 | 107.30
31 | 23.03 | 25.97 | 35.09 | 45.21 | 52.79 | 64.07 | 77.64 | 110.39
32 | 23.30 | 26.52 | 35.68 | 45.74 | 53.49 | 65.45 | 79.22 | 112.64
33 | 23.66 | 27.25 | 36.57 | 46.34 | 54.52 | 66.79 | 80.68 | 114.72
34 | 23.88 | 27.97 | 37.49 | 47.34 | 55.81 | 68.18 | 82.20 | 116.89
35 | 24.15 | 28.64 | 38.03 | 48.34 | 57.30 | 69.54 | 83.61 | 118.88
36 | 24.45 | 29.46 | 38.53 | 49.39 | 58.75 | 70.49 | 85.02 | 120.91
37 | 24.71 | 30.01 | 39.09 | 50.27 | 60.28 | 71.38 | 86.41 | 122.90
38 | 24.94 | 30.74 | 39.58 | 51.27 | 61.97 | 72.21 | 87.79 | 124.86
39 | 25.19 | 31.45 | 40.04 | 52.33 | 63.43 | 74.11 | 89.16 | 126.79
40 | 25.45 | 32.12 | 40.55 | 53.42 | 64.45 | 75.76 | 90.37 | 128.51
41 | 25.73 | 32.66 | 40.98 | 53.90 | 65.54 | 77.38 | 91.68 | 131.40
42 | 25.91 | 32.90 | 41.35 | 54.80 | 66.69 | 78.44 | 92.92 | 133.20
43 | 26.21 | 33.14 | 41.72 | 55.71 | 68.28 | 79.41 | 94.12 | 134.90
44 | 26.39 | 33.38 | 42.08 | 56.61 | 69.37 | 80.35 | 95.18 | 136.46
45 | 26.56 | 33.62 | 42.45 | 57.52 | 70.14 | 81.23 | 96.38 | 138.18
46 | 26.79 | 33.86 | 42.81 | 58.42 | 70.92 | 82.10 | 97.54 | 139.82
47 | 27.00 | 34.10 | 43.18 | 59.33 | 71.66 | 83.04 | 98.63 | 141.39
48 | 27.22 | 34.34 | 43.54 | 60.23 | 72.58 | 83.83 | 99.68 | 142.92
49 | 27.43 | 34.58 | 43.91 | 61.14 | 73.57 | 84.71 | 100.69 | 144.32
50 | 27.54 | 34.82 | 44.27 | 62.04 | 74.60 | 85.78 | 101.74 | 145.86
51 | 27.94 | 35.06 | 44.64 | 63.10 | 75.62 | 87.01 | 102.69 | 148.40
52 | 28.37 | 35.30 | 45.00 | 63.54 | 76.36 | 88.32 | 103.90 | 150.13
53 | 28.89 | 35.54 | 45.37 | 64.06 | 77.01 | 89.77 | 105.23 | 152.05
54 | 29.31 | 35.78 | 45.73 | 64.62 | 77.55 | 91.06 | 106.71 | 154.19
55 | 29.77 | 36.02 | 46.10 | 65.03 | 78.19 | 92.50 | 108.14 | 156.25
56 | 30.18 | 36.26 | 46.46 | 65.51 | 78.72 | 93.80 | 109.24 | 157.87
57 | 30.67 | 36.50 | 46.83 | 65.91 | 79.31 | 95.23 | 110.21 | 159.28
58 | 31.12 | 36.74 | 47.19 | 66.32 | 79.77 | 96.49 | 111.12 | 160.57
59 | 31.57 | 36.98 | 47.56 | 66.73 | 80.24 | 97.15 | 111.94 | 161.77
60 | 31.97 | 37.22 | 47.92 | 67.09 | 80.64 | 97.72 | 112.74 | 162.91
61 | 32.48 | 37.46 | 48.29 | 67.43 | 81.08 | 98.28 | 114.25 | 165.12
62 | 32.88 | 37.70 | 48.65 | 67.73 | 81.46 | 98.72 | 116.07 | 167.73
63 | 33.47 | 37.94 | 49.02 | 68.08 | 81.93 | 99.20 | 117.93 | 170.41
64 | 33.76 | 38.18 | 49.38 | 68.38 | 82.29 | 99.65 | 119.74 | 173.04
65 | 34.26 | 38.42 | 49.75 | 68.60 | 82.53 | 100.14 | 121.61 | 175.75
66 | 34.71 | 38.66 | 50.11 | 68.91 | 82.95 | 100.44 | 123.38 | 178.30
67 | 35.23 | 38.90 | 50.96 | 69.16 | 83.22 | 100.85 | 125.02 | 180.65
68 | 35.64 | 39.14 | 51.61 | 69.34 | 84.25 | 101.37 | 126.34 | 182.57
69 | 36.13 | 39.38 | 52.26 | 69.55 | 85.26 | 101.85 | 127.68 | 184.52
70 | 36.50 | 39.62 | 53.08 | 69.77 | 86.29 | 102.22 | 129.05 | 186.49

Commercial Base Flat Rate Envelope
| ($)
Commercial Base Regular Flat Rate Envelope, per piece | 6.55
Commercial Base Legal Flat Rate Envelope, per piece | 6.85
Commercial Base Padded Flat Rate Envelope, per piece | 7.10

Commercial Base Flat Rate Box
Size | Delivery to domestic address ($) | Delivery to APO/FPO/DPO address ($) |  |
Small Flat Rate Box | 7.05 | 7.05
Regular Flat Rate Boxes | 12.85 | 12.85
Large Flat Rate Boxes | 17.65 | 16.15

Commercial Base Regional Rate Boxes
Size | Local, zones 1 & 2 ($) | Zone 3 ($) | Zone 4 ($) | Zone 5 ($) | Zone 6 ($) | Zone 7 ($) | Zone 8 ($) | Zone 9 ($)
A | 7.10 | 7.25 | 7.40 | 8.15 | 9.47 | 10.29 | 10.80 | 15.33
B | 7.41 | 8.42 | 9.37 | 10.65 | 16.15 | 18.47 | 21.03 | 29.15

Commercial Base Balloon Price

In Zones 1-4 (including local), parcels weighing less than 20 pounds but measuring more than 84 inches in combined length and girth (but not more than 108 inches) are charged the applicable price for a 20-pound parcel.

Commercial Base Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Plus Priority Mail Zone/Weight
Maximum weight (pounds) | Local, zones 1 & 2 ($) | Zone 3 ($) | Zone 4 ($) | Zone 5 $) | Zone 6 ($) | Zone 7 ($) | Zone 8 ($) | Zone 9 ($)
0.5 | 6.35 | 6.79 | 6.89 | 6.98 | 7.13 | 7.28 | 7.53 | 9.72
1 | 6.35 | 6.79 | 6.89 | 6.98 | 7.13 | 7.28 | 7.53 | 9.72
2 | 6.89 | 7.03 | 7.18 | 7.91 | 9.19 | 9.98 | 10.48 | 14.87
3 | 6.98 | 7.45 | 8.22 | 8.98 | 11.80 | 12.76 | 14.88 | 20.18
4 | 7.09 | 7.81 | 8.43 | 10.03 | 13.75 | 15.59 | 17.61 | 24.30
5 | 7.19 | 8.17 | 9.09 | 10.33 | 15.67 | 17.92 | 20.40 | 28.28
6 | 7.29 | 8.53 | 9.42 | 13.77 | 17.58 | 20.42 | 23.35 | 32.40
7 | 7.80 | 9.35 | 9.74 | 15.13 | 19.47 | 23.03 | 26.23 | 36.38
8 | 8.24 | 9.63 | 10.99 | 16.84 | 21.39 | 25.35 | 29.45 | 40.85
9 | 8.46 | 9.90 | 11.07 | 18.06 | 23.27 | 27.45 | 32.74 | 45.42
10 | 8.95 | 10.18 | 11.12 | 19.51 | 25.13 | 30.19 | 35.61 | 49.39
11 | 10.46 | 12.52 | 13.42 | 20.89 | 26.98 | 32.85 | 38.57 | 53.96
12 | 11.10 | 13.32 | 15.62 | 22.37 | 29.42 | 35.52 | 41.37 | 57.86
13 | 11.68 | 14.07 | 16.35 | 23.55 | 31.58 | 36.96 | 42.84 | 59.92
14 | 12.28 | 14.85 | 17.22 | 24.94 | 33.35 | 39.01 | 44.96 | 62.89
15 | 12.76 | 15.63 | 18.06 | 26.22 | 34.64 | 39.76 | 46.14 | 64.55
16 | 13.19 | 16.46 | 19.04 | 27.52 | 36.61 | 42.00 | 48.68 | 68.10
17 | 13.61 | 17.22 | 19.95 | 28.86 | 38.46 | 44.18 | 51.26 | 71.68
18 | 13.87 | 17.75 | 20.85 | 30.16 | 40.50 | 46.36 | 53.84 | 75.31
19 | 14.20 | 18.17 | 21.32 | 30.95 | 42.31 | 48.52 | 56.39 | 78.87
20 | 14.76 | 18.45 | 21.76 | 31.52 | 43.41 | 50.33 | 59.00 | 82.51
21 | 15.40 | 18.90 | 22.25 | 32.08 | 43.76 | 50.80 | 59.75 | 84.27
22 | 15.89 | 19.40 | 23.01 | 32.72 | 44.05 | 51.20 | 60.44 | 85.25
23 | 16.36 | 19.87 | 23.54 | 33.31 | 44.30 | 51.56 | 60.81 | 85.76
24 | 17.03 | 20.70 | 24.89 | 34.63 | 45.23 | 52.89 | 62.28 | 87.85
25 | 17.69 | 21.45 | 26.45 | 35.78 | 45.89 | 54.21 | 63.37 | 89.37
26 | 18.75 | 23.00 | 29.23 | 37.69 | 47.01 | 55.54 | 65.35 | 92.16
27 | 19.88 | 24.02 | 31.01 | 41.09 | 47.65 | 56.84 | 67.80 | 95.65
28 | 20.49 | 24.35 | 31.88 | 42.16 | 48.29 | 58.17 | 70.35 | 99.23
29 | 21.11 | 24.59 | 32.74 | 42.72 | 49.10 | 59.50 | 72.25 | 101.88
30 | 21.74 | 24.96 | 33.52 | 43.31 | 50.48 | 60.81 | 73.80 | 104.08
31 | 22.34 | 25.19 | 34.04 | 43.85 | 51.21 | 62.15 | 75.31 | 107.08
32 | 22.60 | 25.72 | 34.61 | 44.37 | 51.89 | 63.49 | 76.84 | 109.26
33 | 22.95 | 26.43 | 35.47 | 44.95 | 52.88 | 64.79 | 78.26 | 111.28
34 | 23.16 | 27.13 | 36.37 | 45.92 | 54.14 | 66.13 | 79.73 | 113.38
35 | 23.43 | 27.78 | 36.89 | 46.89 | 55.58 | 67.45 | 81.10 | 115.31
36 | 23.72 | 28.58 | 37.37 | 47.91 | 56.99 | 68.38 | 82.47 | 117.28
37 | 23.97 | 29.11 | 37.92 | 48.76 | 58.47 | 69.24 | 83.82 | 119.21
38 | 24.19 | 29.82 | 38.39 | 49.73 | 60.11 | 70.04 | 85.16 | 121.11
39 | 24.43 | 30.51 | 38.84 | 50.76 | 61.53 | 71.89 | 86.49 | 122.99
40 | 24.69 | 31.16 | 39.33 | 51.82 | 62.52 | 73.49 | 87.66 | 124.65
41 | 24.96 | 31.68 | 39.75 | 52.28 | 63.57 | 75.06 | 88.93 | 127.46
42 | 25.13 | 31.91 | 40.11 | 53.16 | 64.69 | 76.09 | 90.13 | 129.20
43 | 25.42 | 32.15 | 40.47 | 54.04 | 66.23 | 77.03 | 91.30 | 130.85
44 | 25.60 | 32.38 | 40.82 | 54.91 | 67.29 | 77.94 | 92.32 | 132.37
45 | 25.76 | 32.61 | 41.18 | 55.79 | 68.04 | 78.79 | 93.49 | 134.03
46 | 25.99 | 32.84 | 41.53 | 56.67 | 68.79 | 79.64 | 94.61 | 135.63
47 | 26.19 | 33.08 | 41.88 | 57.55 | 69.51 | 80.55 | 95.67 | 137.15
48 | 26.40 | 33.31 | 42.23 | 58.42 | 70.40 | 81.32 | 96.69 | 138.63
49 | 26.61 | 33.54 | 42.59 | 59.31 | 71.36 | 82.17 | 97.67 | 139.99
50 | 26.71 | 33.78 | 42.94 | 60.18 | 72.36 | 83.21 | 98.69 | 141.48
51 | 27.10 | 34.01 | 43.30 | 61.21 | 73.35 | 84.40 | 99.61 | 143.95
52 | 27.52 | 34.24 | 43.65 | 61.63 | 74.07 | 85.67 | 100.78 | 145.63
53 | 28.02 | 34.47 | 44.01 | 62.14 | 74.70 | 87.08 | 102.07 | 147.49
54 | 28.43 | 34.71 | 44.36 | 62.68 | 75.22 | 88.33 | 103.51 | 149.56
55 | 28.88 | 34.94 | 44.72 | 63.08 | 75.84 | 89.73 | 104.90 | 151.56
56 | 29.27 | 35.17 | 45.07 | 63.54 | 76.36 | 90.99 | 105.96 | 153.13
57 | 29.75 | 35.41 | 45.43 | 63.93 | 76.93 | 92.37 | 106.90 | 154.50
58 | 30.19 | 35.64 | 45.77 | 64.33 | 77.38 | 93.60 | 107.79 | 155.75
59 | 30.62 | 35.87 | 46.13 | 64.73 | 77.83 | 94.24 | 108.58 | 156.92
60 | 31.01 | 36.10 | 46.48 | 65.08 | 78.22 | 94.79 | 109.36 | 158.02
61 | 31.51 | 36.34 | 46.84 | 65.41 | 78.65 | 95.33 | 110.82 | 160.17
62 | 31.89 | 36.57 | 47.19 | 65.70 | 79.02 | 95.76 | 112.59 | 162.70
63 | 32.47 | 36.80 | 47.55 | 66.04 | 79.47 | 96.22 | 114.39 | 165.30
64 | 32.75 | 37.03 | 47.90 | 66.33 | 79.82 | 96.66 | 116.15 | 167.85
65 | 33.23 | 37.27 | 48.26 | 66.54 | 80.05 | 97.14 | 117.96 | 170.48
66 | 33.67 | 37.50 | 48.61 | 66.84 | 80.46 | 97.43 | 119.68 | 172.95
67 | 34.17 | 37.73 | 49.43 | 67.09 | 80.72 | 97.82 | 121.27 | 175.23
68 | 34.57 | 37.97 | 50.06 | 67.26 | 81.72 | 98.33 | 122.55 | 177.09
69 | 35.05 | 38.20 | 50.69 | 67.46 | 82.70 | 98.79 | 123.85 | 178.98
70 | 35.41 | 38.43 | 51.49 | 67.68 | 83.70 | 99.15 | 125.18 | 180.90

Commercial Plus Flat Rate Envelope
| ($)
Commercial Plus Regular Flat Rate Envelope, per piece | 6.35
Commercial Plus Legal Flat Rate Envelope, per piece | 6.65
Commercial Plus Padded Flat Rate Envelope, per piece | 6.90

Commercial Plus Flat Rate Box
Size | Delivery to domestic address ($) | Delivery to APO/FPO/DPO address ($)
Small Flat Rate Box | 6.85 | 6.85
Medium Flat Rate Boxes | 12.45 | 12.45
Large Flat Rate Boxes | 17.10 | 15.60

Commercial Plus Regional Rate Boxes
Maximum Cubic Feet | Local, zones 1 & 2 ($) | Zone 3 ($) | Zone 4 ($) | Zone 5 ($) | Zone 6 ($) | Zone 7 ($) | Zone 8 ($) | Zone 9 ($)
A | 7.10 | 7.25 | 7.40 | 8.15 | 9.47 | 10.29 | 10.80 | 15.33
B | 7.41 | 8.42 | 9.37 | 10.65 | 16.15 | 18.47 | 21.03 | 29.15

Commercial Plus Balloon Price

In Zones 1-4 (including local), parcels weighing less than 20 pounds but measuring more than 84 inches in combined length and girth (but not more than 108 inches) are charged the applicable price for a 20-pound parcel.

Commercial Plus Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Plus Cubic
Maximum cubic feet | Local, zones 1 & 2 ($) | Zone 3 ($) | Zone 4 ($) | Zone 5 ($) | Zone 6 ($) | Zone 7 ($) | Zone 8 ($) | Zone 9 ($)
0.10 | 6.35 | 6.79 | 6.89 | 6.98 | 7.13 | 7.28 | 7.53 | 9.72
0.20 | 6.80 | 7.13 | 7.20 | 7.49 | 7.88 | 8.22 | 8.46 | 11.34
0.30 | 7.19 | 7.36 | 7.52 | 8.23 | 9.48 | 10.26 | 10.76 | 15.19
0.40 | 7.31 | 7.67 | 8.29 | 9.06 | 11.53 | 12.48 | 14.17 | 19.44
0.50 | 7.41 | 8.08 | 8.78 | 10.17 | 13.76 | 15.39 | 17.54 | 24.07

Open and Distribute (PMOD)
Container | Local, zones 1 & 2 ($) | Zone 3 ($) | Zone 4 ($) | Zone 5 ($) | Zone 6 ($) | Zone 7 ($) | Zone 8 ($) | Zone 9 ($)
a. DDU
Half Tray | 8.24 | 10.09 | 12.19 | 19.61 | 19.87 | 21.60 | 23.98 | 29.98
Full Tray | 11.20 | 14.01 | 16.31 | 28.55 | 32.81 | 34.86 | 38.90 | 48.62
EMM Tray | 12.84 | 15.30 | 18.90 | 31.58 | 34.67 | 38.07 | 42.33 | 52.91
Flat Tub | 18.35 | 23.00 | 28.44 | 48.10 | 58.06 | 62.77 | 69.86 | 87.33
b. Processing Facilities
Half Tray | 6.53 | 8.27 | 10.16 | 17.71 | 18.10 | 19.80 | 21.25 | 26.57
Full Tray | 8.45 | 10.89 | 13.56 | 24.74 | 29.24 | 31.30 | 34.98 | 43.73
EMM Tray | 10.08 | 11.68 | 15.91 | 27.31 | 31.02 | 34.16 | 39.47 | 49.34
Flat Tub | 14.42 | 19.06 | 24.15 | 44.10 | 53.86 | 58.63 | 64.49 | 80.62

Pickup On Demand Service

Add $22.00 for each Pickup On Demand stop.

IMpb-Noncompliance Fee

Add $0.20 for each IMpb-noncompliant parcel paying commercial prices.

2115 Parcel Select

* * *

2115.6 Prices

a. DDU

Destination Entered—DDU
Maximum weight (pounds) | DDU ($)
1 | 2.85
2 | 2.95
3 | 3.04
4 | 3.13
5 | 3.22
6 | 3.30
7 | 3.38
8 | 3.46
9 | 3.54
10 | 3.61
11 | 3.68
12 | 3.74
13 | 3.80
14 | 3.86
15 | 3.92
16 | 3.98
17 | 4.04
18 | 4.10
19 | 4.16
20 | 4.22
21 | 4.28
22 | 4.34
23 | 4.40
24 | 4.46
25 | 4.52
26 | 4.58
27 | 4.64
28 | 4.70
29 | 4.76
30 | 4.82
31 | 4.88
32 | 4.94
33 | 5.00
34 | 5.06
35 | 5.12
36 | 5.18
37 | 5.24
38 | 5.30
39 | 5.36
40 | 5.42
41 | 5.48
42 | 5.54
43 | 5.60
44 | 5.66
45 | 5.72
46 | 5.78
47 | 5.84
48 | 5.90
49 | 5.96
50 | 6.02
51 | 6.08
52 | 6.14
53 | 6.20
54 | 6.26
55 | 6.32
56 | 6.38
57 | 6.44
58 | 6.50
59 | 6.56
60 | 6.62
61 | 6.68
62 | 6.74
63 | 6.81
64 | 6.88
65 | 6.95
66 | 7.02
67 | 7.09
68 | 7.16
69 | 7.23
70 | 7.30
Oversized | 10.71

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

d. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. DSCF—5-Digit Machinable

Destination Entered—DSCF
Maximum weight (pounds) | DSCF 5-digit ($)
1 | 3.93
2 | 4.09
3 | 4.24
4 | 4.39
5 | 4.54
6 | 4.69
7 | 4.84
8 | 4.99
9 | 5.14
10 | 5.29
11 | 5.44
12 | 5.59
13 | 5.74
14 | 5.89
15 | 6.04
16 | 6.19
17 | 6.34
18 | 6.49
19 | 6.64
20 | 6.79
21 | 6.94
22 | 7.09
23 | 7.24
24 | 7.39
25 | 7.54
26 | 7.69
27 | 7.84
28 | 7.99
29 | 8.14
30 | 8.29
31 | 8.44
32 | 8.59
33 | 8.74
34 | 8.89
35 | 9.04

b. DSCF—3-Digit, 5-Digit Non-Machinable

Maximum weight (pounds) | DSCF 3-digit ($) | DSCF 5-digit ($)
1 | 5.43 | 3.93
2 | 5.59 | 4.09
3 | 5.74 | 4.24
4 | 5.89 | 4.39
5 | 6.04 | 4.54
6 | 6.19 | 4.69
7 | 6.34 | 4.84
8 | 6.49 | 4.99
9 | 6.64 | 5.14
10 | 6.79 | 5.29
11 | 6.94 | 5.44
12 | 7.09 | 5.59
13 | 7.24 | 5.74
14 | 7.39 | 5.89
15 | 7.54 | 6.04
16 | 7.69 | 6.19
17 | 7.84 | 6.34
18 | 7.99 | 6.49
19 | 8.14 | 6.64
20 | 8.29 | 6.79
21 | 8.44 | 6.94
22 | 8.59 | 7.09
23 | 8.74 | 7.24
24 | 8.89 | 7.39
25 | 9.04 | 7.54
26 | 9.19 | 7.69
27 | 9.34 | 7.84
28 | 9.49 | 7.99
29 | 9.64 | 8.14
30 | 9.79 | 8.29
31 | 9.94 | 8.44
32 | 10.09 | 8.59
33 | 10.24 | 8.74
34 | 10.39 | 8.89
35 | 10.54 | 9.04
36 | 10.69 | 9.19
37 | 10.84 | 9.34
38 | 10.99 | 9.49
39 | 11.14 | 9.64
40 | 11.29 | 9.79
41 | 11.44 | 9.94
42 | 11.59 | 10.09
43 | 11.74 | 10.24
44 | 11.89 | 10.39
45 | 12.04 | 10.54
46 | 12.19 | 10.69
47 | 12.34 | 10.84
48 | 12.49 | 10.99
49 | 12.64 | 11.14
50 | 12.79 | 11.29
51 | 12.93 | 11.43
52 | 13.07 | 11.57
53 | 13.21 | 11.71
54 | 13.35 | 11.85
55 | 13.49 | 11.99
56 | 13.63 | 12.13
57 | 13.77 | 12.27
58 | 13.91 | 12.41
59 | 14.05 | 12.55
60 | 14.19 | 12.69
61 | 14.33 | 12.83
62 | 14.47 | 12.97
63 | 14.61 | 13.11
64 | 14.75 | 13.25
65 | 14.89 | 13.39
66 | 15.03 | 13.53
67 | 15.17 | 13.67
68 | 15.31 | 13.81
69 | 15.45 | 13.95
70 | 15.59 | 14.09
Oversized | 21.28 | 21.28

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. DNDC—Machinable

Destination Entered—DNDC
Maximum weight (pounds) | DNDC zones 1 & 2 ($) | DNDC Zone 3 ($) | DNDC Zone 4 ($) | DNDC Zones 5 ($)
1 | 5.28 | 6.07 | 6.97 | 7.96
2 | 5.53 | 6.53 | 7.55 | 8.61
3 | 5.79 | 6.99 | 8.14 | 9.25
4 | 6.05 | 7.45 | 8.73 | 9.89
5 | 6.31 | 7.91 | 9.32 | 10.53
6 | 6.57 | 8.37 | 9.91 | 11.17
7 | 6.83 | 8.83 | 10.50 | 11.81
8 | 7.09 | 9.29 | 11.09 | 12.45
9 | 7.35 | 9.75 | 11.67 | 13.09
10 | 7.61 | 10.21 | 12.24 | 13.72
11 | 7.87 | 10.67 | 12.79 | 14.35
12 | 8.13 | 11.13 | 13.31 | 14.96
13 | 8.39 | 11.59 | 13.80 | 15.55
14 | 8.65 | 12.05 | 14.27 | 16.11
15 | 8.91 | 12.51 | 14.72 | 16.64
16 | 9.17 | 12.96 | 15.15 | 17.14
17 | 9.43 | 13.41 | 15.58 | 17.61
18 | 9.69 | 13.86 | 16.00 | 18.06
19 | 9.95 | 14.29 | 16.41 | 18.49
20 | 10.20 | 14.70 | 16.82 | 18.92
21 | 10.45 | 15.10 | 17.23 | 19.34
22 | 10.70 | 15.49 | 17.63 | 19.76
23 | 10.95 | 15.88 | 18.02 | 20.16
24 | 11.20 | 16.26 | 18.40 | 20.56
25 | 11.44 | 16.63 | 18.77 | 20.94
26 | 11.67 | 16.98 | 19.13 | 21.31
27 | 11.90 | 17.30 | 19.47 | 21.66
28 | 12.13 | 17.60 | 19.78 | 21.99
29 | 12.36 | 17.87 | 20.06 | 22.30
30 | 12.58 | 18.12 | 20.32 | 22.58
31 | 12.80 | 18.37 | 20.57 | 22.86
32 | 13.02 | 18.62 | 20.82 | 23.14
33 | 13.24 | 18.87 | 21.07 | 23.42
34 | 13.46 | 19.12 | 21.32 | 23.70
35 | 13.68 | 19.37 | 21.57 | 23.98

b. DNDC—Non-Machinable

Maximum weight (pounds) | DNDC Zones 1 & 2 ($) | DNDC Zone 3 ($) | DNDC Zone 4 ($) | DNDC Zones 5 ($)
1 | 7.78 | 8.57 | 9.47 | 10.46
2 | 8.03 | 9.03 | 10.05 | 11.11
3 | 8.29 | 9.49 | 10.64 | 11.75
4 | 8.55 | 9.95 | 11.23 | 12.39
5 | 8.81 | 10.41 | 11.82 | 13.03
6 | 9.07 | 10.87 | 12.41 | 13.67
7 | 9.33 | 11.33 | 13.00 | 14.31
8 | 9.59 | 11.79 | 13.59 | 14.95
9 | 9.85 | 12.25 | 14.17 | 15.59
10 | 10.11 | 12.71 | 14.74 | 16.22
11 | 10.37 | 13.17 | 15.29 | 16.85
12 | 10.63 | 13.63 | 15.81 | 17.46
13 | 10.89 | 14.09 | 16.30 | 18.05
14 | 11.15 | 14.55 | 16.77 | 18.61
15 | 11.41 | 15.01 | 17.22 | 19.14
16 | 11.67 | 15.46 | 17.65 | 19.64
17 | 11.93 | 15.91 | 18.08 | 20.11
18 | 12.19 | 16.36 | 18.50 | 20.56
19 | 12.45 | 16.79 | 18.91 | 20.99
20 | 12.70 | 17.20 | 19.32 | 21.42
21 | 12.95 | 17.60 | 19.73 | 21.84
22 | 13.20 | 17.99 | 20.13 | 22.26
23 | 13.45 | 18.38 | 20.52 | 22.66
24 | 13.70 | 18.76 | 20.90 | 23.06
25 | 13.94 | 19.13 | 21.27 | 23.44
26 | 14.17 | 19.48 | 21.63 | 23.81
27 | 14.40 | 19.80 | 21.97 | 24.16
28 | 14.63 | 20.10 | 22.28 | 24.49
29 | 14.86 | 20.37 | 22.56 | 24.80
30 | 15.08 | 20.62 | 22.82 | 25.08
31 | 15.30 | 20.87 | 23.07 | 25.36
32 | 15.52 | 21.12 | 23.32 | 25.64
33 | 15.74 | 21.37 | 23.57 | 25.92
34 | 15.96 | 21.62 | 23.82 | 26.20
35 | 16.18 | 21.87 | 24.07 | 26.48
36 | 16.40 | 22.12 | 24.32 | 26.76
37 | 16.62 | 22.37 | 24.57 | 27.04
38 | 16.84 | 22.62 | 24.82 | 27.32
39 | 17.06 | 22.87 | 25.07 | 27.60
40 | 17.28 | 23.12 | 25.32 | 27.88
41 | 17.50 | 23.37 | 25.57 | 28.16
42 | 17.72 | 23.62 | 25.82 | 28.44
43 | 17.94 | 23.86 | 26.07 | 28.72
44 | 18.16 | 24.10 | 26.32 | 29.00
45 | 18.38 | 24.34 | 26.57 | 29.28
46 | 18.60 | 24.58 | 26.82 | 29.56
47 | 18.82 | 24.82 | 27.07 | 29.84
48 | 19.04 | 25.06 | 27.31 | 30.12
49 | 19.26 | 25.30 | 27.55 | 30.40
50 | 19.48 | 25.54 | 27.79 | 30.68
51 | 19.70 | 25.78 | 28.03 | 30.96
52 | 19.92 | 26.02 | 28.27 | 31.24
53 | 20.14 | 26.25 | 28.51 | 31.52
54 | 20.36 | 26.48 | 28.75 | 31.80
55 | 20.58 | 26.71 | 28.99 | 32.08
56 | 20.80 | 26.94 | 29.23 | 32.36
57 | 21.02 | 27.17 | 29.47 | 32.64
58 | 21.24 | 27.40 | 29.71 | 32.92
59 | 21.46 | 27.63 | 29.95 | 33.20
60 | 21.68 | 27.86 | 30.19 | 33.48
61 | 21.90 | 28.09 | 30.43 | 33.76
62 | 22.12 | 28.32 | 30.67 | 34.04
63 | 22.34 | 28.55 | 30.91 | 34.31
64 | 22.56 | 28.78 | 31.15 | 34.58
65 | 22.78 | 29.01 | 31.39 | 34.85
66 | 23.00 | 29.24 | 31.63 | 35.11
67 | 23.22 | 29.47 | 31.87 | 35.36
68 | 23.44 | 29.70 | 32.11 | 35.61
69 | 23.66 | 29.93 | 32.35 | 35.86
70 | 23.88 | 30.16 | 32.59 | 36.11
Oversized | 33.41 | 45.14 | 54.35 | 64.64

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. Parcel Select Ground

Non-Destination Entered—Parcel Select Ground
Maximum weight (pounds) | Zones 1 & 2 ($) | Zone 3 ($) | Zone 4 ($) | Zone 5 ($) | Zone 6 ($) | Zone 7 ($) | Zone 8 ($)
1 | 6.55 | 7.00 | 7.10 | 7.19 | 7.34 | 7.49 | 7.75
2 | 7.10 | 7.25 | 7.40 | 8.15 | 9.46 | 10.28 | 10.79
3 | 7.20 | 7.68 | 8.47 | 9.26 | 12.15 | 13.14 | 15.33
4 | 7.31 | 8.05 | 8.69 | 10.34 | 14.17 | 16.06 | 18.14
5 | 7.41 | 8.42 | 9.37 | 10.65 | 16.14 | 18.46 | 21.02
6 | 7.52 | 8.79 | 9.71 | 14.19 | 17.95 | 21.04 | 24.06
7 | 8.04 | 9.64 | 10.04 | 15.59 | 19.95 | 23.73 | 27.03
8 | 8.49 | 9.93 | 11.33 | 17.35 | 22.04 | 26.12 | 30.35
9 | 8.72 | 10.21 | 11.41 | 18.61 | 23.98 | 28.29 | 33.74
10 | 9.23 | 10.49 | 11.46 | 20.10 | 25.90 | 31.11 | 36.70
11 | 10.78 | 12.91 | 13.83 | 21.53 | 27.80 | 33.86 | 39.75
12 | 11.44 | 13.73 | 16.10 | 23.05 | 30.32 | 36.61 | 42.64
13 | 12.04 | 14.51 | 16.86 | 24.27 | 32.55 | 38.09 | 44.15
14 | 12.66 | 15.31 | 17.75 | 25.70 | 34.37 | 40.21 | 46.34
15 | 13.15 | 16.11 | 18.62 | 27.02 | 35.70 | 40.98 | 47.56
16 | 13.60 | 16.97 | 19.63 | 28.36 | 37.73 | 43.29 | 50.18
17 | 14.03 | 17.75 | 20.57 | 29.74 | 39.64 | 45.54 | 52.84
18 | 14.30 | 18.30 | 21.49 | 31.08 | 41.74 | 47.78 | 55.49
19 | 14.64 | 18.73 | 21.98 | 31.90 | 43.61 | 50.01 | 56.97
20 | 15.22 | 19.02 | 22.43 | 32.48 | 44.74 | 51.88 | 59.64
21 | 15.88 | 19.48 | 22.94 | 33.06 | 45.10 | 52.36 | 60.99
22 | 16.38 | 20.00 | 23.72 | 33.72 | 45.40 | 52.77 | 62.30
23 | 16.87 | 20.48 | 24.27 | 34.33 | 45.66 | 53.14 | 62.68
24 | 17.56 | 21.34 | 25.66 | 35.69 | 46.62 | 54.52 | 64.20
25 | 18.24 | 22.11 | 27.27 | 36.88 | 47.30 | 55.88 | 65.32
26 | 19.33 | 23.71 | 30.13 | 38.85 | 48.45 | 57.25 | 67.36
27 | 20.49 | 24.76 | 31.97 | 42.35 | 49.11 | 58.59 | 69.89
28 | 21.12 | 25.10 | 32.87 | 43.45 | 49.77 | 59.96 | 72.52
29 | 21.76 | 25.35 | 33.75 | 44.03 | 50.61 | 61.33 | 74.47
30 | 22.41 | 25.73 | 34.56 | 44.64 | 52.03 | 62.68 | 76.07
31 | 23.03 | 25.97 | 35.09 | 45.20 | 52.78 | 64.06 | 77.63
32 | 23.30 | 26.52 | 35.68 | 45.73 | 53.48 | 65.44 | 79.21
33 | 23.66 | 27.25 | 36.57 | 46.33 | 54.51 | 66.78 | 80.67
34 | 23.88 | 27.97 | 37.49 | 47.33 | 55.80 | 68.17 | 82.19
35 | 24.15 | 28.64 | 38.03 | 48.33 | 57.29 | 69.53 | 83.60
36 | 24.45 | 29.46 | 38.53 | 49.38 | 58.74 | 70.48 | 85.01
37 | 24.71 | 30.01 | 39.09 | 50.26 | 60.27 | 71.37 | 86.40
38 | 24.94 | 30.74 | 39.58 | 51.26 | 61.96 | 72.20 | 87.78
39 | 25.19 | 31.45 | 40.04 | 52.32 | 63.42 | 74.10 | 89.15
40 | 25.45 | 32.12 | 40.55 | 53.41 | 64.44 | 75.75 | 90.36
41 | 25.73 | 32.66 | 40.98 | 53.89 | 65.53 | 77.37 | 91.67
42 | 25.91 | 32.90 | 41.35 | 54.79 | 66.68 | 78.43 | 92.91
43 | 26.21 | 33.14 | 41.72 | 55.70 | 68.27 | 79.40 | 94.11
44 | 26.39 | 33.38 | 42.08 | 56.60 | 69.36 | 80.34 | 95.17
45 | 26.56 | 33.62 | 42.45 | 57.51 | 70.13 | 81.22 | 96.37
46 | 26.79 | 33.86 | 42.81 | 58.41 | 70.91 | 82.09 | 97.53
47 | 27.00 | 34.10 | 43.18 | 59.32 | 71.65 | 83.03 | 98.62
48 | 27.22 | 34.34 | 43.54 | 60.22 | 72.57 | 83.82 | 99.67
49 | 27.43 | 34.58 | 43.91 | 61.13 | 73.56 | 84.70 | 100.68
50 | 27.54 | 34.82 | 44.27 | 62.03 | 74.59 | 85.77 | 101.73
51 | 27.94 | 35.06 | 44.64 | 63.09 | 75.61 | 87.00 | 102.68
52 | 28.37 | 35.30 | 45.00 | 63.53 | 76.35 | 88.31 | 103.89
53 | 28.89 | 35.54 | 45.37 | 64.05 | 77.00 | 89.76 | 105.22
54 | 29.31 | 35.78 | 45.73 | 64.61 | 77.54 | 91.05 | 106.70
55 | 29.77 | 36.02 | 46.10 | 65.02 | 78.18 | 92.49 | 108.13
56 | 30.18 | 36.26 | 46.46 | 65.50 | 78.71 | 93.79 | 109.23
57 | 30.67 | 36.50 | 46.83 | 65.90 | 79.30 | 95.22 | 110.20
58 | 31.12 | 36.74 | 47.19 | 66.31 | 79.76 | 96.48 | 111.11
59 | 31.57 | 36.98 | 47.56 | 66.72 | 80.23 | 97.14 | 111.93
60 | 31.97 | 37.22 | 47.92 | 67.08 | 80.63 | 97.71 | 112.73
61 | 32.48 | 37.46 | 48.29 | 67.42 | 81.07 | 98.27 | 114.24
62 | 32.88 | 37.70 | 48.65 | 67.72 | 81.45 | 98.71 | 116.06
63 | 33.47 | 37.94 | 49.02 | 68.07 | 81.92 | 99.19 | 117.92
64 | 33.76 | 38.18 | 49.38 | 68.37 | 82.28 | 99.64 | 119.73
65 | 34.26 | 38.42 | 49.75 | 68.59 | 82.52 | 100.13 | 121.60
66 | 34.71 | 38.66 | 50.11 | 68.90 | 82.94 | 100.43 | 123.37
67 | 35.23 | 38.90 | 50.96 | 69.15 | 83.21 | 100.84 | 125.01
68 | 35.64 | 39.14 | 51.61 | 69.33 | 84.24 | 101.36 | 126.33
69 | 36.13 | 39.38 | 52.26 | 69.54 | 85.25 | 101.84 | 127.67
70 | 36.50 | 39.62 | 53.08 | 69.76 | 86.28 | 102.21 | 129.04
Oversized | 65.99 | 69.94 | 86.89 | 107.11 | 128.37 | 148.62 | 178.87

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

d. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

Parcel Select Lightweight
Maximum weight (ounces) | Entry point/sortation level: DDU/5-digit ($) | Entry point/sortation level: DSCF/5-digit ($) | Entry point/sortation level: DNDC/5-digit ($) | Entry point/sortation level: DSCF/SCF ($) | Entry point/sortation level: DNDC/SCF ($) | Entry point/sortation level: DNDC/NDC ($) | Entry point/sortation level: None/NDC ($) | Entry point/sortation level: None/mixed NDC/single-piece ($)
1 | 1.42 | 1.68 | 1.84 | 1.86 | 2.27 | 2.62 | 2.90 | 3.22
2 | 1.42 | 1.68 | 1.84 | 1.86 | 2.27 | 2.62 | 2.90 | 3.22
3 | 1.42 | 1.68 | 1.84 | 1.86 | 2.27 | 2.62 | 2.90 | 3.22
4 | 1.42 | 1.68 | 1.84 | 1.86 | 2.27 | 2.62 | 2.90 | 3.22
5 | 1.47 | 1.75 | 1.95 | 1.97 | 2.39 | 2.71 | 3.07 | 3.40
6 | 1.52 | 1.82 | 2.06 | 2.08 | 2.51 | 2.80 | 3.18 | 3.52
7 | 1.57 | 1.89 | 2.17 | 2.19 | 2.63 | 2.89 | 3.29 | 3.64
8 | 1.62 | 1.96 | 2.28 | 2.30 | 2.75 | 2.98 | 3.40 | 3.76
9 | 1.67 | 2.03 | 2.39 | 2.41 | 2.87 | 3.09 | 3.51 | 3.88
10 | 1.72 | 2.10 | 2.50 | 2.52 | 2.99 | 3.20 | 3.62 | 4.00
11 | 1.77 | 2.17 | 2.61 | 2.63 | 3.11 | 3.31 | 3.73 | 4.12
12 | 1.82 | 2.24 | 2.72 | 2.74 | 3.23 | 3.42 | 3.84 | 4.24
13 | 1.87 | 2.31 | 2.83 | 2.85 | 3.35 | 3.55 | 3.95 | 4.36
14 | 1.92 | 2.38 | 2.94 | 2.96 | 3.47 | 3.68 | 4.06 | 4.48
15 | 1.97 | 2.45 | 3.05 | 3.07 | 3.59 | 3.81 | 4.17 | 4.60
15.999 | 2.02 | 2.52 | 3.16 | 3.18 | 3.71 | 3.94 | 4.28 | 4.72

Pickup On Demand Service

Add $22.00 for each Pickup On Demand stop.

IMpb Noncompliance Fee

Add $0.20 for each IMpb-noncompliant parcel paying commercial prices.

2120 Parcel Return Service

* * *

2120.6 Prices

a. Machinable RSCF

RSCF Entered
Maximum weight (pounds) | RSCF ($)
1 | 3.49
2 | 3.92
3 | 4.21
4 | 4.53
5 | 4.86
6 | 5.32
7 | 5.73
8 | 6.14
9 | 6.61
10 | 7.01
11 | 7.45
12 | 7.99
13 | 8.31
14 | 8.62
15 | 8.92
16 | 9.26
17 | 9.57
18 | 9.85
19 | 10.14
20 | 10.41
21 | 10.72
22 | 11.06
23 | 11.27
24 | 11.60
25 | 11.84
26 | 11.99
27 | 12.29
28 | 12.52
29 | 12.80
30 | 13.01
31 | 13.33
32 | 13.60
33 | 13.82
34 | 14.17
35 | 14.40

b. Nonmachinable RSCF

Maximum weight (pounds) | RSCF ($)
1 | 5.99
2 | 6.42
3 | 6.71
4 | 7.03
5 | 7.36
6 | 7.82
7 | 8.23
8 | 8.64
9 | 9.11
10 | 9.51
11 | 9.95
12 | 10.49
13 | 10.81
14 | 11.12
15 | 11.42
16 | 11.76
17 | 12.07
18 | 12.35
19 | 12.64
20 | 12.91
21 | 13.22
22 | 13.56
23 | 13.77
24 | 14.10
25 | 14.34
26 | 14.49
27 | 14.79
28 | 15.02
29 | 15.30
30 | 15.51
31 | 15.83
32 | 16.10
33 | 16.32
34 | 16.67
35 | 16.90
36 | 17.20
37 | 17.57
38 | 17.74
39 | 18.05
40 | 18.26
41 | 18.53
42 | 18.85
43 | 19.06
44 | 19.33
45 | 19.48
46 | 19.73
47 | 20.04
48 | 20.13
49 | 20.37
50 | 20.61
51 | 20.75
52 | 20.94
53 | 21.04
54 | 21.28
55 | 21.54
56 | 21.66
57 | 21.89
58 | 22.03
59 | 22.28
60 | 22.56
61 | 22.69
62 | 22.92
63 | 23.04
64 | 23.25
65 | 23.51
66 | 23.73
67 | 23.85
68 | 24.06
69 | 24.24
70 | 24.38
Oversized | 31.52

c. Balloon Price

RSCF entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price.

a. Machinable RDU

RDU Entered
Maximum weight (pounds) | RDU ($)
1 | 2.75
2 | 2.83
3 | 2.90
4 | 2.98
5 | 3.05
6 | 3.12
7 | 3.22
8 | 3.27
9 | 3.37
10 | 3.42
11 | 3.51
12 | 3.60
13 | 3.66
14 | 3.75
15 | 3.82
16 | 3.92
17 | 3.99
18 | 4.07
19 | 4.16
20 | 4.21
21 | 4.31
22 | 4.39
23 | 4.47
24 | 4.54
25 | 4.62
26 | 4.70
27 | 4.78
28 | 4.86
29 | 4.93
30 | 5.01
31 | 5.11
32 | 5.18
33 | 5.26
34 | 5.33
35 | 5.41

b. Nonmachinable RDU

Maximum weight (pounds) | RDU ($)
1 | 2.75
2 | 2.83
3 | 2.90
4 | 2.98
5 | 3.05
6 | 3.12
7 | 3.22
8 | 3.27
9 | 3.37
10 | 3.42
11 | 3.51
12 | 3.60
13 | 3.66
14 | 3.75
15 | 3.82
16 | 3.92
17 | 3.99
18 | 4.07
19 | 4.16
20 | 4.21
21 | 4.31
22 | 4.39
23 | 4.47
24 | 4.54
25 | 4.62
26 | 4.70
27 | 4.78
28 | 4.86
29 | 4.93
30 | 5.01
31 | 5.11
32 | 5.18
33 | 5.26
34 | 5.33
35 | 5.41
36 | 5.51
37 | 5.59
38 | 5.66
39 | 5.73
40 | 5.81
41 | 5.90
42 | 5.98
43 | 6.06
44 | 6.16
45 | 6.21
46 | 6.30
47 | 6.38
48 | 6.45
49 | 6.56
50 | 6.63
51 | 6.71
52 | 6.78
53 | 6.85
54 | 6.96
55 | 7.03
56 | 7.11
57 | 7.20
58 | 7.26
59 | 7.36
60 | 7.43
61 | 7.51
62 | 7.60
63 | 7.66
64 | 7.75
65 | 7.85
66 | 7.91
67 | 8.00
68 | 8.06
69 | 8.15
70 | 8.26
Oversized | 10.38

c. Oversized Pieces

Regardless of weight, any piece that measures more than 108 inches (but not more than 130 inches) in length plus girth must pay the oversized price.

IMpb Noncompliance Fee

Add $0.20 for each IMpb-noncompliant parcel paying commercial prices.

2125 First-Class Package Service

* * *

2125.6 Prices

Commercial
Maximum weight (ounces) | Single- piece ($)
1 | 2.66
2 | 2.66
3 | 2.66
4 | 2.66
5 | 2.79
6 | 2.92
7 | 3.05
8 | 3.18
9 | 3.34
10 | 3.50
11 | 3.66
12 | 3.82
13 | 4.10
14 | 4.38
15 | 4.66
15.999 | 4.94

Retail ¹
Maximum weight (ounces) | Single- piece ($)
1 | 3.50
2 | 3.50
3 | 3.50
4 | 3.50
5 | 3.75
6 | 3.75
7 | 3.75
8 | 3.75
9 | 4.10
10 | 4.45
11 | 4.80
12 | 5.15
13 | 5.50
Notes
1. A handling charge of $0.01 per piece applies to foreign-origin, inbound direct entry mail tendered by foreign postal operators, subject to the terms of an authorization arrangement.

Irregular Parcel Surcharge

Add $0.20 for each irregularly shaped parcel (such as rolls, tubes, and triangles).

IMpb Noncompliance Fee

Add $0.20 for each IMpb-noncompliant parcel paying commercial prices.

Pickup On Demand Service

Add $22.00 for each Pickup On Demand stop.

2135 USPS Retail Ground

* * *

2135.6 Prices

USPS Retail Ground ¹
Maximum weight (pounds) | Zones 1 & 2 ($) | Zone 3 ($) | Zone 4 ($) | Zone 5 ($) | Zone 6 ($) | Zone 7 ($) | Zone 8 ($)
1 | 6.70 | 7.15 | 7.30 | 7.42 | 7.59 | 7.77 | 8.27
2 | 7.25 | 7.70 | 8.75 | 9.56 | 10.33 | 11.52 | 12.72
3 | 7.90 | 8.80 | 10.15 | 11.40 | 12.68 | 14.24 | 16.69
4 | 8.50 | 9.90 | 11.15 | 12.05 | 14.56 | 17.08 | 19.60
5 | 9.85 | 10.95 | 11.95 | 13.08 | 16.29 | 19.50 | 22.71
6 | 10.40 | 11.30 | 12.50 | 14.43 | 17.95 | 21.47 | 24.98
7 | 11.10 | 12.15 | 14.30 | 15.99 | 19.95 | 23.91 | 27.88
8 | 11.45 | 13.50 | 15.90 | 18.58 | 22.80 | 27.02 | 31.23
9 | 11.90 | 14.55 | 17.60 | 21.19 | 25.76 | 30.32 | 34.89
10 | 12.65 | 15.60 | 18.95 | 22.65 | 27.43 | 32.21 | 36.99
11 | 13.50 | 16.70 | 20.35 | 24.40 | 29.79 | 35.18 | 40.57
12 | 14.70 | 17.90 | 21.85 | 26.18 | 31.98 | 37.78 | 43.58
13 | 15.55 | 19.00 | 23.10 | 27.69 | 33.23 | 38.76 | 44.30
14 | 16.50 | 20.20 | 24.55 | 29.39 | 35.11 | 40.82 | 46.53
15 | 17.20 | 21.30 | 25.95 | 31.14 | 36.69 | 42.24 | 47.79
16 | 17.70 | 22.45 | 27.35 | 32.86 | 38.74 | 44.62 | 50.50
17 | 18.50 | 23.65 | 28.80 | 34.59 | 40.77 | 46.94 | 53.12
18 | 18.85 | 24.50 | 30.00 | 36.27 | 42.78 | 49.30 | 55.81
19 | 19.35 | 25.05 | 30.70 | 37.25 | 43.82 | 50.40 | 56.97
20 | 20.20 | 25.35 | 31.15 | 37.91 | 45.15 | 52.39 | 59.64
21 | 20.85 | 25.70 | 31.60 | 38.44 | 45.95 | 53.47 | 60.99
22 | 21.35 | 26.30 | 32.35 | 39.34 | 47.05 | 54.75 | 62.46
23 | 21.85 | 26.80 | 32.90 | 40.03 | 47.89 | 55.75 | 63.60
24 | 22.35 | 27.35 | 33.65 | 40.88 | 48.98 | 57.07 | 65.16
25 | 22.55 | 27.85 | 35.00 | 42.01 | 50.09 | 58.16 | 66.24
26 | 23.50 | 28.35 | 36.35 | 42.88 | 51.37 | 59.86 | 68.35
27 | 24.20 | 28.75 | 37.45 | 45.11 | 53.70 | 62.28 | 70.87
28 | 24.95 | 29.15 | 38.55 | 46.25 | 55.36 | 64.47 | 73.58
29 | 25.70 | 29.45 | 39.50 | 46.89 | 56.43 | 65.97 | 75.51
30 | 26.45 | 29.85 | 40.45 | 47.56 | 57.43 | 67.30 | 77.16
31 | 27.25 | 30.15 | 41.10 | 48.20 | 58.39 | 68.58 | 78.76
32 | 27.55 | 30.80 | 41.80 | 48.78 | 59.29 | 69.80 | 80.30
33 | 28.00 | 31.65 | 42.85 | 49.39 | 60.20 | 71.00 | 81.81
34 | 28.25 | 32.50 | 43.90 | 50.40 | 61.41 | 72.41 | 83.41
35 | 28.55 | 33.30 | 44.50 | 51.48 | 62.58 | 73.67 | 84.76
36 | 28.85 | 34.20 | 45.10 | 52.68 | 63.85 | 75.03 | 86.20
37 | 29.15 | 34.85 | 45.75 | 53.60 | 64.95 | 76.31 | 87.66
38 | 29.45 | 35.70 | 46.35 | 54.64 | 66.12 | 77.59 | 89.07
39 | 29.75 | 36.50 | 46.90 | 55.75 | 67.29 | 78.83 | 90.37
40 | 30.10 | 37.30 | 47.55 | 56.97 | 68.53 | 80.08 | 91.63
41 | 30.40 | 38.00 | 48.05 | 57.48 | 69.32 | 81.16 | 93.00
42 | 30.65 | 38.70 | 48.60 | 58.70 | 70.55 | 82.40 | 94.26
43 | 31.00 | 39.30 | 49.05 | 60.01 | 71.81 | 83.61 | 95.41
44 | 31.20 | 39.95 | 49.65 | 61.23 | 73.01 | 84.79 | 96.57
45 | 31.40 | 40.40 | 50.00 | 62.70 | 74.39 | 86.08 | 97.78
46 | 31.65 | 40.70 | 50.55 | 63.81 | 75.52 | 87.23 | 98.94
47 | 31.95 | 41.05 | 51.00 | 65.27 | 76.85 | 88.43 | 100.01
48 | 32.20 | 41.40 | 51.50 | 66.58 | 78.10 | 89.61 | 101.12
49 | 32.40 | 41.70 | 51.90 | 67.79 | 79.24 | 90.69 | 102.14
50 | 32.55 | 41.95 | 52.25 | 69.12 | 80.48 | 91.85 | 103.21
51 | 32.70 | 42.35 | 52.75 | 70.25 | 81.54 | 92.83 | 104.12
52 | 33.10 | 42.60 | 53.10 | 70.84 | 82.34 | 93.84 | 105.34
53 | 33.65 | 42.90 | 53.45 | 71.41 | 83.18 | 94.96 | 106.74
54 | 34.10 | 43.10 | 53.80 | 71.96 | 84.06 | 96.15 | 108.24
55 | 34.70 | 43.40 | 54.10 | 72.48 | 84.87 | 97.25 | 109.64
56 | 35.15 | 43.65 | 54.40 | 72.94 | 85.52 | 98.11 | 110.70
57 | 35.65 | 43.80 | 54.75 | 73.37 | 86.09 | 98.82 | 111.54
58 | 36.25 | 44.00 | 55.05 | 73.90 | 86.72 | 99.54 | 112.35
59 | 36.80 | 44.20 | 55.35 | 74.31 | 87.28 | 100.25 | 113.22
60 | 37.30 | 44.40 | 55.90 | 74.68 | 87.77 | 100.86 | 113.95
61 | 37.85 | 44.60 | 56.90 | 75.07 | 88.57 | 102.07 | 115.56
62 | 38.25 | 44.70 | 57.60 | 75.48 | 89.44 | 103.41 | 117.38
63 | 39.00 | 44.95 | 58.55 | 75.85 | 90.31 | 104.76 | 119.22
64 | 39.35 | 45.05 | 59.40 | 76.19 | 91.15 | 106.11 | 121.07
65 | 39.90 | 45.15 | 60.20 | 76.41 | 91.92 | 107.44 | 122.95
66 | 40.40 | 45.35 | 61.15 | 76.78 | 92.78 | 108.77 | 124.76
67 | 41.05 | 45.45 | 62.20 | 77.07 | 93.51 | 109.95 | 126.39
68 | 41.55 | 45.55 | 63.00 | 77.26 | 94.09 | 110.93 | 127.76
69 | 42.10 | 45.60 | 63.75 | 77.45 | 94.65 | 111.85 | 129.05
70 | 42.55 | 45.70 | 64.80 | 77.68 | 95.29 | 112.90 | 130.51
Oversized | 69.84 | 75.32 | 96.31 | 113.40 | 133.09 | 152.78 | 183.75
Notes
1. Except for oversized pieces, the Zone 1-4 prices are applicable only to parcels containing hazardous or other material not permitted to travel by air transportation.

Limited Overland Routes

Pieces delivered to or from designated intra-Alaska ZIP Codes not connected by overland routes are eligible for the following prices.

Maximum weight (pounds) | Zones 1 & 2 ($) | Zone 3 ($) | Zone 4 ($) | Zone 5 ($) |  |
1 | 6.60 | 7.05 | 7.21 | 7.29
2 | 7.16 | 7.52 | 8.13 | 8.55
3 | 7.41 | 8.37 | 9.01 | 10.52
4 | 8.15 | 8.84 | 9.54 | 10.81
5 | 8.30 | 9.10 | 10.05 | 11.32
6 | 8.45 | 9.35 | 10.34 | 11.91
7 | 8.77 | 9.78 | 10.90 | 12.64
8 | 9.07 | 10.22 | 11.48 | 13.46
9 | 9.39 | 10.83 | 12.08 | 14.27
10 | 9.70 | 11.08 | 12.65 | 15.00
11 | 10.04 | 11.52 | 13.21 | 15.76
12 | 10.34 | 11.97 | 13.78 | 16.51
13 | 10.66 | 12.40 | 14.36 | 17.23
14 | 10.98 | 12.85 | 14.93 | 17.99
15 | 11.29 | 13.29 | 15.50 | 18.73
16 | 11.61 | 13.72 | 16.07 | 19.48
17 | 11.94 | 14.17 | 16.66 | 20.25
18 | 12.25 | 14.60 | 17.22 | 20.98
19 | 12.55 | 15.02 | 17.73 | 21.68
20 | 12.87 | 15.44 | 18.27 | 22.36
21 | 13.18 | 15.85 | 18.80 | 23.02
22 | 13.51 | 16.27 | 19.34 | 23.71
23 | 13.82 | 16.70 | 19.86 | 24.40
24 | 14.14 | 17.11 | 20.40 | 25.08
25 | 14.45 | 17.52 | 20.95 | 25.78
26 | 14.75 | 17.95 | 21.57 | 26.45
27 | 15.06 | 18.36 | 22.10 | 27.22
28 | 15.37 | 18.78 | 22.67 | 27.90
29 | 15.76 | 19.18 | 23.20 | 28.55
30 | 16.15 | 19.60 | 23.74 | 29.24
31 | 16.71 | 19.99 | 24.27 | 29.90
32 | 16.95 | 20.41 | 24.79 | 30.54
33 | 17.34 | 20.84 | 25.33 | 31.23
34 | 17.77 | 21.27 | 25.88 | 31.90
35 | 18.28 | 21.68 | 26.42 | 32.60
36 | 18.54 | 22.11 | 26.93 | 33.29
37 | 18.95 | 22.53 | 27.45 | 33.98
38 | 19.36 | 22.95 | 27.98 | 34.67
39 | 19.79 | 23.38 | 28.51 | 35.36
40 | 20.22 | 23.78 | 29.16 | 36.07
41 | 20.63 | 24.21 | 29.66 | 36.70
42 | 20.96 | 24.64 | 30.21 | 37.42
43 | 21.29 | 25.05 | 30.71 | 38.13
44 | 21.61 | 25.47 | 31.23 | 38.81
45 | 21.93 | 25.86 | 31.74 | 39.53
46 | 22.27 | 26.28 | 32.28 | 40.23
47 | 22.59 | 26.69 | 32.80 | 40.95
48 | 22.91 | 27.10 | 33.31 | 41.66
49 | 23.24 | 27.51 | 33.83 | 42.36
50 | 23.56 | 27.90 | 34.34 | 43.08
51 | 23.89 | 28.32 | 34.87 | 43.76
52 | 24.22 | 28.73 | 35.37 | 44.43
53 | 24.55 | 29.14 | 35.89 | 45.08
54 | 24.86 | 29.53 | 36.40 | 45.74
55 | 25.20 | 29.93 | 36.92 | 46.38
56 | 25.52 | 30.35 | 37.41 | 47.04
57 | 25.86 | 30.75 | 37.94 | 47.69
58 | 26.19 | 31.16 | 38.44 | 48.33
59 | 26.52 | 31.56 | 38.96 | 48.98
60 | 26.84 | 31.95 | 39.48 | 49.62
61 | 27.17 | 32.36 | 40.03 | 50.27
62 | 27.49 | 32.76 | 40.55 | 50.92
63 | 27.82 | 33.17 | 41.10 | 51.56
64 | 28.14 | 33.57 | 41.63 | 52.19
65 | 28.48 | 33.97 | 42.17 | 52.83
66 | 28.80 | 34.37 | 42.71 | 53.49
67 | 29.13 | 34.77 | 43.26 | 54.10
68 | 29.47 | 35.17 | 43.79 | 54.74
69 | 29.79 | 35.58 | 44.33 | 55.38
70 | 30.13 | 36.60 | 45.21 | 56.02
Oversized | 43.95 | 49.97 | 56.17 | 65.40

Balloon Price

Pieces exceeding 84 inches in length and girth combined (but not more than 108 inches) and weighing less than 20 pounds are subject to a price equal to that for a 20-pound parcel for the zone to which the parcel is addressed.

Oversized Pieces

Regardless of weight, any piece that measures more than 108 inches (but not more than 130 inches) in length plus girth must pay the oversized price.

Pickup On Demand Service

Add $22.00 for each Pickup On Demand stop.

IMpb Noncompliance Fee

Add $0.20 for each IMpb-noncompliant parcel paying commercial prices.

2300 International Products

* * *

2305 Outbound International Expedited Services

* * *

2305.6 Prices

Global Express Guaranteed Retail Prices
Maximum weight (pounds) | Country price group: 1 ($) | Country price group: 2 ($) | Country price group: 3 ($) | Country price group: 4 ($) | Country price group: 5 ($) | Country price group: 6 ($) | Country price group: ($) | Country price group: 8 ($)
0.5 | 64.50 | 71.95 | 83.00 | 136.25 | 91.75 | 96.75 | 72.25 | 112.25
1 | 77.15 | 78.30 | 94.15 | 155.20 | 106.60 | 110.10 | 85.50 | 126.10
2 | 82.45 | 85.15 | 101.20 | 171.75 | 113.75 | 118.65 | 95.55 | 140.55
3 | 87.75 | 92.00 | 108.25 | 188.30 | 120.90 | 127.20 | 105.60 | 155.00
4 | 93.05 | 98.85 | 115.30 | 204.85 | 128.05 | 135.75 | 115.65 | 169.45
5 | 98.00 | 105.70 | 122.35 | 221.40 | 135.20 | 144.30 | 125.70 | 183.90
6 | 102.95 | 112.15 | 128.70 | 237.75 | 142.45 | 152.85 | 132.35 | 198.05
7 | 107.90 | 118.60 | 135.05 | 254.10 | 149.70 | 161.40 | 139.00 | 212.20
8 | 112.85 | 125.05 | 141.40 | 270.45 | 156.95 | 169.95 | 145.65 | 226.35
9 | 117.80 | 131.50 | 147.75 | 286.80 | 164.20 | 178.50 | 152.30 | 240.50
10 | 122.75 | 137.95 | 154.10 | 303.15 | 171.45 | 187.05 | 158.95 | 254.65
11 | 127.60 | 141.90 | 159.35 | 319.50 | 176.50 | 194.30 | 164.30 | 265.50
12 | 132.45 | 145.85 | 164.60 | 335.85 | 181.55 | 201.55 | 169.65 | 276.35
13 | 137.30 | 149.80 | 169.85 | 352.20 | 186.60 | 208.80 | 175.00 | 287.20
14 | 142.15 | 153.75 | 175.10 | 368.55 | 191.65 | 216.05 | 180.35 | 298.05
15 | 147.00 | 157.70 | 180.35 | 384.90 | 196.70 | 223.30 | 185.70 | 308.90
16 | 151.85 | 161.65 | 185.60 | 401.25 | 201.75 | 230.55 | 191.05 | 319.75
17 | 156.70 | 165.60 | 190.85 | 417.60 | 206.80 | 237.80 | 196.40 | 330.60
18 | 161.55 | 169.55 | 196.10 | 433.95 | 211.85 | 245.05 | 201.75 | 341.45
19 | 166.40 | 173.50 | 201.35 | 450.30 | 216.90 | 252.30 | 207.10 | 352.30
20 | 171.25 | 177.45 | 206.60 | 466.65 | 221.95 | 259.55 | 212.45 | 363.15
21 | 176.10 | 180.20 | 211.85 | 479.70 | 227.00 | 266.80 | 217.80 | 374.00
22 | 180.95 | 182.95 | 217.10 | 492.75 | 232.05 | 274.05 | 223.15 | 384.85
23 | 185.80 | 185.70 | 222.35 | 505.80 | 237.10 | 281.30 | 228.50 | 395.70
24 | 190.65 | 188.45 | 227.60 | 518.85 | 242.15 | 288.55 | 233.85 | 406.55
25 | 195.50 | 191.20 | 232.85 | 531.90 | 247.20 | 295.80 | 239.20 | 417.40
26 | 200.35 | 193.95 | 238.10 | 544.95 | 252.25 | 303.05 | 244.55 | 428.25
27 | 205.20 | 196.70 | 243.35 | 558.00 | 257.30 | 310.30 | 249.90 | 439.10
28 | 210.05 | 199.45 | 248.60 | 571.05 | 262.35 | 317.55 | 255.25 | 449.95
29 | 214.90 | 202.20 | 253.85 | 584.10 | 267.40 | 324.80 | 260.60 | 460.80
30 | 219.75 | 204.95 | 259.10 | 597.15 | 272.45 | 332.05 | 265.95 | 471.65
31 | 223.90 | 207.70 | 264.35 | 610.20 | 277.50 | 339.30 | 271.30 | 482.50
32 | 228.05 | 210.45 | 269.60 | 623.25 | 282.55 | 346.55 | 276.65 | 493.35
33 | 232.20 | 213.20 | 274.85 | 636.30 | 287.60 | 353.80 | 282.00 | 504.20
34 | 236.35 | 215.95 | 280.10 | 649.35 | 292.65 | 361.05 | 287.35 | 515.05
35 | 240.50 | 218.70 | 285.35 | 662.40 | 297.70 | 368.30 | 292.70 | 525.90
36 | 244.65 | 221.45 | 290.60 | 675.45 | 302.75 | 375.55 | 298.05 | 536.75
37 | 248.80 | 224.20 | 295.85 | 688.50 | 307.80 | 382.80 | 303.40 | 547.60
38 | 252.95 | 226.95 | 301.10 | 701.55 | 312.85 | 390.05 | 308.75 | 558.45
39 | 257.10 | 229.70 | 306.35 | 714.60 | 317.90 | 397.30 | 314.10 | 569.30
40 | 261.25 | 232.45 | 311.60 | 727.65 | 322.95 | 404.55 | 319.45 | 580.15
41 | 264.80 | 235.20 | 316.85 | 740.70 | 328.00 | 411.80 | 324.80 | 591.00
42 | 268.35 | 237.95 | 322.10 | 753.75 | 333.05 | 419.05 | 330.15 | 601.85
43 | 271.90 | 240.70 | 327.35 | 766.80 | 338.10 | 426.30 | 335.50 | 612.70
44 | 275.45 | 243.45 | 332.60 | 779.85 | 343.15 | 433.55 | 340.85 | 623.55
45 | 279.00 | 246.20 | 337.85 | 792.90 | 348.20 | 440.80 | 346.20 | 634.40
46 | 282.55 | 248.95 | 343.10 | 805.95 | 353.25 | 448.05 | 351.55 | 645.25
47 | 286.10 | 251.70 | 348.35 | 819.00 | 358.30 | 455.30 | 356.90 | 656.10
48 | 289.65 | 254.45 | 353.60 | 832.05 | 363.35 | 462.55 | 362.25 | 666.95
49 | 293.20 | 257.20 | 358.85 | 845.10 | 368.40 | 469.80 | 367.60 | 677.80
50 | 296.75 | 259.95 | 364.10 | 858.15 | 373.45 | 477.05 | 372.95 | 688.65
51 | 300.30 | 262.70 | 369.35 | 871.20 | 378.50 | 484.30 | 378.30 | 699.50
52 | 303.85 | 265.45 | 374.60 | 884.25 | 383.55 | 491.55 | 383.65 | 710.35
53 | 307.40 | 268.20 | 379.85 | 897.30 | 388.60 | 498.80 | 389.00 | 721.20
54 | 310.95 | 270.95 | 385.10 | 910.35 | 393.65 | 506.05 | 394.35 | 732.05
55 | 314.50 | 273.70 | 390.35 | 923.40 | 398.70 | 513.30 | 399.70 | 742.90
56 | 318.05 | 276.45 | 395.60 | 936.45 | 403.75 | 520.55 | 405.05 | 753.75
57 | 321.60 | 279.20 | 400.85 | 949.50 | 408.80 | 527.80 | 410.40 | 764.60
58 | 325.15 | 281.95 | 406.10 | 962.55 | 413.85 | 535.05 | 415.75 | 775.45
59 | 328.70 | 284.70 | 411.35 | 975.60 | 418.90 | 542.30 | 421.10 | 786.30
60 | 332.25 | 287.45 | 416.60 | 988.65 | 423.95 | 549.55 | 426.45 | 797.15
61 | 335.80 | 290.20 | 421.85 | 1,001.70 | 429.00 | 556.80 | 431.80 | 808.00
62 | 339.35 | 292.95 | 427.10 | 1,014.75 | 434.05 | 564.05 | 437.15 | 818.85
63 | 342.90 | 295.70 | 432.35 | 1,027.80 | 439.10 | 571.30 | 442.50 | 829.70
64 | 346.45 | 298.45 | 437.60 | 1,040.85 | 444.15 | 578.55 | 447.85 | 840.55
65 | 350.00 | 301.20 | 442.85 | 1,053.90 | 449.20 | 585.80 | 453.20 | 851.40
66 | 353.55 | 303.95 | 448.10 | 1,066.95 | 454.25 | 593.05 | 458.55 | 862.25
67 | 357.10 | 306.70 | 453.35 | 1,080.00 | 459.30 | 600.30 | 463.90 | 873.10
68 | 360.65 | 309.45 | 458.60 | 1,093.05 | 464.35 | 607.55 | 469.25 | 883.95
69 | 364.20 | 312.20 | 463.85 | 1,106.10 | 469.40 | 614.80 | 474.60 | 894.80
70 | 367.75 | 314.95 | 469.10 | 1,119.15 | 474.45 | 622.05 | 479.95 | 905.65

Global Express Guaranteed Commercial Base Prices
Maximum weight (pounds) | Country price group: 1 ($) | Country price group: 2 ($) | Country price group: 3 ($) | Country price group: 4 ($) | Country price group: 5 ($) | Country price group: 6 ($) | Country price group: 7 ($) | Country price group: 8 ($)
0.5 | 61.28 | 68.35 | 78.85 | 129.44 | 87.16 | 91.91 | 68.64 | 106.64
1 | 73.29 | 74.39 | 89.44 | 147.44 | 101.27 | 104.60 | 81.23 | 119.80
2 | 78.33 | 80.89 | 96.14 | 163.16 | 108.06 | 112.72 | 90.77 | 133.52
3 | 83.36 | 87.40 | 102.84 | 178.89 | 114.86 | 120.84 | 100.32 | 147.25
4 | 88.40 | 93.91 | 109.54 | 194.61 | 121.65 | 128.96 | 109.87 | 160.98
5 | 93.10 | 100.42 | 116.23 | 210.33 | 128.44 | 137.09 | 119.42 | 174.71
6 | 97.80 | 106.54 | 122.27 | 225.86 | 135.33 | 145.21 | 125.73 | 188.15
7 | 102.51 | 112.67 | 128.30 | 241.40 | 142.22 | 153.33 | 132.05 | 201.59
8 | 107.21 | 118.80 | 134.33 | 256.93 | 149.10 | 161.45 | 138.37 | 215.03
9 | 111.91 | 124.93 | 140.36 | 272.46 | 155.99 | 169.58 | 144.69 | 228.48
10 | 116.61 | 131.05 | 146.40 | 287.99 | 162.88 | 177.70 | 151.00 | 241.92
11 | 121.22 | 134.81 | 151.38 | 303.53 | 167.68 | 184.59 | 156.09 | 252.23
12 | 125.83 | 138.56 | 156.37 | 319.06 | 172.47 | 191.47 | 161.17 | 262.53
13 | 130.44 | 142.31 | 161.36 | 334.59 | 177.27 | 198.36 | 166.25 | 272.84
14 | 135.04 | 146.06 | 166.35 | 350.12 | 182.07 | 205.25 | 171.33 | 283.15
15 | 139.65 | 149.82 | 171.33 | 365.66 | 186.87 | 212.14 | 176.42 | 293.46
16 | 144.26 | 153.57 | 176.32 | 381.19 | 191.66 | 219.02 | 181.50 | 303.76
17 | 148.87 | 157.32 | 181.31 | 396.72 | 196.46 | 225.91 | 186.58 | 314.07
18 | 153.47 | 161.07 | 186.30 | 412.25 | 201.26 | 232.80 | 191.66 | 324.38
19 | 158.08 | 164.83 | 191.28 | 427.79 | 206.06 | 239.69 | 196.75 | 334.69
20 | 162.69 | 168.58 | 196.27 | 443.32 | 210.85 | 246.57 | 201.83 | 344.99
21 | 167.30 | 171.19 | 201.26 | 455.72 | 215.65 | 253.46 | 206.91 | 355.30
22 | 171.90 | 173.80 | 206.25 | 468.11 | 220.45 | 260.35 | 211.99 | 365.61
23 | 176.51 | 176.42 | 211.23 | 480.51 | 225.25 | 267.24 | 217.08 | 375.92
24 | 181.12 | 179.03 | 216.22 | 492.91 | 230.04 | 274.12 | 222.16 | 386.22
25 | 185.73 | 181.64 | 221.21 | 505.31 | 234.84 | 281.01 | 227.24 | 396.53
26 | 190.33 | 184.25 | 226.20 | 517.70 | 239.64 | 287.90 | 232.32 | 406.84
27 | 194.94 | 186.87 | 231.18 | 530.10 | 244.44 | 294.79 | 237.41 | 417.15
28 | 199.55 | 189.48 | 236.17 | 542.50 | 249.23 | 301.67 | 242.49 | 427.45
29 | 204.16 | 192.09 | 241.16 | 554.90 | 254.03 | 308.56 | 247.57 | 437.76
30 | 208.76 | 194.70 | 246.15 | 567.29 | 258.83 | 315.45 | 252.65 | 448.07
31 | 212.71 | 197.32 | 251.13 | 579.69 | 263.63 | 322.34 | 257.74 | 458.38
32 | 216.65 | 199.93 | 256.12 | 592.09 | 268.42 | 329.22 | 262.82 | 468.68
33 | 220.59 | 202.54 | 261.11 | 604.49 | 273.22 | 336.11 | 267.90 | 478.99
34 | 224.53 | 205.15 | 266.10 | 616.88 | 278.02 | 343.00 | 272.98 | 489.30
35 | 228.48 | 207.77 | 271.08 | 629.28 | 282.82 | 349.89 | 278.07 | 499.61
36 | 232.42 | 210.38 | 276.07 | 641.68 | 287.61 | 356.77 | 283.15 | 509.91
37 | 236.36 | 212.99 | 281.06 | 654.08 | 292.41 | 363.66 | 288.23 | 520.22
38 | 240.30 | 215.60 | 286.05 | 666.47 | 297.21 | 370.55 | 293.31 | 530.53
39 | 244.25 | 218.22 | 291.03 | 678.87 | 302.01 | 377.44 | 298.40 | 540.84
40 | 248.19 | 220.83 | 296.02 | 691.27 | 306.80 | 384.32 | 303.48 | 551.14
41 | 251.56 | 223.44 | 301.01 | 703.67 | 311.60 | 391.21 | 308.56 | 561.45
42 | 254.93 | 226.05 | 306.00 | 716.06 | 316.40 | 398.10 | 313.64 | 571.76
43 | 258.31 | 228.67 | 310.98 | 728.46 | 321.20 | 404.99 | 318.73 | 582.07
44 | 261.68 | 231.28 | 315.97 | 740.86 | 325.99 | 411.87 | 323.81 | 592.37
45 | 265.05 | 233.89 | 320.96 | 753.26 | 330.79 | 418.76 | 328.89 | 602.68
46 | 268.42 | 236.50 | 325.95 | 765.65 | 335.59 | 425.65 | 333.97 | 612.99
47 | 271.80 | 239.12 | 330.93 | 778.05 | 340.39 | 432.54 | 339.06 | 623.30
48 | 275.17 | 241.73 | 335.92 | 790.45 | 345.18 | 439.42 | 344.14 | 633.60
49 | 278.54 | 244.34 | 340.91 | 802.85 | 349.98 | 446.31 | 349.22 | 643.91
50 | 281.91 | 246.95 | 345.90 | 815.24 | 354.78 | 453.20 | 354.30 | 654.22
51 | 285.29 | 249.57 | 350.88 | 827.64 | 359.58 | 460.09 | 359.39 | 664.53
52 | 288.66 | 252.18 | 355.87 | 840.04 | 364.37 | 466.97 | 364.47 | 674.83
53 | 292.03 | 254.79 | 360.86 | 852.44 | 369.17 | 473.86 | 369.55 | 685.14
54 | 295.40 | 257.40 | 365.85 | 864.83 | 373.97 | 480.75 | 374.63 | 695.45
55 | 298.78 | 260.02 | 370.83 | 877.23 | 378.77 | 487.64 | 379.72 | 705.76
56 | 302.15 | 262.63 | 375.82 | 889.63 | 383.56 | 494.52 | 384.80 | 716.06
57 | 305.52 | 265.24 | 380.81 | 902.03 | 388.36 | 501.41 | 389.88 | 726.37
58 | 308.89 | 267.85 | 385.80 | 914.42 | 393.16 | 508.30 | 394.96 | 736.68
59 | 312.27 | 270.47 | 390.78 | 926.82 | 397.96 | 515.19 | 400.05 | 746.99
60 | 315.64 | 273.08 | 395.77 | 939.22 | 402.75 | 522.07 | 405.13 | 757.29
61 | 319.01 | 275.69 | 400.76 | 951.62 | 407.55 | 528.96 | 410.21 | 767.60
62 | 322.38 | 278.30 | 405.75 | 964.01 | 412.35 | 535.85 | 415.29 | 777.91
63 | 325.76 | 280.92 | 410.73 | 976.41 | 417.15 | 542.74 | 420.38 | 788.22
64 | 329.13 | 283.53 | 415.72 | 988.81 | 421.94 | 549.62 | 425.46 | 798.52
65 | 332.50 | 286.14 | 420.71 | 1,001.21 | 426.74 | 556.51 | 430.54 | 808.83
66 | 335.87 | 288.75 | 425.70 | 1,013.60 | 431.54 | 563.40 | 435.62 | 819.14
67 | 339.25 | 291.37 | 430.68 | 1,026.00 | 436.34 | 570.29 | 440.71 | 829.45
68 | 342.62 | 293.98 | 435.67 | 1,038.40 | 441.13 | 577.17 | 445.79 | 839.75
69 | 345.99 | 296.59 | 440.66 | 1,050.80 | 445.93 | 584.06 | 450.87 | 850.06
70 | 349.36 | 299.20 | 445.65 | 1,063.19 | 450.73 | 590.95 | 455.95 | 860.37

Global Express Guaranteed Commercial Plus Prices
Maximum weight (pounds) | Country price group: 1 ($) | Country price group: 2 ($) | Country price group: 3 ($) | Country price group: 4 ($) | Country price group: 5 ($) | Country price group: 6 ($) | Country price group: 7 ($) | Country price group: 8 ($)
0.5 | 61.28 | 68.35 | 78.85 | 129.44 | 87.16 | 91.91 | 68.64 | 106.64
1 | 73.29 | 74.39 | 89.44 | 147.44 | 101.27 | 104.60 | 81.23 | 119.80
2 | 78.33 | 80.89 | 96.14 | 163.16 | 108.06 | 112.72 | 90.77 | 133.52
3 | 83.36 | 87.40 | 102.84 | 178.89 | 114.86 | 120.84 | 100.32 | 147.25
4 | 88.40 | 93.91 | 109.54 | 194.61 | 121.65 | 128.96 | 109.87 | 160.98
5 | 93.10 | 100.42 | 116.23 | 210.33 | 128.44 | 137.09 | 119.42 | 174.71
6 | 97.80 | 106.54 | 122.27 | 225.86 | 135.33 | 145.21 | 125.73 | 188.15
7 | 102.51 | 112.67 | 128.30 | 241.40 | 142.22 | 153.33 | 132.05 | 201.59
8 | 107.21 | 118.80 | 134.33 | 256.93 | 149.10 | 161.45 | 138.37 | 215.03
9 | 111.91 | 124.93 | 140.36 | 272.46 | 155.99 | 169.58 | 144.69 | 228.48
10 | 116.61 | 131.05 | 146.40 | 287.99 | 162.88 | 177.70 | 151.00 | 241.92
11 | 121.22 | 134.81 | 151.38 | 303.53 | 167.68 | 184.59 | 156.09 | 252.23
12 | 125.83 | 138.56 | 156.37 | 319.06 | 172.47 | 191.47 | 161.17 | 262.53
13 | 130.44 | 142.31 | 161.36 | 334.59 | 177.27 | 198.36 | 166.25 | 272.84
14 | 135.04 | 146.06 | 166.35 | 350.12 | 182.07 | 205.25 | 171.33 | 283.15
15 | 139.65 | 149.82 | 171.33 | 365.66 | 186.87 | 212.14 | 176.42 | 293.46
16 | 144.26 | 153.57 | 176.32 | 381.19 | 191.66 | 219.02 | 181.50 | 303.76
17 | 148.87 | 157.32 | 181.31 | 396.72 | 196.46 | 225.91 | 186.58 | 314.07
18 | 153.47 | 161.07 | 186.30 | 412.25 | 201.26 | 232.80 | 191.66 | 324.38
19 | 158.08 | 164.83 | 191.28 | 427.79 | 206.06 | 239.69 | 196.75 | 334.69
20 | 162.69 | 168.58 | 196.27 | 443.32 | 210.85 | 246.57 | 201.83 | 344.99
21 | 167.30 | 171.19 | 201.26 | 455.72 | 215.65 | 253.46 | 206.91 | 355.30
22 | 171.90 | 173.80 | 206.25 | 468.11 | 220.45 | 260.35 | 211.99 | 365.61
23 | 176.51 | 176.42 | 211.23 | 480.51 | 225.25 | 267.24 | 217.08 | 375.92
24 | 181.12 | 179.03 | 216.22 | 492.91 | 230.04 | 274.12 | 222.16 | 386.22
25 | 185.73 | 181.64 | 221.21 | 505.31 | 234.84 | 281.01 | 227.24 | 396.53
26 | 190.33 | 184.25 | 226.20 | 517.70 | 239.64 | 287.90 | 232.32 | 406.84
27 | 194.94 | 186.87 | 231.18 | 530.10 | 244.44 | 294.79 | 237.41 | 417.15
28 | 199.55 | 189.48 | 236.17 | 542.50 | 249.23 | 301.67 | 242.49 | 427.45
29 | 204.16 | 192.09 | 241.16 | 554.90 | 254.03 | 308.56 | 247.57 | 437.76
30 | 208.76 | 194.70 | 246.15 | 567.29 | 258.83 | 315.45 | 252.65 | 448.07
31 | 212.71 | 197.32 | 251.13 | 579.69 | 263.63 | 322.34 | 257.74 | 458.38
32 | 216.65 | 199.93 | 256.12 | 592.09 | 268.42 | 329.22 | 262.82 | 468.68
33 | 220.59 | 202.54 | 261.11 | 604.49 | 273.22 | 336.11 | 267.90 | 478.99
34 | 224.53 | 205.15 | 266.10 | 616.88 | 278.02 | 343.00 | 272.98 | 489.30
35 | 228.48 | 207.77 | 271.08 | 629.28 | 282.82 | 349.89 | 278.07 | 499.61
36 | 232.42 | 210.38 | 276.07 | 641.68 | 287.61 | 356.77 | 283.15 | 509.91
37 | 236.36 | 212.99 | 281.06 | 654.08 | 292.41 | 363.66 | 288.23 | 520.22
38 | 240.30 | 215.60 | 286.05 | 666.47 | 297.21 | 370.55 | 293.31 | 530.53
39 | 244.25 | 218.22 | 291.03 | 678.87 | 302.01 | 377.44 | 298.40 | 540.84
40 | 248.19 | 220.83 | 296.02 | 691.27 | 306.80 | 384.32 | 303.48 | 551.14
41 | 251.56 | 223.44 | 301.01 | 703.67 | 311.60 | 391.21 | 308.56 | 561.45
42 | 254.93 | 226.05 | 306.00 | 716.06 | 316.40 | 398.10 | 313.64 | 571.76
43 | 258.31 | 228.67 | 310.98 | 728.46 | 321.20 | 404.99 | 318.73 | 582.07
44 | 261.68 | 231.28 | 315.97 | 740.86 | 325.99 | 411.87 | 323.81 | 592.37
45 | 265.05 | 233.89 | 320.96 | 753.26 | 330.79 | 418.76 | 328.89 | 602.68
46 | 268.42 | 236.50 | 325.95 | 765.65 | 335.59 | 425.65 | 333.97 | 612.99
47 | 271.80 | 239.12 | 330.93 | 778.05 | 340.39 | 432.54 | 339.06 | 623.30
48 | 275.17 | 241.73 | 335.92 | 790.45 | 345.18 | 439.42 | 344.14 | 633.60
49 | 278.54 | 244.34 | 340.91 | 802.85 | 349.98 | 446.31 | 349.22 | 643.91
50 | 281.91 | 246.95 | 345.90 | 815.24 | 354.78 | 453.20 | 354.30 | 654.22
51 | 285.29 | 249.57 | 350.88 | 827.64 | 359.58 | 460.09 | 359.39 | 664.53
52 | 288.66 | 252.18 | 355.87 | 840.04 | 364.37 | 466.97 | 364.47 | 674.83
53 | 292.03 | 254.79 | 360.86 | 852.44 | 369.17 | 473.86 | 369.55 | 685.14
54 | 295.40 | 257.40 | 365.85 | 864.83 | 373.97 | 480.75 | 374.63 | 695.45
55 | 298.78 | 260.02 | 370.83 | 877.23 | 378.77 | 487.64 | 379.72 | 705.76
56 | 302.15 | 262.63 | 375.82 | 889.63 | 383.56 | 494.52 | 384.80 | 716.06
57 | 305.52 | 265.24 | 380.81 | 902.03 | 388.36 | 501.41 | 389.88 | 726.37
58 | 308.89 | 267.85 | 385.80 | 914.42 | 393.16 | 508.30 | 394.96 | 736.68
59 | 312.27 | 270.47 | 390.78 | 926.82 | 397.96 | 515.19 | 400.05 | 746.99
60 | 315.64 | 273.08 | 395.77 | 939.22 | 402.75 | 522.07 | 405.13 | 757.29
61 | 319.01 | 275.69 | 400.76 | 951.62 | 407.55 | 528.96 | 410.21 | 767.60
62 | 322.38 | 278.30 | 405.75 | 964.01 | 412.35 | 535.85 | 415.29 | 777.91
63 | 325.76 | 280.92 | 410.73 | 976.41 | 417.15 | 542.74 | 420.38 | 788.22
64 | 329.13 | 283.53 | 415.72 | 988.81 | 421.94 | 549.62 | 425.46 | 798.52
65 | 332.50 | 286.14 | 420.71 | 1,001.21 | 426.74 | 556.51 | 430.54 | 808.83
66 | 335.87 | 288.75 | 425.70 | 1,013.60 | 431.54 | 563.40 | 435.62 | 819.14
67 | 339.25 | 291.37 | 430.68 | 1,026.00 | 436.34 | 570.29 | 440.71 | 829.45
68 | 342.62 | 293.98 | 435.67 | 1,038.40 | 441.13 | 577.17 | 445.79 | 839.75
69 | 345.99 | 296.59 | 440.66 | 1,050.80 | 445.93 | 584.06 | 450.87 | 850.06
70 | 349.36 | 299.20 | 445.65 | 1,063.19 | 450.73 | 590.95 | 455.95 | 860.37

Priority Mail Express International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelope | 43.00 | 59.75 | 63.95 | 61.95 | 63.95 | 66.00 | 62.95 | 65.00

Priority Mail Express International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelope | 40.85 | 56.75 | 60.75 | 58.85 | 60.75 | 62.70 | 59.80 | 61.75

Priority Mail Express International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelope | 40.85 | 56.75 | 60.75 | 58.85 | 60.75 | 62.70 | 59.80 | 61.75

Priority Mail Express International Retail Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 42.50 | 54.00 | 56.95 | 65.95 | 60.50 | 60.50 | 61.25 | 58.00 | 56.00
1 | 46.45 | 56.25 | 61.20 | 67.30 | 62.35 | 64.35 | 67.00 | 63.40 | 60.75
2 | 51.40 | 60.30 | 66.75 | 72.65 | 66.40 | 69.10 | 73.55 | 68.60 | 65.50
3 | 56.35 | 64.35 | 72.30 | 78.00 | 70.45 | 73.85 | 80.10 | 73.80 | 70.25
4 | 61.30 | 68.40 | 77.85 | 83.35 | 74.50 | 78.60 | 86.65 | 79.00 | 75.00
5 | 66.25 | 72.45 | 83.40 | 88.70 | 78.55 | 83.35 | 93.20 | 84.20 | 79.75
6 | 71.20 | 75.30 | 87.45 | 94.05 | 82.60 | 88.20 | 99.75 | 89.30 | 84.20
7 | 76.15 | 78.15 | 91.50 | 99.40 | 86.65 | 93.05 | 106.30 | 94.40 | 88.65
8 | 81.10 | 81.00 | 95.55 | 104.75 | 90.70 | 97.90 | 112.85 | 99.50 | 93.10
9 | 86.05 | 83.85 | 99.60 | 110.10 | 94.75 | 102.75 | 119.40 | 104.60 | 97.55
10 | 91.00 | 86.70 | 103.65 | 115.45 | 98.80 | 107.60 | 125.95 | 109.70 | 102.00
11 | 95.75 | 89.55 | 107.25 | 120.75 | 102.85 | 112.45 | 132.50 | 114.80 | 106.55
12 | 100.50 | 92.40 | 110.85 | 126.05 | 106.90 | 117.30 | 139.05 | 119.90 | 111.10
13 | 105.25 | 95.25 | 114.45 | 131.35 | 110.95 | 122.15 | 145.60 | 125.00 | 115.65
14 | 110.00 | 98.10 | 118.05 | 136.65 | 115.00 | 127.00 | 152.15 | 130.10 | 120.20
15 | 114.75 | 100.95 | 121.65 | 141.95 | 119.05 | 131.85 | 158.70 | 135.20 | 124.75
16 | 119.50 | 103.70 | 125.25 | 147.25 | 123.10 | 136.70 | 165.25 | 140.30 | 129.30
17 | 124.25 | 106.45 | 128.85 | 152.55 | 127.15 | 141.55 | 171.80 | 145.40 | 133.85
18 | 129.00 | 109.20 | 132.45 | 157.85 | 131.20 | 146.40 | 178.35 | 150.50 | 138.40
19 | 133.75 | 111.95 | 136.05 | 163.15 | 135.25 | 151.25 | 184.90 | 155.60 | 142.95
20 | 138.50 | 114.70 | 139.65 | 168.45 | 139.30 | 156.10 | 191.45 | 160.70 | 147.50
21 | 143.25 | 117.45 | 143.25 | 173.75 | 143.35 | 160.95 | 198.00 | 165.80 | 152.05
22 | 148.00 | 120.20 | 146.85 | 179.05 | 147.40 | 165.80 | 204.55 | 170.90 | 156.60
23 | 152.75 | 122.95 | 150.45 | 184.35 | 151.45 | 170.65 | 211.10 | 176.00 | 161.15
24 | 157.50 | 125.70 | 154.05 | 189.65 | 155.50 | 175.50 | 217.65 | 181.10 | 165.70
25 | 162.25 | 128.45 | 157.65 | 194.95 | 159.55 | 180.35 | 224.20 | 186.20 | 170.25

Priority Mail Express International Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
0.5 | 65.50 | 63.00 | 61.95 | 63.00 | 62.25 | 63.50 | 63.00 | 63.00
1 | 68.35 | 64.85 | 69.00 | 64.95 | 63.80 | 67.05 | 64.55 | 64.85
2 | 74.60 | 69.20 | 74.35 | 68.20 | 69.95 | 71.40 | 67.60 | 67.70
3 | 80.85 | 73.55 | 79.70 | 71.45 | 76.10 | 75.75 | 70.65 | 70.55
4 | 87.10 | 77.90 | 85.05 | 74.70 | 82.25 | 80.10 | 73.70 | 73.40
5 | 93.35 | 82.25 | 90.40 | 77.95 | 88.40 | 84.45 | 76.75
6 | 99.80 | 85.60 | 95.45 | 81.30 | 94.65 | 88.90 | 79.70 | 79.10
7 | 106.25 | 88.95 | 100.50 | 84.65 | 100.90 | 93.35 | 82.65 | 81.95
8 | 112.70 | 92.30 | 105.55 | 88.00 | 107.15 | 97.80 | 85.60 | 84.80
9 | 119.15 | 95.65 | 110.60 | 91.35 | 113.40 | 102.25 | 88.55 | 87.65
10 | 125.60 | 99.00 | 115.65 | 94.70 | 119.65 | 106.70 | 91.50 | 90.50
11 | 132.15 | 102.35 | 119.90 | 98.05 | 126.30 | 111.15 | 95.05 | 93.95
12 | 138.70 | 105.70 | 124.15 | 101.40 | 132.95 | 115.60 | 98.60 | 97.40
13 | 145.25 | 109.05 | 128.40 | 104.75 | 139.60 | 120.05 | 102.15 | 100.85
14 | 151.80 | 112.40 | 132.65 | 108.10 | 146.25 | 124.50 | 105.70 | 104.30
15 | 158.35 | 115.75 | 136.90 | 111.45 | 152.90 | 128.95 | 109.25 | 107.75
16 | 164.90 | 119.10 | 141.15 | 114.80 | 159.55 | 133.40 | 112.80 | 111.20
17 | 171.45 | 122.45 | 145.40 | 118.15 | 166.20 | 137.85 | 116.35 | 114.65
18 | 178.00 | 125.80 | 149.65 | 121.50 | 172.85 | 142.30 | 119.90 | 118.10
19 | 184.55 | 129.15 | 153.90 | 124.85 | 179.50 | 146.75 | 123.45
20 | 191.10 | 132.50 | 158.15 | 128.20 | 186.15 | 151.20 | 127.00 | 125.00
21 | 197.65 | 135.85 | 162.40 | 131.55 | 192.10 | 155.65 | 130.55 | 128.45
22 | 204.20 | 139.20 | 166.65 | 134.90 | 198.05 | 160.10 | 134.10 | 131.90
23 | 210.75 | 142.55 | 170.90 | 138.25 | 204.00 | 164.55 | 137.65 | 135.35
24 | 217.30 | 145.90 | 175.15 | 141.60 | 209.95 | 169.00 | 141.20 | 138.80
25 | 223.85 | 149.25 | 179.40 | 144.95 | 215.90 | 173.45 | 144.75 | 142.25

Priority Mail Express International Retail Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 167.00 | 131.20 | 161.25 | 200.25 | 163.60 | 185.20 | 230.75 | 191.30 | 174.80
27 | 171.75 | 133.95 | 164.85 | 205.55 | 167.65 | 190.05 | 237.30 | 196.40 | 179.35
28 | 176.50 | 136.70 | 168.45 | 210.85 | 171.70 | 194.90 | 243.85 | 201.50 | 183.90
29 | 181.25 | 139.45 | 172.05 | 216.15 | 175.75 | 199.75 | 250.40 | 206.60 | 188.45
30 | 186.00 | 142.20 | 175.65 | 221.45 | 179.80 | 204.60 | 256.95 | 211.70 | 193.00
31 | 189.95 | 144.95 | 179.25 | 226.75 | 183.85 | 209.45 | 263.50 | 216.80 | 197.55
32 | 193.90 | 147.70 | 182.85 | 232.05 | 187.90 | 214.30 | 270.05 | 221.90 | 202.10
33 | 197.85 | 150.45 | 186.45 | 237.35 | 191.95 | 219.15 | 276.60 | 227.00 | 206.65
34 | 201.80 | 153.20 | 190.05 | 242.65 | 196.00 | 224.00 | 283.15 | 232.10 | 211.20
35 | 205.75 | 155.95 | 193.65 | 247.95 | 200.05 | 228.85 | 289.70 | 237.20 | 215.75
36 | 209.70 | 158.70 | 197.25 | 253.25 | 204.10 | 233.70 | 296.25 | 242.30 | 220.30
37 | 213.65 | 161.45 | 200.85 | 258.55 | 208.15 | 238.55 | 302.80 | 247.40 | 224.85
38 | 217.60 | 164.20 | 204.45 | 263.85 | 212.20 | 243.40 | 309.35 | 252.50 | 229.40
39 | 221.55 | 166.95 | 208.05 | 269.15 | 216.25 | 248.25 | 315.90 | 257.60 | 233.95
40 | 225.50 | 169.70 | 211.65 | 274.45 | 220.30 | 253.10 | 322.45 | 262.70 | 238.50
41 | 229.45 | 172.45 | 215.25 | 279.75 | 224.35 | 257.95 | 329.00 | 267.80 | 243.05
42 | 233.40 | 175.20 | 218.85 | 285.05 | 228.40 | 262.80 | 335.55 | 272.90 | 247.60
43 | 237.35 | 177.95 | 222.45 | 290.35 | 232.45 | 267.65 | 342.10 | 278.00 | 252.15
44 | 241.30 | 180.70 | 226.05 | 295.65 | 236.50 | 272.50 | 348.65 | 283.10 | 256.70
45 | 245.25 | 183.45 | 229.65 | 300.95 | 240.55 | 277.35 | 355.20 | 288.20 | 261.25
46 | 249.20 | 186.20 | 233.25 | 306.25 | 244.60 | 282.20 | 361.75 | 293.30 | 265.80
47 | 253.15 | 188.95 | 236.85 | 311.55 | 248.65 | 287.05 | 368.30 | 298.40 | 270.35
48 | 257.10 | 191.70 | 240.45 | 316.85 | 252.70 | 291.90 | 374.85 | 303.50 | 274.90
49 | 261.05 | 194.45 | 244.05 | 322.15 | 256.75 | 296.75 | 381.40 | 308.60 | 279.45
50 | 265.00 | 197.20 | 247.65 | 327.45 | 260.80 | 301.60 | 387.95 | 313.70 | 284.00

Priority Mail Express International Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 230.40 | 152.60 | 183.65 | 148.30 | 221.85 | 177.90 | 148.30 | 145.70
27 | 236.95 | 155.95 | 187.90 | 151.65 | 227.80 | 182.35 | 151.85 | 149.15
28 | 243.50 | 159.30 | 192.15 | 155.00 | 233.75 | 186.80 | 155.40 | 152.60
29 | 250.05 | 162.65 | 196.40 | 158.35 | 239.70 | 191.25 | 158.95 | 156.05
30 | 256.60 | 166.00 | 200.65 | 161.70 | 245.65 | 195.70 | 162.50 | 159.50
31 | 263.15 | 169.35 | 204.90 | 165.05 | 251.60 | 200.15 | 166.05 | 162.95
32 | 269.70 | 172.70 | 209.15 | 168.40 | 257.55 | 204.60 | 169.60 | 166.40
33 | 276.25 | 176.05 | 213.40 | 171.75 | 263.50 | 209.05 | 173.15 | 169.85
34 | 282.80 | 179.40 | 217.65 | 175.10 | 269.45 | 213.50 | 176.70 | 173.30
35 | 289.35 | 182.75 | 221.90 | 178.45 | 275.40 | 217.95 | 180.25 | 176.75
36 | 295.90 | 186.10 | 226.15 | 181.80 | 281.35 | 222.40 | 183.80 | 180.20
37 | 302.45 | 189.45 | 230.40 | 185.15 | 287.30 | 226.85 | 187.35 | 183.65
38 | 309.00 | 192.80 | 234.65 | 188.50 | 293.25 | 231.30 | 190.90 | 187.10
39 | 315.55 | 196.15 | 238.90 | 191.85 | 299.20 | 235.75 | 194.45 | 190.55
40 | 322.10 | 199.50 | 243.15 | 195.20 | 305.15 | 240.20 | 198.00 | 194.00
41 | 328.65 | 202.85 | 247.40 | 198.55 | 311.10 | 244.65 | 201.55 | 197.45
42 | 335.20 | 206.20 | 251.65 | 201.90 | 317.05 | 249.10 | 205.10 | 200.90
43 | 341.75 | 209.55 | 255.90 | 205.25 | 323.00 | 253.55 | 208.65 | 204.35
44 | 348.30 | 212.90 | 260.15 | 208.60 | 328.95 | 258.00 | 212.20 | 207.80
45 | 354.85 | 216.25 | 264.40 | 211.95 | 334.90 | 262.45 | 215.75 | 211.25
46 | 361.40 | 219.60 | 268.65 | 215.30 | 340.85 | 266.90 | 219.30 | 214.70
47 | 367.95 | 222.95 | 272.90 | 218.65 | 346.80 | 271.35 | 222.85 | 218.15
48 | 374.50 | 226.30 | 277.15 | 222.00 | 352.75 | 275.80 | 226.40 | 221.60
49 | 381.05 | 229.65 | 281.40 | 225.35 | 358.70 | 280.25 | 229.95 | 225.05
50 | 387.60 | 233.00 | 285.65 | 228.70 | 364.65 | 284.70 | 233.50 | 228.50

Priority Mail Express International Retail Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 268.95 | 199.95 | 251.25 | 332.75 | 264.85 | 306.45 | 394.50 | 318.80 | 288.55
52 | 272.90 | 202.70 | 254.85 | 338.05 | 268.90 | 311.30 | 401.05 | 323.90 | 293.10
53 | 276.85 | 205.45 | 258.45 | 343.35 | 272.95 | 316.15 | 407.60 | 329.00 | 297.65
54 | 280.80 | 208.20 | 262.05 | 348.65 | 277.00 | 321.00 | 414.15 | 334.10 | 302.20
55 | 284.75 | 210.95 | 265.65 | 353.95 | 281.05 | 325.85 | 420.70 | 339.20 | 306.75
56 | 288.70 | 213.70 | 269.25 | 359.25 | 285.10 | 330.70 | 427.25 | 344.30 | 311.30
57 | 292.65 | 216.45 | 272.85 | 364.55 | 289.15 | 335.55 | 433.80 | 349.40 | 315.85
58 | 296.60 | 219.20 | 276.45 | 369.85 | 293.20 | 340.40 | 440.35 | 354.50 | 320.40
59 | 300.55 | 221.95 | 280.05 | 375.15 | 297.25 | 345.25 | 446.90 | 359.60 | 324.95
60 | 304.50 | 224.70 | 283.65 | 380.45 | 301.30 | 350.10 | 453.45 | 364.70 | 329.50
61 | 308.45 | 227.45 | 287.25 | 385.75 | 305.35 | 354.95 | 460.00 | 369.80 | 334.05
62 | 312.40 | 230.20 | 290.85 | 391.05 | 309.40 | 359.80 | 466.55 | 374.90 | 338.60
63 | 316.35 | 232.95 | 294.45 | 396.35 | 313.45 | 364.65 | 473.10 | 380.00 | 343.15
64 | 320.30 | 235.70 | 298.05 | 401.65 | 317.50 | 369.50 | 479.65 | 385.10 | 347.70
65 | 324.25 | 238.45 | 301.65 | 406.95 | 321.55 | 374.35 | 486.20 | 390.20 | 352.25
66 | 328.20 | 241.20 | 305.25 | 412.25 | 325.60 | 379.20 | 492.75 | 395.30 | 356.80
67 |  | 243.95 | 308.85 | 417.55 | 329.65 | 384.05 | 499.30 | 400.40 | 361.35
68 |  | 246.70 | 312.45 | 422.85 | 333.70 | 388.90 | 505.85 | 405.50 | 365.90
69 |  | 249.45 | 316.05 | 428.15 | 337.75 | 393.75 | 512.40 | 410.60 | 370.45
70 |  | 252.20 | 319.65 | 433.45 | 341.80 | 398.60 | 518.95 | 415.70 | 375.00

Priority Mail Express International Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 394.15 | 236.35 | 289.90 | 232.05 | 370.60 | 289.15 | 237.05 | 231.95
52 | 400.70 | 239.70 | 294.15 | 235.40 | 376.55 | 293.60 | 240.60 | 235.40
53 | 407.25 | 243.05 | 298.40 | 238.75 | 382.50 | 298.05 | 244.15 | 238.85
54 | 413.80 | 246.40 | 302.65 | 242.10 | 388.45 | 302.50 | 247.70
55 | 420.35 | 249.75 | 306.90 | 245.45 | 394.40 | 306.95 | 251.25 | 245.75
56 | 426.90 | 253.10 | 311.15 | 248.80 | 400.35 | 311.40 | 254.80 | 249.20
57 | 433.45 | 256.45 | 315.40 | 252.15 | 406.30 | 315.85 | 258.35 | 252.65
58 | 440.00 | 259.80 | 319.65 | 255.50 | 412.25 | 320.30 | 261.90 | 256.10
59 | 446.55 | 263.15 | 323.90 | 258.85 | 418.20 | 324.75 | 265.45 | 259.55
60 | 453.10 | 266.50 | 328.15 | 262.20 | 424.15 | 329.20 | 269.00 | 263.00
61 | 459.65 | 269.85 | 332.40 | 265.55 | 430.10 | 333.65 | 272.55 | 266.45
62 | 466.20 | 273.20 | 336.65 | 268.90 | 436.05 | 338.10 | 276.10 | 269.90
63 | 472.75 | 276.55 | 340.90 | 272.25 | 442.00 | 342.55 | 279.65 | 273.35
64 | 479.30 | 279.90 | 345.15 | 275.60 | 447.95 | 347.00 | 283.20 | 276.80
65 | 485.85 | 283.25 | 349.40 | 278.95 | 453.90 | 351.45 | 286.75 | 280.25
66 | 492.40 | 286.60 | 353.65 | 282.30 | 459.85 | 355.90 | 290.30 | 283.70
67 |  |  |  |  |  |  |  |
68 |  |  |  |  |  |  |  |
69 |  |  |  |  |  |  |  |
70 |  |  |  |  |  |  |  |

Priority Mail Express International Offered at a Discount at Retail

If a customer requests PMI at a Postal Service retail counter for an item for which postage has not been previously paid, weight-rated PMEI may be offered to certain destinations, for certain weight steps, at a discounted price equivalent to the corresponding weight-based rate in the PMI Parcels Retail price table (2315.6), if all PMEI eligibility requirements are met and the Postal Service determines that service can be improved and/or the PMEI destination country delivery costs are lower than PMI destination country delivery costs.

Countries and Weight Steps for Which Priority Mail Express International Offered at a Discount at Retail Is Available
Country | Weight steps (lbs.)
Australia | 8-66
Brazil | 5-66
Chile | 8-44
China | 1-10
France | 2-66
Germany | 1-4
Great Britain | 2-66
India | 19-44
Israel | 1-5
Mexico | 50-70
New Zealand | 8-66
Philippines | 19-44
Russia | 4-44
Spain | 1-10

Priority Mail Express International Commercial Base Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 40.38 | 51.30 | 54.10 | 62.65 | 57.48 | 57.48 | 58.19 | 55.10 | 53.20
1 | 44.13 | 53.44 | 58.14 | 63.94 | 59.23 | 61.13 | 63.65 | 60.23 | 57.71
2 | 48.83 | 57.29 | 63.41 | 69.02 | 63.08 | 65.65 | 69.87 | 65.17 | 62.23
3 | 53.53 | 61.13 | 68.69 | 74.10 | 66.93 | 70.16 | 76.10 | 70.11 | 66.74
4 | 58.24 | 64.98 | 73.96 | 79.18 | 70.78 | 74.67 | 82.32 | 75.05 | 71.25
5 | 62.94 | 68.83 | 79.23 | 84.27 | 74.62 | 79.18 | 88.54 | 79.99 | 75.76
6 | 67.64 | 71.54 | 83.08 | 89.35 | 78.47 | 83.79 | 94.76 | 84.84 | 79.99
7 | 72.34 | 74.24 | 86.93 | 94.43 | 82.32 | 88.40 | 100.99 | 89.68 | 84.22
8 | 77.05 | 76.95 | 90.77 | 99.51 | 86.17 | 93.01 | 107.21 | 94.53 | 88.45
9 | 81.75 | 79.66 | 94.62 | 104.60 | 90.01 | 97.61 | 113.43 | 99.37 | 92.67
10 | 86.45 | 82.37 | 98.47 | 109.68 | 93.86 | 102.22 | 119.65 | 104.22 | 96.90
11 | 90.96 | 85.07 | 101.89 | 114.71 | 97.71 | 106.83 | 125.88 | 109.06 | 101.22
12 | 95.48 | 87.78 | 105.31 | 119.75 | 101.56 | 111.44 | 132.10 | 113.91 | 105.55
13 | 99.99 | 90.49 | 108.73 | 124.78 | 105.40 | 116.04 | 138.32 | 118.75 | 109.87
14 | 104.50 | 93.20 | 112.15 | 129.82 | 109.25 | 120.65 | 144.54 | 123.60 | 114.19
15 | 109.01 | 95.90 | 115.57 | 134.85 | 113.10 | 125.26 | 150.77 | 128.44 | 118.51
16 | 113.53 | 98.52 | 118.99 | 139.89 | 116.95 | 129.87 | 156.99 | 133.29 | 122.84
17 | 118.04 | 101.13 | 122.41 | 144.92 | 120.79 | 134.47 | 163.21 | 138.13 | 127.16
18 | 122.55 | 103.74 | 125.83 | 149.96 | 124.64 | 139.08 | 169.43 | 142.98 | 131.48
19 | 127.06 | 106.35 | 129.25 | 154.99 | 128.49 | 143.69 | 175.66 | 147.82 | 135.80
20 | 131.58 | 108.97 | 132.67 | 160.03 | 132.34 | 148.30 | 181.88 | 152.67 | 140.13
21 | 136.09 | 111.58 | 136.09 | 165.06 | 136.18 | 152.90 | 188.10 | 157.51 | 144.45
22 | 140.60 | 114.19 | 139.51 | 170.10 | 140.03 | 157.51 | 194.32 | 162.36 | 148.77
23 | 145.11 | 116.80 | 142.93 | 175.13 | 143.88 | 162.12 | 200.55 | 167.20 | 153.09
24 | 149.63 | 119.42 | 146.35 | 180.17 | 147.73 | 166.73 | 206.77 | 172.05 | 157.42
25 | 154.14 | 122.03 | 149.77 | 185.20 | 151.57 | 171.33 | 212.99 | 176.89 | 161.74

Priority Mail Express International Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
0.5 | 62.23 | 59.85 | 58.85 | 59.85 | 59.14 | 60.33 | 59.85 | 59.85
1 | 64.93 | 61.61 | 65.55 | 61.70 | 60.61 | 63.70 | 61.32 | 61.61
2 | 70.87 | 65.74 | 70.63 | 64.79 | 66.45 | 67.83 | 64.22 | 64.32
3 | 76.81 | 69.87 | 75.72 | 67.88 | 72.30 | 71.96 | 67.12 | 67.02
4 | 82.75 | 74.01 | 80.80 | 70.97 | 78.14 | 76.10 | 70.02 | 69.73
5 | 88.68 | 78.14 | 85.88 | 74.05 | 83.98 | 80.23 | 72.91 | 72.44
6 | 94.81 | 81.32 | 90.68 | 77.24 | 89.92 | 84.46 | 75.72 | 75.15
7 | 100.94 | 84.50 | 95.48 | 80.42 | 95.86 | 88.68 | 78.52 | 77.85
8 | 107.07 | 87.69 | 100.27 | 83.60 | 101.79 | 92.91 | 81.32 | 80.56
9 | 113.19 | 90.87 | 105.07 | 86.78 | 107.73 | 97.14 | 84.12 | 83.27
10 | 119.32 | 94.05 | 109.87 | 89.97 | 113.67 | 101.37 | 86.93 | 85.98
11 | 125.54 | 97.23 | 113.91 | 93.15 | 119.99 | 105.59 | 90.30 | 89.25
12 | 131.77 | 100.42 | 117.94 | 96.33 | 126.30 | 109.82 | 93.67 | 92.53
13 | 137.99 | 103.60 | 121.98 | 99.51 | 132.62 | 114.05 | 97.04 | 95.81
14 | 144.21 | 106.78 | 126.02 | 102.70 | 138.94 | 118.28 | 100.42 | 99.09
15 | 150.43 | 109.96 | 130.06 | 105.88 | 145.26 | 122.50 | 103.79 | 102.36
16 | 156.66 | 113.15 | 134.09 | 109.06 | 151.57 | 126.73 | 107.16 | 105.64
17 | 162.88 | 116.33 | 138.13 | 112.24 | 157.89 | 130.96 | 110.53 | 108.92
18 | 169.10 | 119.51 | 142.17 | 115.43 | 164.21 | 135.19 | 113.91 | 112.20
19 | 175.32 | 122.69 | 146.21 | 118.61 | 170.53 | 139.41 | 117.28 | 115.47
20 | 181.55 | 125.88 | 150.24 | 121.79 | 176.84 | 143.64 | 120.65 | 118.75
21 | 187.77 | 129.06 | 154.28 | 124.97 | 182.50 | 147.87 | 124.02 | 122.03
22 | 193.99 | 132.24 | 158.32 | 128.16 | 188.15 | 152.10 | 127.40 | 125.31
23 | 200.21 | 135.42 | 162.36 | 131.34 | 193.80 | 156.32 | 130.77 | 128.58
24 | 206.44 | 138.61 | 166.39 | 134.52 | 199.45 | 160.55 | 134.14 | 131.86
25 | 212.66 | 141.79 | 170.43 | 137.70 | 205.11 | 164.78 | 137.51 | 135.14

Priority Mail Express International Commercial Base Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 158.65 | 124.64 | 153.19 | 190.24 | 155.42 | 175.94 | 219.21 | 181.74 | 166.06
27 | 163.16 | 127.25 | 156.61 | 195.27 | 159.27 | 180.55 | 225.44 | 186.58 | 170.38
28 | 167.68 | 129.87 | 160.03 | 200.31 | 163.12 | 185.16 | 231.66 | 191.43 | 174.71
29 | 172.19 | 132.48 | 163.45 | 205.34 | 166.96 | 189.76 | 237.88 | 196.27 | 179.03
30 | 176.70 | 135.09 | 166.87 | 210.38 | 170.81 | 194.37 | 244.10 | 201.12 | 183.35
31 | 180.45 | 137.70 | 170.29 | 215.41 | 174.66 | 198.98 | 250.33 | 205.96 | 187.67
32 | 184.21 | 140.32 | 173.71 | 220.45 | 178.51 | 203.59 | 256.55 | 210.81 | 192.00
33 | 187.96 | 142.93 | 177.13 | 225.48 | 182.35 | 208.19 | 262.77 | 215.65 | 196.32
34 | 191.71 | 145.54 | 180.55 | 230.52 | 186.20 | 212.80 | 268.99 | 220.50 | 200.64
35 | 195.46 | 148.15 | 183.97 | 235.55 | 190.05 | 217.41 | 275.22 | 225.34 | 204.96
36 | 199.22 | 150.77 | 187.39 | 240.59 | 193.90 | 222.02 | 281.44 | 230.19 | 209.29
37 | 202.97 | 153.38 | 190.81 | 245.62 | 197.74 | 226.62 | 287.66 | 235.03 | 213.61
38 | 206.72 | 155.99 | 194.23 | 250.66 | 201.59 | 231.23 | 293.88 | 239.88 | 217.93
39 | 210.47 | 158.60 | 197.65 | 255.69 | 205.44 | 235.84 | 300.11 | 244.72 | 222.25
40 | 214.23 | 161.22 | 201.07 | 260.73 | 209.29 | 240.45 | 306.33 | 249.57 | 226.58
41 | 217.98 | 163.83 | 204.49 | 265.76 | 213.13 | 245.05 | 312.55 | 254.41 | 230.90
42 | 221.73 | 166.44 | 207.91 | 270.80 | 216.98 | 249.66 | 318.77 | 259.26 | 235.22
43 | 225.48 | 169.05 | 211.33 | 275.83 | 220.83 | 254.27 | 325.00 | 264.10 | 239.54
44 | 229.24 | 171.67 | 214.75 | 280.87 | 224.68 | 258.88 | 331.22 | 268.95 | 243.87
45 | 232.99 | 174.28 | 218.17 | 285.90 | 228.52 | 263.48 | 337.44 | 273.79 | 248.19
46 | 236.74 | 176.89 | 221.59 | 290.94 | 232.37 | 268.09 | 343.66 | 278.64 | 252.51
47 | 240.49 | 179.50 | 225.01 | 295.97 | 236.22 | 272.70 | 349.89 | 283.48 | 256.83
48 | 244.25 | 182.12 | 228.43 | 301.01 | 240.07 | 277.31 | 356.11 | 288.33 | 261.16
49 | 248.00 | 184.73 | 231.85 | 306.04 | 243.91 | 281.91 | 362.33 | 293.17 | 265.48
50 | 251.75 | 187.34 | 235.27 | 311.08 | 247.76 | 286.52 | 368.55 | 298.02 | 269.80

Priority Mail Express International Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 218.88 | 144.97 | 174.47 | 140.89 | 210.76 | 169.01 | 140.89 | 138.42
27 | 225.10 | 148.15 | 178.51 | 144.07 | 216.41 | 173.23 | 144.26 | 141.69
28 | 231.33 | 151.34 | 182.54 | 147.25 | 222.06 | 177.46 | 147.63 | 144.97
29 | 237.55 | 154.52 | 186.58 | 150.43 | 227.72 | 181.69 | 151.00 | 148.25
30 | 243.77 | 157.70 | 190.62 | 153.62 | 233.37 | 185.92 | 154.38 | 151.53
31 | 249.99 | 160.88 | 194.66 | 156.80 | 239.02 | 190.14 | 157.75 | 154.80
32 | 256.22 | 164.07 | 198.69 | 159.98 | 244.67 | 194.37 | 161.12 | 158.08
33 | 262.44 | 167.25 | 202.73 | 163.16 | 250.33 | 198.60 | 164.49 | 161.36
34 | 268.66 | 170.43 | 206.77 | 166.35 | 255.98 | 202.83 | 167.87 | 164.64
35 | 274.88 | 173.61 | 210.81 | 169.53 | 261.63 | 207.05 | 171.24 | 167.91
36 | 281.11 | 176.80 | 214.84 | 172.71 | 267.28 | 211.28 | 174.61 | 171.19
37 | 287.33 | 179.98 | 218.88 | 175.89 | 272.94 | 215.51 | 177.98 | 174.47
38 | 293.55 | 183.16 | 222.92 | 179.08 | 278.59 | 219.74 | 181.36 | 177.75
39 | 299.77 | 186.34 | 226.96 | 182.26 | 284.24 | 223.96 | 184.73 | 181.02
40 | 306.00 | 189.53 | 230.99 | 185.44 | 289.89 | 228.19 | 188.10 | 184.30
41 | 312.22 | 192.71 | 235.03 | 188.62 | 295.55 | 232.42 | 191.47 | 187.58
42 | 318.44 | 195.89 | 239.07 | 191.81 | 301.20 | 236.65 | 194.85 | 190.86
43 | 324.66 | 199.07 | 243.11 | 194.99 | 306.85 | 240.87 | 198.22 | 194.13
44 | 330.89 | 202.26 | 247.14 | 198.17 | 312.50 | 245.10 | 201.59 | 197.41
45 | 337.11 | 205.44 | 251.18 | 201.35 | 318.16 | 249.33 | 204.96 | 200.69
46 | 343.33 | 208.62 | 255.22 | 204.54 | 323.81 | 253.56 | 208.34 | 203.97
47 | 349.55 | 211.80 | 259.26 | 207.72 | 329.46 | 257.78 | 211.71 | 207.24
48 | 355.78 | 214.99 | 263.29 | 210.90 | 335.11 | 262.01 | 215.08 | 210.52
49 | 362.00 | 218.17 | 267.33 | 214.08 | 340.77 | 266.24 | 218.45 | 213.80
50 | 368.22 | 221.35 | 271.37 | 217.27 | 346.42 | 270.47 | 221.83 | 217.08

Priority Mail Express International Commercial Base Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 255.50 | 189.95 | 238.69 | 316.11 | 251.61 | 291.13 | 374.78 | 302.86 | 274.12
52 | 259.26 | 192.57 | 242.11 | 321.15 | 255.46 | 295.74 | 381.00 | 307.71 | 278.45
53 | 263.01 | 195.18 | 245.53 | 326.18 | 259.30 | 300.34 | 387.22 | 312.55 | 282.77
54 | 266.76 | 197.79 | 248.95 | 331.22 | 263.15 | 304.95 | 393.44 | 317.40 | 287.09
55 | 270.51 | 200.40 | 252.37 | 336.25 | 267.00 | 309.56 | 399.67 | 322.24 | 291.41
56 | 274.27 | 203.02 | 255.79 | 341.29 | 270.85 | 314.17 | 405.89 | 327.09 | 295.74
57 | 278.02 | 205.63 | 259.21 | 346.32 | 274.69 | 318.77 | 412.11 | 331.93 | 300.06
58 | 281.77 | 208.24 | 262.63 | 351.36 | 278.54 | 323.38 | 418.33 | 336.78 | 304.38
59 | 285.52 | 210.85 | 266.05 | 356.39 | 282.39 | 327.99 | 424.56 | 341.62 | 308.70
60 | 289.28 | 213.47 | 269.47 | 361.43 | 286.24 | 332.60 | 430.78 | 346.47 | 313.03
61 | 293.03 | 216.08 | 272.89 | 366.46 | 290.08 | 337.20 | 437.00 | 351.31 | 317.35
62 | 296.78 | 218.69 | 276.31 | 371.50 | 293.93 | 341.81 | 443.22 | 356.16 | 321.67
63 | 300.53 | 221.30 | 279.73 | 376.53 | 297.78 | 346.42 | 449.45 | 361.00 | 325.99
64 | 304.29 | 223.92 | 283.15 | 381.57 | 301.63 | 351.03 | 455.67 | 365.85 | 330.32
65 | 308.04 | 226.53 | 286.57 | 386.60 | 305.47 | 355.63 | 461.89 | 370.69 | 334.64
66 | 311.79 | 229.14 | 289.99 | 391.64 | 309.32 | 360.24 | 468.11 | 375.54 | 338.96
67 |  | 231.75 | 293.41 | 396.67 | 313.17 | 364.85 | 474.34 | 380.38 | 343.28
68 |  | 234.37 | 296.83 | 401.71 | 317.02 | 369.46 | 480.56 | 385.23 | 347.61
69 |  | 236.98 | 300.25 | 406.74 | 320.86 | 374.06 | 486.78 | 390.07 | 351.93
70 |  | 239.59 | 303.67 | 411.78 | 324.71 | 378.67 | 493.00 | 394.92 | 356.25

Priority Mail Express International Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 374.44 | 224.53 | 275.41 | 220.45 | 352.07 | 274.69 | 225.20 | 220.35
52 | 380.67 | 227.72 | 279.44 | 223.63 | 357.72 | 278.92 | 228.57 | 223.63
53 | 386.89 | 230.90 | 283.48 | 226.81 | 363.38 | 283.15 | 231.94 | 226.91
54 | 393.11 | 234.08 | 287.52 | 230.00 | 369.03 | 287.38 | 235.32 | 230.19
55 | 399.33 | 237.26 | 291.56 | 233.18 | 374.68 | 291.60 | 238.69 | 233.46
56 | 405.56 | 240.45 | 295.59 | 236.36 | 380.33 | 295.83 | 242.06 | 236.74
57 | 411.78 | 243.63 | 299.63 | 239.54 | 385.99 | 300.06 | 245.43 | 240.02
58 | 418.00 | 246.81 | 303.67 | 242.73 | 391.64 | 304.29 | 248.81 | 243.30
59 | 424.22 | 249.99 | 307.71 | 245.91 | 397.29 | 308.51 | 252.18 | 246.57
60 | 430.45 | 253.18 | 311.74 | 249.09 | 402.94 | 312.74 | 255.55 | 249.85
61 | 436.67 | 256.36 | 315.78 | 252.27 | 408.60 | 316.97 | 258.92 | 253.13
62 | 442.89 | 259.54 | 319.82 | 255.46 | 414.25 | 321.20 | 262.30 | 256.41
63 | 449.11 | 262.72 | 323.86 | 258.64 | 419.90 | 325.42 | 265.67 | 259.68
64 | 455.34 | 265.91 | 327.89 | 261.82 | 425.55 | 329.65 | 269.04 | 262.96
65 | 461.56 | 269.09 | 331.93 | 265.00 | 431.21 | 333.88 | 272.41 | 266.24
66 | 467.78 | 272.27 | 335.97 | 268.19 | 436.86 | 338.11 | 275.79 | 269.52
67 |  |  |  |  |  |  |  |
68 |  |  |  |  |  |  |  |
69 |  |  |  |  |  |  |  |
70 |  |  |  |  |  |  |  |

Priority Mail Express International Commercial Plus Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 40.38 | 51.30 | 54.10 | 62.65 | 57.48 | 57.48 | 58.19 | 55.10 | 53.20
1 | 44.13 | 53.44 | 58.14 | 63.94 | 59.23 | 61.13 | 63.65 | 60.23 | 57.71
2 | 48.83 | 57.29 | 63.41 | 69.02 | 63.08 | 65.65 | 69.87 | 65.17 | 62.23
3 | 53.53 | 61.13 | 68.69 | 74.10 | 66.93 | 70.16 | 76.10 | 70.11 | 66.74
4 | 58.24 | 64.98 | 73.96 | 79.18 | 70.78 | 74.67 | 82.32 | 75.05 | 71.25
5 | 62.94 | 68.83 | 79.23 | 84.27 | 74.62 | 79.18 | 88.54 | 79.99 | 75.76
6 | 67.64 | 71.54 | 83.08 | 89.35 | 78.47 | 83.79 | 94.76 | 84.84 | 79.99
7 | 72.34 | 74.24 | 86.93 | 94.43 | 82.32 | 88.40 | 100.99 | 89.68 | 84.22
8 | 77.05 | 76.95 | 90.77 | 99.51 | 86.17 | 93.01 | 107.21 | 94.53 | 88.45
9 | 81.75 | 79.66 | 94.62 | 104.60 | 90.01 | 97.61 | 113.43 | 99.37 | 92.67
10 | 86.45 | 82.37 | 98.47 | 109.68 | 93.86 | 102.22 | 119.65 | 104.22 | 96.90
11 | 90.96 | 85.07 | 101.89 | 114.71 | 97.71 | 106.83 | 125.88 | 109.06 | 101.22
12 | 95.48 | 87.78 | 105.31 | 119.75 | 101.56 | 111.44 | 132.10 | 113.91 | 105.55
13 | 99.99 | 90.49 | 108.73 | 124.78 | 105.40 | 116.04 | 138.32 | 118.75 | 109.87
14 | 104.50 | 93.20 | 112.15 | 129.82 | 109.25 | 120.65 | 144.54 | 123.60 | 114.19
15 | 109.01 | 95.90 | 115.57 | 134.85 | 113.10 | 125.26 | 150.77 | 128.44 | 118.51
16 | 113.53 | 98.52 | 118.99 | 139.89 | 116.95 | 129.87 | 156.99 | 133.29 | 122.84
17 | 118.04 | 101.13 | 122.41 | 144.92 | 120.79 | 134.47 | 163.21 | 138.13 | 127.16
18 | 122.55 | 103.74 | 125.83 | 149.96 | 124.64 | 139.08 | 169.43 | 142.98 | 131.48
19 | 127.06 | 106.35 | 129.25 | 154.99 | 128.49 | 143.69 | 175.66 | 147.82 | 135.80
20 | 131.58 | 108.97 | 132.67 | 160.03 | 132.34 | 148.30 | 181.88 | 152.67 | 140.13
21 | 136.09 | 111.58 | 136.09 | 165.06 | 136.18 | 152.90 | 188.10 | 157.51 | 144.45
22 | 140.60 | 114.19 | 139.51 | 170.10 | 140.03 | 157.51 | 194.32 | 162.36 | 148.77
23 | 145.11 | 116.80 | 142.93 | 175.13 | 143.88 | 162.12 | 200.55 | 167.20 | 153.09
24 | 149.63 | 119.42 | 146.35 | 180.17 | 147.73 | 166.73 | 206.77 | 172.05 | 157.42
25 | 154.14 | 122.03 | 149.77 | 185.20 | 151.57 | 171.33 | 212.99 | 176.89 | 161.74

Priority Mail Express International Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
0.5 | 62.23 | 59.85 | 58.85 | 59.85 | 59.14 | 60.33 | 59.85 | 59.85
1 | 64.93 | 61.61 | 65.55 | 61.70 | 60.61 | 63.70 | 61.32 | 61.61
2 | 70.87 | 65.74 | 70.63 | 64.79 | 66.45 | 67.83 | 64.22 | 64.32
3 | 76.81 | 69.87 | 75.72 | 67.88 | 72.30 | 71.96 | 67.12 | 67.02
4 | 82.75 | 74.01 | 80.80 | 70.97 | 78.14 | 76.10 | 70.02 | 69.73
5 | 88.68 | 78.14 | 85.88 | 74.05 | 83.98 | 80.23 | 72.91 | 72.44
6 | 94.81 | 81.32 | 90.68 | 77.24 | 89.92 | 84.46 | 75.72 | 75.15
7 | 100.94 | 84.50 | 95.48 | 80.42 | 95.86 | 88.68 | 78.52 | 77.85
8 | 107.07 | 87.69 | 100.27 | 83.60 | 101.79 | 92.91 | 81.32 | 80.56
9 | 113.19 | 90.87 | 105.07 | 86.78 | 107.73 | 97.14 | 84.12 | 83.27
10 | 119.32 | 94.05 | 109.87 | 89.97 | 113.67 | 101.37 | 86.93 | 85.98
11 | 125.54 | 97.23 | 113.91 | 93.15 | 119.99 | 105.59 | 90.30 | 89.25
12 | 131.77 | 100.42 | 117.94 | 96.33 | 126.30 | 109.82 | 93.67 | 92.53
13 | 137.99 | 103.60 | 121.98 | 99.51 | 132.62 | 114.05 | 97.04 | 95.81
14 | 144.21 | 106.78 | 126.02 | 102.70 | 138.94 | 118.28 | 100.42 | 99.09
15 | 150.43 | 109.96 | 130.06 | 105.88 | 145.26 | 122.50 | 103.79 | 102.36
16 | 156.66 | 113.15 | 134.09 | 109.06 | 151.57 | 126.73 | 107.16 | 105.64
17 | 162.88 | 116.33 | 138.13 | 112.24 | 157.89 | 130.96 | 110.53 | 108.92
18 | 169.10 | 119.51 | 142.17 | 115.43 | 164.21 | 135.19 | 113.91 | 112.20
19 | 175.32 | 122.69 | 146.21 | 118.61 | 170.53 | 139.41 | 117.28 | 115.47
20 | 181.55 | 125.88 | 150.24 | 121.79 | 176.84 | 143.64 | 120.65 | 118.75
21 | 187.77 | 129.06 | 154.28 | 124.97 | 182.50 | 147.87 | 124.02 | 122.03
22 | 193.99 | 132.24 | 158.32 | 128.16 | 188.15 | 152.10 | 127.40 | 125.31
23 | 200.21 | 135.42 | 162.36 | 131.34 | 193.80 | 156.32 | 130.77 | 128.58
24 | 206.44 | 138.61 | 166.39 | 134.52 | 199.45 | 160.55 | 134.14 | 131.86
25 | 212.66 | 141.79 | 170.43 | 137.70 | 205.11 | 164.78 | 137.51 | 135.14

Priority Mail Express International Commercial Plus Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 158.65 | 124.64 | 153.19 | 190.24 | 155.42 | 175.94 | 219.21 | 181.74 | 166.06
27 | 163.16 | 127.25 | 156.61 | 195.27 | 159.27 | 180.55 | 225.44 | 186.58 | 170.38
28 | 167.68 | 129.87 | 160.03 | 200.31 | 163.12 | 185.16 | 231.66 | 191.43 | 174.71
29 | 172.19 | 132.48 | 163.45 | 205.34 | 166.96 | 189.76 | 237.88 | 196.27 | 179.03
30 | 176.70 | 135.09 | 166.87 | 210.38 | 170.81 | 194.37 | 244.10 | 201.12 | 183.35
31 | 180.45 | 137.70 | 170.29 | 215.41 | 174.66 | 198.98 | 250.33 | 205.96 | 187.67
32 | 184.21 | 140.32 | 173.71 | 220.45 | 178.51 | 203.59 | 256.55 | 210.81 | 192.00
33 | 187.96 | 142.93 | 177.13 | 225.48 | 182.35 | 208.19 | 262.77 | 215.65 | 196.32
34 | 191.71 | 145.54 | 180.55 | 230.52 | 186.20 | 212.80 | 268.99 | 220.50 | 200.64
35 | 195.46 | 148.15 | 183.97 | 235.55 | 190.05 | 217.41 | 275.22 | 225.34 | 204.96
36 | 199.22 | 150.77 | 187.39 | 240.59 | 193.90 | 222.02 | 281.44 | 230.19 | 209.29
37 | 202.97 | 153.38 | 190.81 | 245.62 | 197.74 | 226.62 | 287.66 | 235.03 | 213.61
38 | 206.72 | 155.99 | 194.23 | 250.66 | 201.59 | 231.23 | 293.88 | 239.88 | 217.93
39 | 210.47 | 158.60 | 197.65 | 255.69 | 205.44 | 235.84 | 300.11 | 244.72 | 222.25
40 | 214.23 | 161.22 | 201.07 | 260.73 | 209.29 | 240.45 | 306.33 | 249.57 | 226.58
41 | 217.98 | 163.83 | 204.49 | 265.76 | 213.13 | 245.05 | 312.55 | 254.41 | 230.90
42 | 221.73 | 166.44 | 207.91 | 270.80 | 216.98 | 249.66 | 318.77 | 259.26 | 235.22
43 | 225.48 | 169.05 | 211.33 | 275.83 | 220.83 | 254.27 | 325.00 | 264.10 | 239.54
44 | 229.24 | 171.67 | 214.75 | 280.87 | 224.68 | 258.88 | 331.22 | 268.95 | 243.87
45 | 232.99 | 174.28 | 218.17 | 285.90 | 228.52 | 263.48 | 337.44 | 273.79 | 248.19
46 | 236.74 | 176.89 | 221.59 | 290.94 | 232.37 | 268.09 | 343.66 | 278.64 | 252.51
47 | 240.49 | 179.50 | 225.01 | 295.97 | 236.22 | 272.70 | 349.89 | 283.48 | 256.83
48 | 244.25 | 182.12 | 228.43 | 301.01 | 240.07 | 277.31 | 356.11 | 288.33 | 261.16
49 | 248.00 | 184.73 | 231.85 | 306.04 | 243.91 | 281.91 | 362.33 | 293.17 | 265.48
50 | 251.75 | 187.34 | 235.27 | 311.08 | 247.76 | 286.52 | 368.55 | 298.02 | 269.80

Priority Mail Express International Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 218.88 | 144.97 | 174.47 | 140.89 | 210.76 | 169.01 | 140.89 | 138.42
27 | 225.10 | 148.15 | 178.51 | 144.07 | 216.41 | 173.23 | 144.26 | 141.69
28 | 231.33 | 151.34 | 182.54 | 147.25 | 222.06 | 177.46 | 147.63 | 144.97
29 | 237.55 | 154.52 | 186.58 | 150.43 | 227.72 | 181.69 | 151.00 | 148.25
30 | 243.77 | 157.70 | 190.62 | 153.62 | 233.37 | 185.92 | 154.38 | 151.53
31 | 249.99 | 160.88 | 194.66 | 156.80 | 239.02 | 190.14 | 157.75 | 154.80
32 | 256.22 | 164.07 | 198.69 | 159.98 | 244.67 | 194.37 | 161.12 | 158.08
33 | 262.44 | 167.25 | 202.73 | 163.16 | 250.33 | 198.60 | 164.49 | 161.36
34 | 268.66 | 170.43 | 206.77 | 166.35 | 255.98 | 202.83 | 167.87 | 164.64
35 | 274.88 | 173.61 | 210.81 | 169.53 | 261.63 | 207.05 | 171.24 | 167.91
36 | 281.11 | 176.80 | 214.84 | 172.71 | 267.28 | 211.28 | 174.61 | 171.19
37 | 287.33 | 179.98 | 218.88 | 175.89 | 272.94 | 215.51 | 177.98 | 174.47
38 | 293.55 | 183.16 | 222.92 | 179.08 | 278.59 | 219.74 | 181.36 | 177.75
39 | 299.77 | 186.34 | 226.96 | 182.26 | 284.24 | 223.96 | 184.73 | 181.02
40 | 306.00 | 189.53 | 230.99 | 185.44 | 289.89 | 228.19 | 188.10 | 184.30
41 | 312.22 | 192.71 | 235.03 | 188.62 | 295.55 | 232.42 | 191.47 | 187.58
42 | 318.44 | 195.89 | 239.07 | 191.81 | 301.20 | 236.65 | 194.85 | 190.86
43 | 324.66 | 199.07 | 243.11 | 194.99 | 306.85 | 240.87 | 198.22 | 194.13
44 | 330.89 | 202.26 | 247.14 | 198.17 | 312.50 | 245.10 | 201.59 | 197.41
45 | 337.11 | 205.44 | 251.18 | 201.35 | 318.16 | 249.33 | 204.96 | 200.69
46 | 343.33 | 208.62 | 255.22 | 204.54 | 323.81 | 253.56 | 208.34 | 203.97
47 | 349.55 | 211.80 | 259.26 | 207.72 | 329.46 | 257.78 | 211.71 | 207.24
48 | 355.78 | 214.99 | 263.29 | 210.90 | 335.11 | 262.01 | 215.08 | 210.52
49 | 362.00 | 218.17 | 267.33 | 214.08 | 340.77 | 266.24 | 218.45 | 213.80
50 | 368.22 | 221.35 | 271.37 | 217.27 | 346.42 | 270.47 | 221.83 | 217.08

Priority Mail Express International Commercial Plus Prices (Continued)
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 255.50 | 189.95 | 238.69 | 316.11 | 251.61 | 291.13 | 374.78 | 302.86 | 274.12
52 | 259.26 | 192.57 | 242.11 | 321.15 | 255.46 | 295.74 | 381.00 | 307.71 | 278.45
53 | 263.01 | 195.18 | 245.53 | 326.18 | 259.30 | 300.34 | 387.22 | 312.55 | 282.77
54 | 266.76 | 197.79 | 248.95 | 331.22 | 263.15 | 304.95 | 393.44 | 317.40 | 287.09
55 | 270.51 | 200.40 | 252.37 | 336.25 | 267.00 | 309.56 | 399.67 | 322.24 | 291.41
56 | 274.27 | 203.02 | 255.79 | 341.29 | 270.85 | 314.17 | 405.89 | 327.09 | 295.74
57 | 278.02 | 205.63 | 259.21 | 346.32 | 274.69 | 318.77 | 412.11 | 331.93 | 300.06
58 | 281.77 | 208.24 | 262.63 | 351.36 | 278.54 | 323.38 | 418.33 | 336.78 | 304.38
59 | 285.52 | 210.85 | 266.05 | 356.39 | 282.39 | 327.99 | 424.56 | 341.62 | 308.70
60 | 289.28 | 213.47 | 269.47 | 361.43 | 286.24 | 332.60 | 430.78 | 346.47 | 313.03
61 | 293.03 | 216.08 | 272.89 | 366.46 | 290.08 | 337.20 | 437.00 | 351.31 | 317.35
62 | 296.78 | 218.69 | 276.31 | 371.50 | 293.93 | 341.81 | 443.22 | 356.16 | 321.67
63 | 300.53 | 221.30 | 279.73 | 376.53 | 297.78 | 346.42 | 449.45 | 361.00 | 325.99
64 | 304.29 | 223.92 | 283.15 | 381.57 | 301.63 | 351.03 | 455.67 | 365.85 | 330.32
65 | 308.04 | 226.53 | 286.57 | 386.60 | 305.47 | 355.63 | 461.89 | 370.69 | 334.64
66 | 311.79 | 229.14 | 289.99 | 391.64 | 309.32 | 360.24 | 468.11 | 375.54 | 338.96
67 |  | 231.75 | 293.41 | 396.67 | 313.17 | 364.85 | 474.34 | 380.38 | 343.28
68 |  | 234.37 | 296.83 | 401.71 | 317.02 | 369.46 | 480.56 | 385.23 | 347.61
69 |  | 236.98 | 300.25 | 406.74 | 320.86 | 374.06 | 486.78 | 390.07 | 351.93
70 |  | 239.59 | 303.67 | 411.78 | 324.71 | 378.67 | 493.00 | 394.92 | 356.25

Priority Mail Express International Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 374.44 | 224.53 | 275.41 | 220.45 | 352.07 | 274.69 | 225.20 | 220.35
52 | 380.67 | 227.72 | 279.44 | 223.63 | 357.72 | 278.92 | 228.57 | 223.63
53 | 386.89 | 230.90 | 283.48 | 226.81 | 363.38 | 283.15 | 231.94 | 226.91
54 | 393.11 | 234.08 | 287.52 | 230.00 | 369.03 | 287.38 | 235.32 | 230.19
55 | 399.33 | 237.26 | 291.56 | 233.18 | 374.68 | 291.60 | 238.69 | 233.46
56 | 405.56 | 240.45 | 295.59 | 236.36 | 380.33 | 295.83 | 242.06 | 236.74
57 | 411.78 | 243.63 | 299.63 | 239.54 | 385.99 | 300.06 | 245.43 | 240.02
58 | 418.00 | 246.81 | 303.67 | 242.73 | 391.64 | 304.29 | 248.81 | 243.30
59 | 424.22 | 249.99 | 307.71 | 245.91 | 397.29 | 308.51 | 252.18 | 246.57
60 | 430.45 | 253.18 | 311.74 | 249.09 | 402.94 | 312.74 | 255.55 | 249.85
61 | 436.67 | 256.36 | 315.78 | 252.27 | 408.60 | 316.97 | 258.92 | 253.13
62 | 442.89 | 259.54 | 319.82 | 255.46 | 414.25 | 321.20 | 262.30 | 256.41
63 | 449.11 | 262.72 | 323.86 | 258.64 | 419.90 | 325.42 | 265.67 | 259.68
64 | 455.34 | 265.91 | 327.89 | 261.82 | 425.55 | 329.65 | 269.04 | 262.96
65 | 461.56 | 269.09 | 331.93 | 265.00 | 431.21 | 333.88 | 272.41 | 266.24
66 | 467.78 | 272.27 | 335.97 | 268.19 | 436.86 | 338.11 | 275.79 | 269.52
67 |  |  |  |  |  |  |  |
68 |  |  |  |  |  |  |  |
69 |  |  |  |  |  |  |  |
70 |  |  |  |  |  |  |  |

Pickup On Demand Service

Add $22.00 for each Pickup On Demand stop.

2310 Inbound Parcel Post (at UPU rates)

* * *

2315 Outbound Priority Mail International

* * *

2315.6 Prices

Priority Mail International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelopes | 24.95 | 31.00 | 32.25 | 34.25 | 33.25 | 35.25 | 33.25 | 34.25
Small Flat Rate Boxes | 25.95 | 32.25 | 33.25 | 35.25 | 34.25 | 36.25 | 34.25 | 35.25
Medium Flat Rate Boxes | 47.75 | 69.50 | 70.75 | 69.00 | 72.75 | 78.95 | 71.75 | 74.75
Large Flat Rate Boxes | 62.35 | 90.50 | 92.50 | 90.50 | 94.50 | 99.75 | 93.50 | 97.75

Priority Mail International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelopes | 23.70 | 29.45 | 30.65 | 32.55 | 31.60 | 33.50 | 31.60 | 32.50
Small Flat Rate Boxes | 24.65 | 30.65 | 31.60 | 33.50 | 32.55 | 34.45 | 32.55 | 33.50
Medium Flat Rate Boxes | 45.35 | 66.00 | 67.20 | 65.55 | 69.10 | 75.00 | 68.15 | 71.00
Large Flat Rate Boxes | 59.25 | 85.95 | 87.85 | 85.95 | 89.80 | 94.75 | 88.85 | 92.85

Priority Mail International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelopes | 23.70 | 29.45 | 30.65 | 32.55 | 31.60 | 33.50 | 31.60 | 32.50
Small Flat Rate Boxes | 24.65 | 30.65 | 31.60 | 33.50 | 32.55 | 34.45 | 32.55 | 33.50
Medium Flat Rate Boxes | 45.35 | 66.00 | 67.20 | 65.55 | 69.10 | 75.00 | 68.15 | 71.00
Large Flat Rate Boxes | 59.25 | 85.95 | 87.85 | 85.95 | 89.80 | 94.75 | 88.85 | 92.85

Priority Mail International Parcels Retail Prices
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
1 | 33.00 | 34.00 | 36.40 | 37.50 | 38.95 | 39.50 | 40.00
2 | 35.65 | 36.80 | 39.25 | 40.55 | 42.05 | 42.55 | 43.15
3 | 38.30 | 39.60 | 42.10 | 43.60 | 45.15 | 45.60 | 46.30
4 | 40.95 | 42.40 | 44.95 | 46.65 | 48.25 | 48.65 | 49.45
5 | 43.60 | 45.20 | 47.80 | 49.70 | 51.35 | 51.70 | 52.60
6 | 46.25 | 47.95 | 50.75 | 52.75 | 54.35 | 54.85 | 55.85
7 | 48.90 | 50.70 | 53.70 | 55.80 | 57.35 | 58.00 | 59.10
8 | 51.55 | 53.45 | 56.65 | 58.85 | 60.35 | 61.15 | 62.35
9 | 54.20 | 56.20 | 59.60 | 61.90 | 63.35 | 64.30 | 65.60
10 | 56.85 | 58.95 | 62.55 | 64.95 | 66.35 | 67.45 | 68.85
11 | 59.40 | 61.70 | 65.30 | 68.00 | 69.45 | 70.70 | 72.10
12 | 61.95 | 64.45 | 68.05 | 71.05 | 72.55 | 73.95 | 75.55
13 | 64.50 | 67.20 | 70.80 | 74.10 | 75.65 | 77.20 | 79.00
14 | 67.05 | 69.95 | 73.55 | 77.15 | 78.75 | 80.45 | 82.45
15 | 69.60 | 72.70 | 76.30 | 80.20 | 81.85 | 83.70 | 85.90
16 | 72.15 | 75.45 | 79.05 | 83.25 | 84.95 | 86.95 | 89.35
17 | 74.70 | 78.20 | 81.80 | 86.30 | 88.05 | 90.20 | 92.80
18 | 77.25 | 80.85 | 84.55 | 89.35 | 91.15 | 93.45 | 96.25
19 | 79.80 | 83.50 | 87.30 | 92.40 | 94.25 | 96.70 | 99.70
20 | 82.35 | 86.15 | 90.05 | 95.45 | 97.35 | 99.95 | 103.15
21 | 84.90 | 88.80 | 92.80 | 98.50 | 100.45 | 103.20 | 106.60
22 | 87.45 | 91.45 | 95.55 | 101.55 | 103.55 | 106.45 | 110.05
23 | 90.00 | 94.10 | 98.30 | 104.60 | 106.65 | 109.70 | 113.50
24 | 92.55 | 96.75 | 101.05 | 107.65 | 109.65 | 112.95 | 116.95
25 | 94.70 | 99.40 | 103.80 | 110.70 | 112.65 | 116.20 | 120.40

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 40.25 | 43.50 | 49.75 | 46.00 | 47.50 | 49.00 | 44.50 | 42.95
2 | 43.90 | 48.65 | 55.00 | 49.15 | 51.65 | 54.75 | 49.05 | 47.50
3 | 47.55 | 53.80 | 60.25 | 52.30 | 55.80 | 60.50 | 53.60 | 52.05
4 | 51.20 | 58.95 | 65.50 | 55.45 | 59.95 | 66.25 | 58.15 | 56.60
5 | 54.85 | 64.10 | 70.75 | 58.60 | 64.10 | 72.00 | 62.70 | 61.15
6 | 57.50 | 67.45 | 75.60 | 61.45 | 67.95 | 77.75 | 66.55 | 64.60
7 | 60.15 | 70.80 | 80.45 | 64.30 | 71.80 | 83.50 | 70.40 | 68.05
8 | 62.80 | 74.15 | 85.30 | 67.15 | 75.65 | 89.25 | 74.25 | 71.50
9 | 65.45 | 77.50 | 90.15 | 70.00 | 79.50 | 95.00 | 78.10 | 74.95
10 | 68.10 | 80.85 | 95.00 | 72.85 | 83.35 | 100.75 | 81.95 | 78.40
11 | 70.45 | 84.20 | 99.85 | 75.60 | 87.40 | 106.80 | 85.90 | 81.75
12 | 72.80 | 87.55 | 104.70 | 78.35 | 91.45 | 112.85 | 89.85 | 85.10
13 | 75.15 | 90.90 | 109.55 | 81.10 | 95.50 | 118.90 | 93.80 | 88.45
14 | 77.50 | 94.25 | 114.40 | 83.85 | 99.55 | 124.95 | 97.75 | 91.80
15 | 79.85 | 97.60 | 119.25 | 86.60 | 103.60 | 131.00 | 101.70 | 95.15
16 | 82.20 | 100.95 | 124.10 | 89.35 | 107.65 | 137.05 | 105.65 | 98.40
17 | 84.55 | 104.30 | 128.95 | 92.10 | 111.70 | 143.10 | 109.60 | 101.65
18 | 86.90 | 107.65 | 133.80 | 94.85 | 115.75 | 149.15 | 113.55 | 104.90
19 | 89.25 | 111.00 | 138.65 | 97.60 | 119.80 | 155.20 | 117.50 | 108.15
20 | 91.60 | 114.35 | 143.50 | 100.35 | 123.85 | 161.25 | 121.45 | 111.40
21 | 93.95 | 117.70 | 148.35 | 103.10 | 127.90 | 167.30 | 125.40 | 114.65
22 | 96.30 | 121.05 | 153.20 | 105.85 | 131.95 | 173.35 | 129.35 | 117.90
23 | 98.65 | 124.40 | 158.05 | 108.60 | 136.00 | 179.40 | 133.30 | 121.15
24 | 101.00 | 127.75 | 162.90 | 111.35 | 140.05 | 185.45 | 137.25 | 124.40
25 | 103.35 | 131.10 | 167.75 | 114.10 | 144.10 | 191.50 | 141.20 | 127.65

Priority Mail International Parcels Retail Prices (Continued)
Maximum weight (pounds) | Country price group ¹: 10 ($) | Country price group ¹: 11 ($) | Country price group ¹: 12 ($) | Country price group ¹: 13 ($) | Country price group ¹: 14 ($) | Country price group ¹: 15 ($) | Country price group ¹: 16 ($) | Country price group ¹: 17 ($)
1 | 48.50 | 50.50 | 50.00 | 42.25 | 49.00 | 44.95 | 42.50 | 42.00
2 | 53.15 | 54.95 | 53.45 | 46.00 | 53.65 | 48.65 | 46.05 | 45.75
3 | 57.80 | 59.40 | 56.90 | 49.75 | 58.30 | 52.35 | 49.60 | 49.50
4 | 62.45 | 63.85 | 60.35 | 53.50 | 62.95 | 56.05 | 53.15 | 53.25
5 | 67.10 | 68.30 | 63.80 | 57.25 | 67.60 | 59.75 | 56.70 | 57.00
6 | 72.25 | 71.65 | 66.85 | 60.40 | 71.15 | 63.45 | 60.05 | 59.75
7 | 77.40 | 75.00 | 69.90 | 63.55 | 74.70 | 67.15 | 63.40 | 62.50
8 | 82.55 | 78.35 | 72.95 | 66.70 | 78.25 | 70.85 | 66.75 | 65.25
9 | 87.70 | 81.70 | 76.00 | 69.85 | 81.80 | 74.55 | 70.10 | 68.00
10 | 92.85 | 85.05 | 79.05 | 73.00 | 85.35 | 78.25 | 73.45 | 70.75
11 | 97.90 | 88.20 | 82.10 | 75.65 | 88.90 | 82.30 | 75.50 | 73.30
12 | 102.95 | 91.35 | 85.15 | 78.30 | 92.45 | 86.35 | 77.55 | 75.85
13 | 108.00 | 94.50 | 88.20 | 80.95 | 96.00 | 90.40 | 79.60 | 78.40
14 | 113.05 | 97.65 | 91.25 | 83.60 | 99.55 | 94.45 | 81.65 | 80.95
15 | 118.10 | 100.80 | 94.30 | 86.25 | 103.10 | 98.50 | 83.70 | 83.50
16 | 123.15 | 103.95 | 97.35 | 88.90 | 106.45 | 102.55 | 85.75 | 86.05
17 | 128.20 | 107.10 | 100.40 | 91.55 | 109.80 | 106.60 | 87.80 | 88.60
18 | 133.25 | 110.25 | 103.45 | 94.20 | 113.15 | 110.65 | 89.85 | 91.15
19 | 138.30 | 113.40 | 106.50 | 96.85 | 116.50 | 114.70 | 91.90 | 93.70
20 | 143.35 | 116.55 | 109.55 | 99.50 | 119.85 | 118.75 | 93.95 | 96.25
21 | 148.40 | 119.70 | 112.60 | 102.15 | 123.20 | 122.80 | 96.00 | 98.80
22 | 153.45 | 122.85 | 115.65 | 104.80 | 126.55 | 126.85 | 98.05 | 101.35
23 | 158.50 | 126.00 | 118.70 | 107.45 | 129.90 | 130.90 | 100.10 | 103.90
24 | 163.55 | 129.15 | 121.75 | 110.10 | 133.25 | 134.95 | 102.15 | 106.45
25 | 168.60 | 132.30 | 124.80 | 112.75 | 136.60 | 139.00 | 104.20 | 109.00

Priority Mail International Parcels Retail Prices (Continued)
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
26 | 96.85 | 102.05 | 106.55 | 113.65 | 115.65 | 119.45 | 123.85
27 | 99.00 | 104.70 | 109.30 | 116.60 | 118.65 | 122.70 | 127.30
28 | 101.15 | 107.35 | 112.05 | 119.55 | 121.65 | 125.95 | 130.75
29 | 103.30 | 110.00 | 114.80 | 122.50 | 124.65 | 129.20 | 134.20
30 | 105.45 | 112.65 | 117.55 | 125.45 | 127.65 | 132.45 | 137.65
31 | 107.60 | 115.30 | 120.30 | 128.40 | 130.65 | 135.70 | 141.10
32 | 109.75 | 117.95 | 123.05 | 131.35 | 133.65 | 138.95 | 144.55
33 | 111.90 | 120.60 | 125.80 | 134.30 | 136.65 | 142.20 | 148.00
34 | 114.05 | 123.25 | 128.55 | 137.25 | 139.65 | 145.45 | 151.45
35 | 116.20 | 125.90 | 131.30 | 140.20 | 142.65 | 148.70 | 154.90
36 | 118.35 | 128.55 | 134.05 | 143.15 | 145.65 | 151.95 | 158.35
37 | 120.50 | 131.20 | 136.80 | 146.10 | 148.65 | 155.20 | 161.80
38 | 122.65 | 133.85 | 139.55 | 149.05 | 151.65 | 158.45 | 165.25
39 | 124.80 | 136.50 | 142.30 | 152.00 | 154.65 | 161.70 | 168.70
40 | 126.95 | 139.15 | 145.05 | 154.95 | 157.65 | 164.95 | 172.15
41 | 129.10 | 141.80 | 147.80 | 157.90 | 160.65 | 168.20 | 175.60
42 | 131.25 | 144.45 | 150.55 | 160.85 | 163.65 | 171.45 | 179.05
43 | 133.40 | 147.10 | 153.30 | 163.80 | 166.65 | 174.70 | 182.50
44 | 135.55 | 149.75 | 156.05 | 166.75 | 169.65 | 177.95 | 185.95
45 | 137.70 | 152.40 | 158.80 | 169.70 | 172.65 | 181.20 | 189.40
46 | 139.85 | 155.05 | 161.55 | 172.65 | 175.65 | 184.45 | 192.85
47 | 142.00 | 157.70 | 164.30 | 175.60 | 178.65 | 187.70 | 196.30
48 | 144.15 | 160.35 | 167.05 | 178.55 | 181.65 | 190.95 | 199.75
49 | 146.30 | 163.00 | 169.80 | 181.50 | 184.65 | 194.20 | 203.20
50 | 148.45 | 165.65 | 172.55 | 184.45 | 187.65 | 197.45 | 206.65

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 105.70 | 134.45 | 172.60 | 116.85 | 148.15 | 197.55 | 145.15 | 130.90
27 | 108.05 | 137.80 | 177.45 | 119.60 | 152.20 | 203.60 | 149.10 | 134.15
28 | 110.40 | 141.15 | 182.30 | 122.35 | 156.25 | 209.65 | 153.05 | 137.40
29 | 112.75 | 144.50 | 187.15 | 125.10 | 160.30 | 215.70 | 157.00 | 140.65
30 | 115.10 | 147.85 | 192.00 | 127.85 | 164.35 | 221.75 | 160.95 | 143.90
31 | 117.45 | 151.20 | 196.85 | 130.60 | 168.40 | 227.80 | 164.90 | 147.15
32 | 119.80 | 154.55 | 201.70 | 133.35 | 172.45 | 233.85 | 168.85 | 150.40
33 | 122.15 | 157.90 | 206.55 | 136.10 | 176.50 | 239.90 | 172.80 | 153.65
34 | 124.50 | 161.25 | 211.40 | 138.85 | 180.55 | 245.95 | 176.75 | 156.90
35 | 126.85 | 164.60 | 216.25 | 141.60 | 184.60 | 252.00 | 180.70 | 160.15
36 | 129.20 | 167.95 | 221.10 | 144.35 | 188.65 | 258.05 | 184.65 | 163.40
37 | 131.55 | 171.30 | 225.95 | 147.10 | 192.70 | 264.10 | 188.60 | 166.65
38 | 133.90 | 174.65 | 230.80 | 149.85 | 196.75 | 270.15 | 192.55 | 169.90
39 | 136.25 | 178.00 | 235.65 | 152.60 | 200.80 | 276.20 | 196.50 | 173.15
40 | 138.60 | 181.35 | 240.50 | 155.35 | 204.85 | 282.25 | 200.45 | 176.40
41 | 140.95 | 184.70 | 245.35 | 158.10 | 208.90 | 288.30 | 204.40 | 179.65
42 | 143.30 | 188.05 | 250.20 | 160.85 | 212.95 | 294.35 | 208.35 | 182.90
43 | 145.65 | 191.40 | 255.05 | 163.60 | 217.00 | 300.40 | 212.30 | 186.15
44 | 148.00 | 194.75 | 259.90 | 166.35 | 221.05 | 306.45 | 216.25 | 189.40
45 | 150.35 | 198.10 | 264.75 | 169.10 | 225.10 | 312.50 | 220.20 | 192.65
46 | 152.70 | 201.45 | 269.60 | 171.85 | 229.15 | 318.55 | 224.15 | 195.90
47 | 155.05 | 204.80 | 274.45 | 174.60 | 233.20 | 324.60 | 228.10 | 199.15
48 | 157.40 | 208.15 | 279.30 | 177.35 | 237.25 | 330.65 | 232.05 | 202.40
49 | 159.75 | 211.50 | 284.15 | 180.10 | 241.30 | 336.70 | 236.00 | 205.65
50 | 162.10 | 214.85 | 289.00 | 182.85 | 245.35 | 342.75 | 239.95 | 208.90

Priority Mail International Parcels Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 173.65 | 135.45 | 127.85 | 115.40 | 139.95 | 143.05 | 106.25 | 111.55
27 | 178.70 | 138.60 | 130.90 | 118.05 | 143.30 | 147.10 | 108.30 | 114.10
28 | 183.75 | 141.75 | 133.95 | 120.70 | 146.65 | 151.15 | 110.35 | 116.65
29 | 188.80 | 144.90 | 137.00 | 123.35 | 150.00 | 155.20 | 112.40 | 119.20
30 | 193.85 | 148.05 | 140.05 | 126.00 | 153.35 | 159.25 | 114.45 | 121.75
31 | 198.90 | 151.20 | 143.10 | 128.65 | 156.70 | 163.30 | 116.50 | 124.30
32 | 203.95 | 154.35 | 146.15 | 131.30 | 160.05 | 167.35 | 118.55 | 126.85
33 | 209.00 | 157.50 | 149.20 | 133.95 | 163.40 | 171.40 | 120.60 | 129.40
34 | 214.05 | 160.65 | 152.25 | 136.60 | 166.75 | 175.45 | 122.65 | 131.95
35 | 219.10 | 163.80 | 155.30 | 139.25 | 170.10 | 179.50 | 124.70 | 134.50
36 | 224.15 | 166.95 | 158.35 | 141.90 | 173.45 | 183.55 | 126.75 | 137.05
37 | 229.20 | 170.10 | 161.40 | 144.55 | 176.80 | 187.60 | 128.80 | 139.60
38 | 234.25 | 173.25 | 164.45 | 147.20 | 180.15 | 191.65 | 130.85 | 142.15
39 | 239.30 | 176.40 | 167.50 | 149.85 | 183.50 | 195.70 | 132.90 | 144.70
40 | 244.35 | 179.55 | 170.55 | 152.50 | 186.85 | 199.75 | 134.95 | 147.25
41 | 249.40 | 182.70 | 173.60 | 155.15 | 190.20 | 203.80 | 137.00 | 149.80
42 | 254.45 | 185.85 | 176.65 | 157.80 | 193.55 | 207.85 | 139.05 | 152.35
43 | 259.50 | 189.00 | 179.70 | 160.45 | 196.90 | 211.90 | 141.10 | 154.90
44 | 264.55 | 192.15 | 182.75 | 163.10 | 200.25 | 215.95 | 143.15 | 157.45
45 | 269.60 | 195.30 | 185.80 | 165.75 | 203.60 | 220.00 | 145.20 | 160.00
46 | 274.65 | 198.45 | 188.85 | 168.40 | 206.95 | 224.05 | 147.25 | 162.55
47 | 279.70 | 201.60 | 191.90 | 171.05 | 210.30 | 228.10 | 149.30 | 165.10
48 | 284.75 | 204.75 | 194.95 | 173.70 | 213.65 | 232.15 | 151.35 | 167.65
49 | 289.80 | 207.90 | 198.00 | 176.35 | 217.00 | 236.20 | 153.40 | 170.20
50 | 294.85 | 211.05 | 201.05 | 179.00 | 220.35 | 240.25 | 155.45 | 172.75

Priority Mail International Parcels Retail Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
51 | 150.60 | 168.30 | 175.30 | 187.20 | 190.65 | 200.70 | 210.10
52 | 152.75 | 170.95 | 178.05 | 189.95 | 193.65 | 203.95 | 213.55
53 | 154.90 | 173.60 | 180.80 | 192.70 | 196.65 | 207.20 | 217.00
54 | 157.05 | 176.25 | 183.55 | 195.45 | 199.65 | 210.45 | 220.45
55 | 159.20 | 178.90 | 186.30 | 198.20 | 202.65 | 213.70 | 223.90
56 | 161.35 | 181.55 | 189.05 | 200.95 | 205.65 | 216.95 | 227.35
57 | 163.50 | 184.20 | 191.80 | 203.70 | 208.65 | 220.20 | 230.80
58 | 165.65 | 186.85 | 194.55 | 206.45 | 211.65 | 223.45 | 234.25
59 | 167.80 | 189.50 | 197.30 | 209.20 | 214.65 | 226.70 | 237.70
60 | 169.95 | 192.15 | 200.05 | 211.95 | 217.65 | 229.95 | 241.15
61 | 172.10 | 194.80 | 202.80 | 214.70 | 220.65 | 233.20 | 244.60
62 | 174.25 | 197.45 | 205.55 | 217.45 | 223.65 | 236.45 | 248.05
63 | 176.40 | 200.10 | 208.30 | 220.20 | 226.65 | 239.70 | 251.50
64 | 178.55 | 202.75 | 211.05 | 222.95 | 229.65 | 242.95 | 254.95
65 | 180.70 | 205.40 | 213.80 | 225.70 | 232.65 | 246.20 | 258.40
66 | 182.85 | 208.05 | 216.55 | 228.45 | 235.65 | 249.45 | 261.85
67 |  |  |  |  |  |  |
68 |  |  |  |  |  |  |
69 |  |  |  |  |  |  |
70 |  |  |  |  |  |  |

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 164.45 | 218.20 | 293.85 | 185.60 | 249.40 | 348.80 | 243.90 | 212.15
52 | 166.80 | 221.55 | 298.70 | 188.35 | 253.45 | 354.85 | 247.85 | 215.40
53 | 169.15 | 224.90 | 303.55 | 191.10 | 257.50 | 360.90 | 251.80 | 218.65
54 | 171.50 | 228.25 | 308.40 | 193.85 | 261.55 | 366.95 | 255.75 | 221.90
55 | 173.85 | 231.60 | 313.25 | 196.60 | 265.60 | 373.00 | 259.70 | 225.15
56 | 176.20 | 234.95 | 318.10 | 199.35 | 269.65 | 379.05 | 263.65 | 228.40
57 | 178.55 | 238.30 | 322.95 | 202.10 | 273.70 | 385.10 | 267.60 | 231.65
58 | 180.90 | 241.65 | 327.80 | 204.85 | 277.75 | 391.15 | 271.55 | 234.90
59 | 183.25 | 245.00 | 332.65 | 207.60 | 281.80 | 397.20 | 275.50 | 238.15
60 | 185.60 | 248.35 | 337.50 | 210.35 | 285.85 | 403.25 | 279.45 | 241.40
61 | 187.95 | 251.70 | 342.35 | 213.10 | 289.90 | 409.30 | 283.40 | 244.65
62 | 190.30 | 255.05 | 347.20 | 215.85 | 293.95 | 415.35 | 287.35 | 247.90
63 | 192.65 | 258.40 | 352.05 | 218.60 | 298.00 | 421.40 | 291.30 | 251.15
64 | 195.00 | 261.75 | 356.90 | 221.35 | 302.05 | 427.45 | 295.25 | 254.40
65 | 197.35 | 265.10 | 361.75 | 224.10 | 306.10 | 433.50 | 299.20 | 257.65
66 | 199.70 | 268.45 | 366.60 | 226.85 | 310.15 | 439.55 | 303.15 | 260.90
67 | 202.05 | 271.80 | 371.45 | 229.60 | 314.20 | 445.60 | 307.10 | 264.15
68 | 204.40 | 275.15 | 376.30 | 232.35 | 318.25 | 451.65 | 311.05 | 267.40
69 | 206.75 | 278.50 | 381.15 | 235.10 | 322.30 | 457.70 | 315.00 | 270.65
70 | 209.10 | 281.85 | 386.00 | 237.85 | 326.35 | 463.75 | 318.95 | 273.90

Priority Mail International Parcels Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 299.90 | 214.20 | 204.10 | 181.65 | 223.70 | 244.30 | 157.50 | 175.30
52 | 304.95 | 217.35 | 207.15 | 184.30 | 227.05 | 248.35 | 159.55 | 177.85
53 | 310.00 | 220.50 | 210.20 | 186.95 | 230.40 | 252.40 | 161.60 | 180.40
54 | 315.05 | 223.65 | 213.25 | 189.60 | 233.75 | 256.45 | 163.65 | 182.95
55 | 320.10 | 226.80 | 216.30 | 192.25 | 237.10 | 260.50 | 165.70 | 185.50
56 | 325.15 | 229.95 | 219.35 | 194.90 | 240.45 | 264.55 | 167.75 | 188.05
57 | 330.20 | 233.10 | 222.40 | 197.55 | 243.80 | 268.60 | 169.80 | 190.60
58 | 335.25 | 236.25 | 225.45 | 200.20 | 247.15 | 272.65 | 171.85 | 193.15
59 | 340.30 | 239.40 | 228.50 | 202.85 | 250.50 | 276.70 | 173.90 | 195.70
60 | 345.35 | 242.55 | 231.55 | 205.50 | 253.85 | 280.75 | 175.95 | 198.25
61 | 350.40 | 245.70 | 234.60 | 208.15 | 257.20 | 284.80 | 178.00 | 200.80
62 | 355.45 | 248.85 | 237.65 | 210.80 | 260.55 | 288.85 | 180.05 | 203.35
63 | 360.50 | 252.00 | 240.70 | 213.45 | 263.90 | 292.90 | 182.10 | 205.90
64 | 365.55 | 255.15 | 243.75 | 216.10 | 267.25 | 296.95 | 184.15 | 208.45
65 | 370.60 | 258.30 | 246.80 | 218.75 | 270.60 | 301.00 | 186.20 | 211.00
66 | 375.65 | 261.45 | 249.85 | 221.40 | 273.95 | 305.05 | 188.25 | 213.55
67 |  |  |  |  |  |  | 190.30 |
68 |  |  |  |  |  |  | 192.35 |
69 |  |  |  |  |  |  | 194.40 |
70 |  |  |  |  |  |  | 196.45 |
Notes
¹ The applicable Origin Zone for pieces destined to Canada is based on the applicable zone from the origin point to the serving International Service Center (ISC). In future releases, distance to and within Canada could be considered for application of the appropriate Origin Zone group.

Priority Mail International Parcels Commercial Base Prices
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
1 | 31.35 | 32.30 | 34.58 | 35.63 | 37.00 | 37.53 | 38.00
2 | 33.87 | 34.96 | 37.29 | 38.52 | 39.95 | 40.42 | 40.99
3 | 36.39 | 37.62 | 40.00 | 41.42 | 42.89 | 43.32 | 43.99
4 | 38.90 | 40.28 | 42.70 | 44.32 | 45.84 | 46.22 | 46.98
5 | 41.42 | 42.94 | 45.41 | 47.22 | 48.78 | 49.12 | 49.97
6 | 43.94 | 45.55 | 48.21 | 50.11 | 51.63 | 52.11 | 53.06
7 | 46.46 | 48.17 | 51.02 | 53.01 | 54.48 | 55.10 | 56.15
8 | 48.97 | 50.78 | 53.82 | 55.91 | 57.33 | 58.09 | 59.23
9 | 51.49 | 53.39 | 56.62 | 58.81 | 60.18 | 61.09 | 62.32
10 | 54.01 | 56.00 | 59.42 | 61.70 | 63.03 | 64.08 | 65.41
11 | 56.43 | 58.62 | 62.04 | 64.60 | 65.98 | 67.17 | 68.50
12 | 58.85 | 61.23 | 64.65 | 67.50 | 68.92 | 70.25 | 71.77
13 | 61.28 | 63.84 | 67.26 | 70.40 | 71.87 | 73.34 | 75.05
14 | 63.70 | 66.45 | 69.87 | 73.29 | 74.81 | 76.43 | 78.33
15 | 66.12 | 69.07 | 72.49 | 76.19 | 77.76 | 79.52 | 81.61
16 | 68.54 | 71.68 | 75.10 | 79.09 | 80.70 | 82.60 | 84.88
17 | 70.97 | 74.29 | 77.71 | 81.99 | 83.65 | 85.69 | 88.16
18 | 73.39 | 76.81 | 80.32 | 84.88 | 86.59 | 88.78 | 91.44
19 | 75.81 | 79.33 | 82.94 | 87.78 | 89.54 | 91.87 | 94.72
20 | 78.23 | 81.84 | 85.55 | 90.68 | 92.48 | 94.95 | 97.99
21 | 80.66 | 84.36 | 88.16 | 93.58 | 95.43 | 98.04 | 101.27
22 | 83.08 | 86.88 | 90.77 | 96.47 | 98.37 | 101.13 | 104.55
23 | 85.50 | 89.40 | 93.39 | 99.37 | 101.32 | 104.22 | 107.83
24 | 87.92 | 91.91 | 96.00 | 102.27 | 104.17 | 107.30 | 111.10
25 | 89.97 | 94.43 | 98.61 | 105.17 | 107.02 | 110.39 | 114.38

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 38.24 | 41.33 | 47.26 | 43.70 | 45.13 | 46.55 | 42.28 | 40.80
2 | 41.71 | 46.22 | 52.25 | 46.69 | 49.07 | 52.01 | 46.60 | 45.13
3 | 45.17 | 51.11 | 57.24 | 49.69 | 53.01 | 57.48 | 50.92 | 49.45
4 | 48.64 | 56.00 | 62.23 | 52.68 | 56.95 | 62.94 | 55.24 | 53.77
5 | 52.11 | 60.90 | 67.21 | 55.67 | 60.90 | 68.40 | 59.57 | 58.09
6 | 54.63 | 64.08 | 71.82 | 58.38 | 64.55 | 73.86 | 63.22 | 61.37
7 | 57.14 | 67.26 | 76.43 | 61.09 | 68.21 | 79.33 | 66.88 | 64.65
8 | 59.66 | 70.44 | 81.04 | 63.79 | 71.87 | 84.79 | 70.54 | 67.93
9 | 62.18 | 73.63 | 85.64 | 66.50 | 75.53 | 90.25 | 74.20 | 71.20
10 | 64.70 | 76.81 | 90.25 | 69.21 | 79.18 | 95.71 | 77.85 | 74.48
11 | 66.93 | 79.99 | 94.86 | 71.82 | 83.03 | 101.46 | 81.61 | 77.66
12 | 69.16 | 83.17 | 99.47 | 74.43 | 86.88 | 107.21 | 85.36 | 80.85
13 | 71.39 | 86.36 | 104.07 | 77.05 | 90.73 | 112.96 | 89.11 | 84.03
14 | 73.63 | 89.54 | 108.68 | 79.66 | 94.57 | 118.70 | 92.86 | 87.21
15 | 75.86 | 92.72 | 113.29 | 82.27 | 98.42 | 124.45 | 96.62 | 90.39
16 | 78.09 | 95.90 | 117.90 | 84.88 | 102.27 | 130.20 | 100.37 | 93.48
17 | 80.32 | 99.09 | 122.50 | 87.50 | 106.12 | 135.95 | 104.12 | 96.57
18 | 82.56 | 102.27 | 127.11 | 90.11 | 109.96 | 141.69 | 107.87 | 99.66
19 | 84.79 | 105.45 | 131.72 | 92.72 | 113.81 | 147.44 | 111.63 | 102.74
20 | 87.02 | 108.63 | 136.33 | 95.33 | 117.66 | 153.19 | 115.38 | 105.83
21 | 89.25 | 111.82 | 140.93 | 97.95 | 121.51 | 158.94 | 119.13 | 108.92
22 | 91.49 | 115.00 | 145.54 | 100.56 | 125.35 | 164.68 | 122.88 | 112.01
23 | 93.72 | 118.18 | 150.15 | 103.17 | 129.20 | 170.43 | 126.64 | 115.09
24 | 95.95 | 121.36 | 154.76 | 105.78 | 133.05 | 176.18 | 130.39 | 118.18
25 | 98.18 | 124.55 | 159.36 | 108.40 | 136.90 | 181.93 | 134.14 | 121.27

Priority Mail International Parcels Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
1 | 46.08 | 47.98 | 47.50 | 40.14 | 46.55 | 42.70 | 40.38 | 39.90
2 | 50.49 | 52.20 | 50.78 | 43.70 | 50.97 | 46.22 | 43.75 | 43.46
3 | 54.91 | 56.43 | 54.06 | 47.26 | 55.39 | 49.73 | 47.12 | 47.03
4 | 59.33 | 60.66 | 57.33 | 50.83 | 59.80 | 53.25 | 50.49 | 50.59
5 | 63.75 | 64.89 | 60.61 | 54.39 | 64.22 | 56.76 | 53.87 | 54.15
6 | 68.64 | 68.07 | 63.51 | 57.38 | 67.59 | 60.28 | 57.05 | 56.76
7 | 73.53 | 71.25 | 66.41 | 60.37 | 70.97 | 63.79 | 60.23 | 59.38
8 | 78.42 | 74.43 | 69.30 | 63.37 | 74.34 | 67.31 | 63.41 | 61.99
9 | 83.32 | 77.62 | 72.20 | 66.36 | 77.71 | 70.82 | 66.60 | 64.60
10 | 88.21 | 80.80 | 75.10 | 69.35 | 81.08 | 74.34 | 69.78 | 67.21
11 | 93.01 | 83.79 | 78.00 | 71.87 | 84.46 | 78.19 | 71.73 | 69.64
12 | 97.80 | 86.78 | 80.89 | 74.39 | 87.83 | 82.03 | 73.67 | 72.06
13 | 102.60 | 89.78 | 83.79 | 76.90 | 91.20 | 85.88 | 75.62 | 74.48
14 | 107.40 | 92.77 | 86.69 | 79.42 | 94.57 | 89.73 | 77.57 | 76.90
15 | 112.20 | 95.76 | 89.59 | 81.94 | 97.95 | 93.58 | 79.52 | 79.33
16 | 116.99 | 98.75 | 92.48 | 84.46 | 101.13 | 97.42 | 81.46 | 81.75
17 | 121.79 | 101.75 | 95.38 | 86.97 | 104.31 | 101.27 | 83.41 | 84.17
18 | 126.59 | 104.74 | 98.28 | 89.49 | 107.49 | 105.12 | 85.36 | 86.59
19 | 131.39 | 107.73 | 101.18 | 92.01 | 110.68 | 108.97 | 87.31 | 89.02
20 | 136.18 | 110.72 | 104.07 | 94.53 | 113.86 | 112.81 | 89.25 | 91.44
21 | 140.98 | 113.72 | 106.97 | 97.04 | 117.04 | 116.66 | 91.20 | 93.86
22 | 145.78 | 116.71 | 109.87 | 99.56 | 120.22 | 120.51 | 93.15 | 96.28
23 | 150.58 | 119.70 | 112.77 | 102.08 | 123.41 | 124.36 | 95.10 | 98.71
24 | 155.37 | 122.69 | 115.66 | 104.60 | 126.59 | 128.20 | 97.04 | 101.13
25 | 160.17 | 125.69 | 118.56 | 107.11 | 129.77 | 132.05 | 98.99 | 103.55

Priority Mail International Parcels Commercial Base Prices (Continued)
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
26 | 92.01 | 96.95 | 101.22 | 107.97 | 109.87 | 113.48 | 117.66
27 | 94.05 | 99.47 | 103.84 | 110.77 | 112.72 | 116.57 | 120.94
28 | 96.09 | 101.98 | 106.45 | 113.57 | 115.57 | 119.65 | 124.21
29 | 98.14 | 104.50 | 109.06 | 116.38 | 118.42 | 122.74 | 127.49
30 | 100.18 | 107.02 | 111.67 | 119.18 | 121.27 | 125.83 | 130.77
31 | 102.22 | 109.54 | 114.29 | 121.98 | 124.12 | 128.92 | 134.05
32 | 104.26 | 112.05 | 116.90 | 124.78 | 126.97 | 132.00 | 137.32
33 | 106.31 | 114.57 | 119.51 | 127.59 | 129.82 | 135.09 | 140.60
34 | 108.35 | 117.09 | 122.12 | 130.39 | 132.67 | 138.18 | 143.88
35 | 110.39 | 119.61 | 124.74 | 133.19 | 135.52 | 141.27 | 147.16
36 | 112.43 | 122.12 | 127.35 | 135.99 | 138.37 | 144.35 | 150.43
37 | 114.48 | 124.64 | 129.96 | 138.80 | 141.22 | 147.44 | 153.71
38 | 116.52 | 127.16 | 132.57 | 141.60 | 144.07 | 150.53 | 156.99
39 | 118.56 | 129.68 | 135.19 | 144.40 | 146.92 | 153.62 | 160.27
40 | 120.60 | 132.19 | 137.80 | 147.20 | 149.77 | 156.70 | 163.54
41 | 122.65 | 134.71 | 140.41 | 150.01 | 152.62 | 159.79 | 166.82
42 | 124.69 | 137.23 | 143.02 | 152.81 | 155.47 | 162.88 | 170.10
43 | 126.73 | 139.75 | 145.64 | 155.61 | 158.32 | 165.97 | 173.38
44 | 128.77 | 142.26 | 148.25 | 158.41 | 161.17 | 169.05 | 176.65
45 | 130.82 | 144.78 | 150.86 | 161.22 | 164.02 | 172.14 | 179.93
46 | 132.86 | 147.30 | 153.47 | 164.02 | 166.87 | 175.23 | 183.21
47 | 134.90 | 149.82 | 156.09 | 166.82 | 169.72 | 178.32 | 186.49
48 | 136.94 | 152.33 | 158.70 | 169.62 | 172.57 | 181.40 | 189.76
49 | 138.99 | 154.85 | 161.31 | 172.43 | 175.42 | 184.49 | 193.04
50 | 141.03 | 157.37 | 163.92 | 175.23 | 178.27 | 187.58 | 196.32

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 100.42 | 127.73 | 163.97 | 111.01 | 140.74 | 187.67 | 137.89 | 124.36
27 | 102.65 | 130.91 | 168.58 | 113.62 | 144.59 | 193.42 | 141.65 | 127.44
28 | 104.88 | 134.09 | 173.19 | 116.23 | 148.44 | 199.17 | 145.40 | 130.53
29 | 107.11 | 137.28 | 177.79 | 118.85 | 152.29 | 204.92 | 149.15 | 133.62
30 | 109.35 | 140.46 | 182.40 | 121.46 | 156.13 | 210.66 | 152.90 | 136.71
31 | 111.58 | 143.64 | 187.01 | 124.07 | 159.98 | 216.41 | 156.66 | 139.79
32 | 113.81 | 146.82 | 191.62 | 126.68 | 163.83 | 222.16 | 160.41 | 142.88
33 | 116.04 | 150.01 | 196.22 | 129.30 | 167.68 | 227.91 | 164.16 | 145.97
34 | 118.28 | 153.19 | 200.83 | 131.91 | 171.52 | 233.65 | 167.91 | 149.06
35 | 120.51 | 156.37 | 205.44 | 134.52 | 175.37 | 239.40 | 171.67 | 152.14
36 | 122.74 | 159.55 | 210.05 | 137.13 | 179.22 | 245.15 | 175.42 | 155.23
37 | 124.97 | 162.74 | 214.65 | 139.75 | 183.07 | 250.90 | 179.17 | 158.32
38 | 127.21 | 165.92 | 219.26 | 142.36 | 186.91 | 256.64 | 182.92 | 161.41
39 | 129.44 | 169.10 | 223.87 | 144.97 | 190.76 | 262.39 | 186.68 | 164.49
40 | 131.67 | 172.28 | 228.48 | 147.58 | 194.61 | 268.14 | 190.43 | 167.58
41 | 133.90 | 175.47 | 233.08 | 150.20 | 198.46 | 273.89 | 194.18 | 170.67
42 | 136.14 | 178.65 | 237.69 | 152.81 | 202.30 | 279.63 | 197.93 | 173.76
43 | 138.37 | 181.83 | 242.30 | 155.42 | 206.15 | 285.38 | 201.69 | 176.84
44 | 140.60 | 185.01 | 246.91 | 158.03 | 210.00 | 291.13 | 205.44 | 179.93
45 | 142.83 | 188.20 | 251.51 | 160.65 | 213.85 | 296.88 | 209.19 | 183.02
46 | 145.07 | 191.38 | 256.12 | 163.26 | 217.69 | 302.62 | 212.94 | 186.11
47 | 147.30 | 194.56 | 260.73 | 165.87 | 221.54 | 308.37 | 216.70 | 189.19
48 | 149.53 | 197.74 | 265.34 | 168.48 | 225.39 | 314.12 | 220.45 | 192.28
49 | 151.76 | 200.93 | 269.94 | 171.10 | 229.24 | 319.87 | 224.20 | 195.37
50 | 154.00 | 204.11 | 274.55 | 173.71 | 233.08 | 325.61 | 227.95 | 198.46

Priority Mail International Parcels Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 164.97 | 128.68 | 121.46 | 109.63 | 132.95 | 135.90 | 100.94 | 105.97
27 | 169.77 | 131.67 | 124.36 | 112.15 | 136.14 | 139.75 | 102.89 | 108.40
28 | 174.56 | 134.66 | 127.25 | 114.67 | 139.32 | 143.59 | 104.83 | 110.82
29 | 179.36 | 137.66 | 130.15 | 117.18 | 142.50 | 147.44 | 106.78 | 113.24
30 | 184.16 | 140.65 | 133.05 | 119.70 | 145.68 | 151.29 | 108.73 | 115.66
31 | 188.96 | 143.64 | 135.95 | 122.22 | 148.87 | 155.14 | 110.68 | 118.09
32 | 193.75 | 146.63 | 138.84 | 124.74 | 152.05 | 158.98 | 112.62 | 120.51
33 | 198.55 | 149.63 | 141.74 | 127.25 | 155.23 | 162.83 | 114.57 | 122.93
34 | 203.35 | 152.62 | 144.64 | 129.77 | 158.41 | 166.68 | 116.52 | 125.35
35 | 208.15 | 155.61 | 147.54 | 132.29 | 161.60 | 170.53 | 118.47 | 127.78
36 | 212.94 | 158.60 | 150.43 | 134.81 | 164.78 | 174.37 | 120.41 | 130.20
37 | 217.74 | 161.60 | 153.33 | 137.32 | 167.96 | 178.22 | 122.36 | 132.62
38 | 222.54 | 164.59 | 156.23 | 139.84 | 171.14 | 182.07 | 124.31 | 135.04
39 | 227.34 | 167.58 | 159.13 | 142.36 | 174.33 | 185.92 | 126.26 | 137.47
40 | 232.13 | 170.57 | 162.02 | 144.88 | 177.51 | 189.76 | 128.20 | 139.89
41 | 236.93 | 173.57 | 164.92 | 147.39 | 180.69 | 193.61 | 130.15 | 142.31
42 | 241.73 | 176.56 | 167.82 | 149.91 | 183.87 | 197.46 | 132.10 | 144.73
43 | 246.53 | 179.55 | 170.72 | 152.43 | 187.06 | 201.31 | 134.05 | 147.16
44 | 251.32 | 182.54 | 173.61 | 154.95 | 190.24 | 205.15 | 135.99 | 149.58
45 | 256.12 | 185.54 | 176.51 | 157.46 | 193.42 | 209.00 | 137.94 | 152.00
46 | 260.92 | 188.53 | 179.41 | 159.98 | 196.60 | 212.85 | 139.89 | 154.42
47 | 265.72 | 191.52 | 182.31 | 162.50 | 199.79 | 216.70 | 141.84 | 156.85
48 | 270.51 | 194.51 | 185.20 | 165.02 | 202.97 | 220.54 | 143.78 | 159.27
49 | 275.31 | 197.51 | 188.10 | 167.53 | 206.15 | 224.39 | 145.73 | 161.69
50 | 280.11 | 200.50 | 191.00 | 170.05 | 209.33 | 228.24 | 147.68 | 164.11

Priority Mail International Parcels Commercial Base Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
51 | 143.07 | 159.89 | 166.54 | 177.84 | 181.12 | 190.67 | 199.60
52 | 145.11 | 162.40 | 169.15 | 180.45 | 183.97 | 193.75 | 202.87
53 | 147.16 | 164.92 | 171.76 | 183.07 | 186.82 | 196.84 | 206.15
54 | 149.20 | 167.44 | 174.37 | 185.68 | 189.67 | 199.93 | 209.43
55 | 151.24 | 169.96 | 176.99 | 188.29 | 192.52 | 203.02 | 212.71
56 | 153.28 | 172.47 | 179.60 | 190.90 | 195.37 | 206.10 | 215.98
57 | 155.33 | 174.99 | 182.21 | 193.52 | 198.22 | 209.19 | 219.26
58 | 157.37 | 177.51 | 184.82 | 196.13 | 201.07 | 212.28 | 222.54
59 | 159.41 | 180.03 | 187.44 | 198.74 | 203.92 | 215.37 | 225.82
60 | 161.45 | 182.54 | 190.05 | 201.35 | 206.77 | 218.45 | 229.09
61 | 163.50 | 185.06 | 192.66 | 203.97 | 209.62 | 221.54 | 232.37
62 | 165.54 | 187.58 | 195.27 | 206.58 | 212.47 | 224.63 | 235.65
63 | 167.58 | 190.10 | 197.89 | 209.19 | 215.32 | 227.72 | 238.93
64 | 169.62 | 192.61 | 200.50 | 211.80 | 218.17 | 230.80 | 242.20
65 | 171.67 | 195.13 | 203.11 | 214.42 | 221.02 | 233.89 | 245.48
66 | 173.71 | 197.65 | 205.72 | 217.03 | 223.87 | 236.98 | 248.76
67 |  |  |  |  |  |  |
68 |  |  |  |  |  |  |
69 |  |  |  |  |  |  |
70 |  |  |  |  |  |  |

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 156.23 | 207.29 | 279.16 | 176.32 | 236.93 | 331.36 | 231.71 | 201.54
52 | 158.46 | 210.47 | 283.77 | 178.93 | 240.78 | 337.11 | 235.46 | 204.63
53 | 160.69 | 213.66 | 288.37 | 181.55 | 244.63 | 342.86 | 239.21 | 207.72
54 | 162.93 | 216.84 | 292.98 | 184.16 | 248.47 | 348.60 | 242.96 | 210.81
55 | 165.16 | 220.02 | 297.59 | 186.77 | 252.32 | 354.35 | 246.72 | 213.89
56 | 167.39 | 223.20 | 302.20 | 189.38 | 256.17 | 360.10 | 250.47 | 216.98
57 | 169.62 | 226.39 | 306.80 | 192.00 | 260.02 | 365.85 | 254.22 | 220.07
58 | 171.86 | 229.57 | 311.41 | 194.61 | 263.86 | 371.59 | 257.97 | 223.16
59 | 174.09 | 232.75 | 316.02 | 197.22 | 267.71 | 377.34 | 261.73 | 226.24
60 | 176.32 | 235.93 | 320.63 | 199.83 | 271.56 | 383.09 | 265.48 | 229.33
61 | 178.55 | 239.12 | 325.23 | 202.45 | 275.41 | 388.84 | 269.23 | 232.42
62 | 180.79 | 242.30 | 329.84 | 205.06 | 279.25 | 394.58 | 272.98 | 235.51
63 | 183.02 | 245.48 | 334.45 | 207.67 | 283.10 | 400.33 | 276.74 | 238.59
64 | 185.25 | 248.66 | 339.06 | 210.28 | 286.95 | 406.08 | 280.49 | 241.68
65 | 187.48 | 251.85 | 343.66 | 212.90 | 290.80 | 411.83 | 284.24 | 244.77
66 | 189.72 | 255.03 | 348.27 | 215.51 | 294.64 | 417.57 | 287.99 | 247.86
67 | 191.95 | 258.21 | 352.88 | 218.12 | 298.49 | 423.32 | 291.75 | 250.94
68 | 194.18 | 261.39 | 357.49 | 220.73 | 302.34 | 429.07 | 295.50 | 254.03
69 | 196.41 | 264.58 | 362.09 | 223.35 | 306.19 | 434.82 | 299.25 | 257.12
70 | 198.65 | 267.76 | 366.70 | 225.96 | 310.03 | 440.56 | 303.00 | 260.21

Priority Mail International Parcels Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 284.91 | 203.49 | 193.90 | 172.57 | 212.52 | 232.09 | 149.63 | 166.54
52 | 289.70 | 206.48 | 196.79 | 175.09 | 215.70 | 235.93 | 151.57 | 168.96
53 | 294.50 | 209.48 | 199.69 | 177.60 | 218.88 | 239.78 | 153.52 | 171.38
54 | 299.30 | 212.47 | 202.59 | 180.12 | 222.06 | 243.63 | 155.47 | 173.80
55 | 304.10 | 215.46 | 205.49 | 182.64 | 225.25 | 247.48 | 157.42 | 176.23
56 | 308.89 | 218.45 | 208.38 | 185.16 | 228.43 | 251.32 | 159.36 | 178.65
57 | 313.69 | 221.45 | 211.28 | 187.67 | 231.61 | 255.17 | 161.31 | 181.07
58 | 318.49 | 224.44 | 214.18 | 190.19 | 234.79 | 259.02 | 163.26 | 183.49
59 | 323.29 | 227.43 | 217.08 | 192.71 | 237.98 | 262.87 | 165.21 | 185.92
60 | 328.08 | 230.42 | 219.97 | 195.23 | 241.16 | 266.71 | 167.15 | 188.34
61 | 332.88 | 233.42 | 222.87 | 197.74 | 244.34 | 270.56 | 169.10 | 190.76
62 | 337.68 | 236.41 | 225.77 | 200.26 | 247.52 | 274.41 | 171.05 | 193.18
63 | 342.48 | 239.40 | 228.67 | 202.78 | 250.71 | 278.26 | 173.00 | 195.61
64 | 347.27 | 242.39 | 231.56 | 205.30 | 253.89 | 282.10 | 174.94 | 198.03
65 | 352.07 | 245.39 | 234.46 | 207.81 | 257.07 | 285.95 | 176.89 | 200.45
66 | 356.87 | 248.38 | 237.36 | 210.33 | 260.25 | 289.80 | 178.84 | 202.87
67 |  |  |  |  |  |  | 180.79 |
68 |  |  |  |  |  |  | 182.73 |
69 |  |  |  |  |  |  | 184.68 |
70 |  |  |  |  |  |  | 186.63 |
Notes
¹ The applicable Origin Zone for pieces destined to Canada is based on the applicable zone from the origin point to the serving International Service Center (ISC). In future releases, distance to and within Canada could be considered for application of the appropriate Origin Zone group.

Priority Mail International Parcels Commercial Plus Prices
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
1 | 31.35 | 32.30 | 34.58 | 35.63 | 37.00 | 37.53 | 38.00
2 | 33.87 | 34.96 | 37.29 | 38.52 | 39.95 | 40.42 | 40.99
3 | 36.39 | 37.62 | 40.00 | 41.42 | 42.89 | 43.32 | 43.99
4 | 38.90 | 40.28 | 42.70 | 44.32 | 45.84 | 46.22 | 46.98
5 | 41.42 | 42.94 | 45.41 | 47.22 | 48.78 | 49.12 | 49.97
6 | 43.94 | 45.55 | 48.21 | 50.11 | 51.63 | 52.11 | 53.06
7 | 46.46 | 48.17 | 51.02 | 53.01 | 54.48 | 55.10 | 56.15
8 | 48.97 | 50.78 | 53.82 | 55.91 | 57.33 | 58.09 | 59.23
9 | 51.49 | 53.39 | 56.62 | 58.81 | 60.18 | 61.09 | 62.32
10 | 54.01 | 56.00 | 59.42 | 61.70 | 63.03 | 64.08 | 65.41
11 | 56.43 | 58.62 | 62.04 | 64.60 | 65.98 | 67.17 | 68.50
12 | 58.85 | 61.23 | 64.65 | 67.50 | 68.92 | 70.25 | 71.77
13 | 61.28 | 63.84 | 67.26 | 70.40 | 71.87 | 73.34 | 75.05
14 | 63.70 | 66.45 | 69.87 | 73.29 | 74.81 | 76.43 | 78.33
15 | 66.12 | 69.07 | 72.49 | 76.19 | 77.76 | 79.52 | 81.61
16 | 68.54 | 71.68 | 75.10 | 79.09 | 80.70 | 82.60 | 84.88
17 | 70.97 | 74.29 | 77.71 | 81.99 | 83.65 | 85.69 | 88.16
18 | 73.39 | 76.81 | 80.32 | 84.88 | 86.59 | 88.78 | 91.44
19 | 75.81 | 79.33 | 82.94 | 87.78 | 89.54 | 91.87 | 94.72
20 | 78.23 | 81.84 | 85.55 | 90.68 | 92.48 | 94.95 | 97.99
21 | 80.66 | 84.36 | 88.16 | 93.58 | 95.43 | 98.04 | 101.27
22 | 83.08 | 86.88 | 90.77 | 96.47 | 98.37 | 101.13 | 104.55
23 | 85.50 | 89.40 | 93.39 | 99.37 | 101.32 | 104.22 | 107.83
24 | 87.92 | 91.91 | 96.00 | 102.27 | 104.17 | 107.30 | 111.10
25 | 89.97 | 94.43 | 98.61 | 105.17 | 107.02 | 110.39 | 114.38

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 38.24 | 41.33 | 47.26 | 43.70 | 45.13 | 46.55 | 42.28 | 40.80
2 | 41.71 | 46.22 | 52.25 | 46.69 | 49.07 | 52.01 | 46.60 | 45.13
3 | 45.17 | 51.11 | 57.24 | 49.69 | 53.01 | 57.48 | 50.92 | 49.45
4 | 48.64 | 56.00 | 62.23 | 52.68 | 56.95 | 62.94 | 55.24 | 53.77
5 | 52.11 | 60.90 | 67.21 | 55.67 | 60.90 | 68.40 | 59.57 | 58.09
6 | 54.63 | 64.08 | 71.82 | 58.38 | 64.55 | 73.86 | 63.22 | 61.37
7 | 57.14 | 67.26 | 76.43 | 61.09 | 68.21 | 79.33 | 66.88 | 64.65
8 | 59.66 | 70.44 | 81.04 | 63.79 | 71.87 | 84.79 | 70.54 | 67.93
9 | 62.18 | 73.63 | 85.64 | 66.50 | 75.53 | 90.25 | 74.20 | 71.20
10 | 64.70 | 76.81 | 90.25 | 69.21 | 79.18 | 95.71 | 77.85 | 74.48
11 | 66.93 | 79.99 | 94.86 | 71.82 | 83.03 | 101.46 | 81.61 | 77.66
12 | 69.16 | 83.17 | 99.47 | 74.43 | 86.88 | 107.21 | 85.36 | 80.85
13 | 71.39 | 86.36 | 104.07 | 77.05 | 90.73 | 112.96 | 89.11 | 84.03
14 | 73.63 | 89.54 | 108.68 | 79.66 | 94.57 | 118.70 | 92.86 | 87.21
15 | 75.86 | 92.72 | 113.29 | 82.27 | 98.42 | 124.45 | 96.62 | 90.39
16 | 78.09 | 95.90 | 117.90 | 84.88 | 102.27 | 130.20 | 100.37 | 93.48
17 | 80.32 | 99.09 | 122.50 | 87.50 | 106.12 | 135.95 | 104.12 | 96.57
18 | 82.56 | 102.27 | 127.11 | 90.11 | 109.96 | 141.69 | 107.87 | 99.66
19 | 84.79 | 105.45 | 131.72 | 92.72 | 113.81 | 147.44 | 111.63 | 102.74
20 | 87.02 | 108.63 | 136.33 | 95.33 | 117.66 | 153.19 | 115.38 | 105.83
21 | 89.25 | 111.82 | 140.93 | 97.95 | 121.51 | 158.94 | 119.13 | 108.92
22 | 91.49 | 115.00 | 145.54 | 100.56 | 125.35 | 164.68 | 122.88 | 112.01
23 | 93.72 | 118.18 | 150.15 | 103.17 | 129.20 | 170.43 | 126.64 | 115.09
24 | 95.95 | 121.36 | 154.76 | 105.78 | 133.05 | 176.18 | 130.39 | 118.18
25 | 98.18 | 124.55 | 159.36 | 108.40 | 136.90 | 181.93 | 134.14 | 121.27

Priority Mail International Parcels Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
1 | 46.08 | 47.98 | 47.50 | 40.14 | 46.55 | 42.70 | 40.38 | 39.90
2 | 50.49 | 52.20 | 50.78 | 43.70 | 50.97 | 46.22 | 43.75 | 43.46
3 | 54.91 | 56.43 | 54.06 | 47.26 | 55.39 | 49.73 | 47.12 | 47.03
4 | 59.33 | 60.66 | 57.33 | 50.83 | 59.80 | 53.25 | 50.49 | 50.59
5 | 63.75 | 64.89 | 60.61 | 54.39 | 64.22 | 56.76 | 53.87 | 54.15
6 | 68.64 | 68.07 | 63.51 | 57.38 | 67.59 | 60.28 | 57.05 | 56.76
7 | 73.53 | 71.25 | 66.41 | 60.37 | 70.97 | 63.79 | 60.23 | 59.38
8 | 78.42 | 74.43 | 69.30 | 63.37 | 74.34 | 67.31 | 63.41 | 61.99
9 | 83.32 | 77.62 | 72.20 | 66.36 | 77.71 | 70.82 | 66.60 | 64.60
10 | 88.21 | 80.80 | 75.10 | 69.35 | 81.08 | 74.34 | 69.78 | 67.21
11 | 93.01 | 83.79 | 78.00 | 71.87 | 84.46 | 78.19 | 71.73 | 69.64
12 | 97.80 | 86.78 | 80.89 | 74.39 | 87.83 | 82.03 | 73.67 | 72.06
13 | 102.60 | 89.78 | 83.79 | 76.90 | 91.20 | 85.88 | 75.62 | 74.48
14 | 107.40 | 92.77 | 86.69 | 79.42 | 94.57 | 89.73 | 77.57 | 76.90
15 | 112.20 | 95.76 | 89.59 | 81.94 | 97.95 | 93.58 | 79.52 | 79.33
16 | 116.99 | 98.75 | 92.48 | 84.46 | 101.13 | 97.42 | 81.46 | 81.75
17 | 121.79 | 101.75 | 95.38 | 86.97 | 104.31 | 101.27 | 83.41 | 84.17
18 | 126.59 | 104.74 | 98.28 | 89.49 | 107.49 | 105.12 | 85.36 | 86.59
19 | 131.39 | 107.73 | 101.18 | 92.01 | 110.68 | 108.97 | 87.31 | 89.02
20 | 136.18 | 110.72 | 104.07 | 94.53 | 113.86 | 112.81 | 89.25 | 91.44
21 | 140.98 | 113.72 | 106.97 | 97.04 | 117.04 | 116.66 | 91.20 | 93.86
22 | 145.78 | 116.71 | 109.87 | 99.56 | 120.22 | 120.51 | 93.15 | 96.28
23 | 150.58 | 119.70 | 112.77 | 102.08 | 123.41 | 124.36 | 95.10 | 98.71
24 | 155.37 | 122.69 | 115.66 | 104.60 | 126.59 | 128.20 | 97.04 | 101.13
25 | 160.17 | 125.69 | 118.56 | 107.11 | 129.77 | 132.05 | 98.99 | 103.55

Priority Mail International Parcels Commercial Plus Prices (Continued)
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
26 | 92.01 | 96.95 | 101.22 | 107.97 | 109.87 | 113.48 | 117.66
27 | 94.05 | 99.47 | 103.84 | 110.77 | 112.72 | 116.57 | 120.94
28 | 96.09 | 101.98 | 106.45 | 113.57 | 115.57 | 119.65 | 124.21
29 | 98.14 | 104.50 | 109.06 | 116.38 | 118.42 | 122.74 | 127.49
30 | 100.18 | 107.02 | 111.67 | 119.18 | 121.27 | 125.83 | 130.77
31 | 102.22 | 109.54 | 114.29 | 121.98 | 124.12 | 128.92 | 134.05
32 | 104.26 | 112.05 | 116.90 | 124.78 | 126.97 | 132.00 | 137.32
33 | 106.31 | 114.57 | 119.51 | 127.59 | 129.82 | 135.09 | 140.60
34 | 108.35 | 117.09 | 122.12 | 130.39 | 132.67 | 138.18 | 143.88
35 | 110.39 | 119.61 | 124.74 | 133.19 | 135.52 | 141.27 | 147.16
36 | 112.43 | 122.12 | 127.35 | 135.99 | 138.37 | 144.35 | 150.43
37 | 114.48 | 124.64 | 129.96 | 138.80 | 141.22 | 147.44 | 153.71
38 | 116.52 | 127.16 | 132.57 | 141.60 | 144.07 | 150.53 | 156.99
39 | 118.56 | 129.68 | 135.19 | 144.40 | 146.92 | 153.62 | 160.27
40 | 120.60 | 132.19 | 137.80 | 147.20 | 149.77 | 156.70 | 163.54
41 | 122.65 | 134.71 | 140.41 | 150.01 | 152.62 | 159.79 | 166.82
42 | 124.69 | 137.23 | 143.02 | 152.81 | 155.47 | 162.88 | 170.10
43 | 126.73 | 139.75 | 145.64 | 155.61 | 158.32 | 165.97 | 173.38
44 | 128.77 | 142.26 | 148.25 | 158.41 | 161.17 | 169.05 | 176.65
45 | 130.82 | 144.78 | 150.86 | 161.22 | 164.02 | 172.14 | 179.93
46 | 132.86 | 147.30 | 153.47 | 164.02 | 166.87 | 175.23 | 183.21
47 | 134.90 | 149.82 | 156.09 | 166.82 | 169.72 | 178.32 | 186.49
48 | 136.94 | 152.33 | 158.70 | 169.62 | 172.57 | 181.40 | 189.76
49 | 138.99 | 154.85 | 161.31 | 172.43 | 175.42 | 184.49 | 193.04
50 | 141.03 | 157.37 | 163.92 | 175.23 | 178.27 | 187.58 | 196.32

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 100.42 | 127.73 | 163.97 | 111.01 | 140.74 | 187.67 | 137.89 | 124.36
27 | 102.65 | 130.91 | 168.58 | 113.62 | 144.59 | 193.42 | 141.65 | 127.44
28 | 104.88 | 134.09 | 173.19 | 116.23 | 148.44 | 199.17 | 145.40 | 130.53
29 | 107.11 | 137.28 | 177.79 | 118.85 | 152.29 | 204.92 | 149.15 | 133.62
30 | 109.35 | 140.46 | 182.40 | 121.46 | 156.13 | 210.66 | 152.90 | 136.71
31 | 111.58 | 143.64 | 187.01 | 124.07 | 159.98 | 216.41 | 156.66 | 139.79
32 | 113.81 | 146.82 | 191.62 | 126.68 | 163.83 | 222.16 | 160.41 | 142.88
33 | 116.04 | 150.01 | 196.22 | 129.30 | 167.68 | 227.91 | 164.16 | 145.97
34 | 118.28 | 153.19 | 200.83 | 131.91 | 171.52 | 233.65 | 167.91 | 149.06
35 | 120.51 | 156.37 | 205.44 | 134.52 | 175.37 | 239.40 | 171.67 | 152.14
36 | 122.74 | 159.55 | 210.05 | 137.13 | 179.22 | 245.15 | 175.42 | 155.23
37 | 124.97 | 162.74 | 214.65 | 139.75 | 183.07 | 250.90 | 179.17 | 158.32
38 | 127.21 | 165.92 | 219.26 | 142.36 | 186.91 | 256.64 | 182.92 | 161.41
39 | 129.44 | 169.10 | 223.87 | 144.97 | 190.76 | 262.39 | 186.68 | 164.49
40 | 131.67 | 172.28 | 228.48 | 147.58 | 194.61 | 268.14 | 190.43 | 167.58
41 | 133.90 | 175.47 | 233.08 | 150.20 | 198.46 | 273.89 | 194.18 | 170.67
42 | 136.14 | 178.65 | 237.69 | 152.81 | 202.30 | 279.63 | 197.93 | 173.76
43 | 138.37 | 181.83 | 242.30 | 155.42 | 206.15 | 285.38 | 201.69 | 176.84
44 | 140.60 | 185.01 | 246.91 | 158.03 | 210.00 | 291.13 | 205.44 | 179.93
45 | 142.83 | 188.20 | 251.51 | 160.65 | 213.85 | 296.88 | 209.19 | 183.02
46 | 145.07 | 191.38 | 256.12 | 163.26 | 217.69 | 302.62 | 212.94 | 186.11
47 | 147.30 | 194.56 | 260.73 | 165.87 | 221.54 | 308.37 | 216.70 | 189.19
48 | 149.53 | 197.74 | 265.34 | 168.48 | 225.39 | 314.12 | 220.45 | 192.28
49 | 151.76 | 200.93 | 269.94 | 171.10 | 229.24 | 319.87 | 224.20 | 195.37
50 | 154.00 | 204.11 | 274.55 | 173.71 | 233.08 | 325.61 | 227.95 | 198.46

Priority Mail International Parcels Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 164.97 | 128.68 | 121.46 | 109.63 | 132.95 | 135.90 | 100.94 | 105.97
27 | 169.77 | 131.67 | 124.36 | 112.15 | 136.14 | 139.75 | 102.89 | 108.40
28 | 174.56 | 134.66 | 127.25 | 114.67 | 139.32 | 143.59 | 104.83 | 110.82
29 | 179.36 | 137.66 | 130.15 | 117.18 | 142.50 | 147.44 | 106.78 | 113.24
30 | 184.16 | 140.65 | 133.05 | 119.70 | 145.68 | 151.29 | 108.73 | 115.66
31 | 188.96 | 143.64 | 135.95 | 122.22 | 148.87 | 155.14 | 110.68 | 118.09
32 | 193.75 | 146.63 | 138.84 | 124.74 | 152.05 | 158.98 | 112.62 | 120.51
33 | 198.55 | 149.63 | 141.74 | 127.25 | 155.23 | 162.83 | 114.57 | 122.93
34 | 203.35 | 152.62 | 144.64 | 129.77 | 158.41 | 166.68 | 116.52 | 125.35
35 | 208.15 | 155.61 | 147.54 | 132.29 | 161.60 | 170.53 | 118.47 | 127.78
36 | 212.94 | 158.60 | 150.43 | 134.81 | 164.78 | 174.37 | 120.41 | 130.20
37 | 217.74 | 161.60 | 153.33 | 137.32 | 167.96 | 178.22 | 122.36 | 132.62
38 | 222.54 | 164.59 | 156.23 | 139.84 | 171.14 | 182.07 | 124.31 | 135.04
39 | 227.34 | 167.58 | 159.13 | 142.36 | 174.33 | 185.92 | 126.26 | 137.47
40 | 232.13 | 170.57 | 162.02 | 144.88 | 177.51 | 189.76 | 128.20 | 139.89
41 | 236.93 | 173.57 | 164.92 | 147.39 | 180.69 | 193.61 | 130.15 | 142.31
42 | 241.73 | 176.56 | 167.82 | 149.91 | 183.87 | 197.46 | 132.10 | 144.73
43 | 246.53 | 179.55 | 170.72 | 152.43 | 187.06 | 201.31 | 134.05 | 147.16
44 | 251.32 | 182.54 | 173.61 | 154.95 | 190.24 | 205.15 | 135.99 | 149.58
45 | 256.12 | 185.54 | 176.51 | 157.46 | 193.42 | 209.00 | 137.94 | 152.00
46 | 260.92 | 188.53 | 179.41 | 159.98 | 196.60 | 212.85 | 139.89 | 154.42
47 | 265.72 | 191.52 | 182.31 | 162.50 | 199.79 | 216.70 | 141.84 | 156.85
48 | 270.51 | 194.51 | 185.20 | 165.02 | 202.97 | 220.54 | 143.78 | 159.27
49 | 275.31 | 197.51 | 188.10 | 167.53 | 206.15 | 224.39 | 145.73 | 161.69
50 | 280.11 | 200.50 | 191.00 | 170.05 | 209.33 | 228.24 | 147.68 | 164.11

Priority Mail International Parcels Commercial Plus Prices (Continued)
Maximum weight (pounds) | Country price group ¹: Origin zone 1.1 & 1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
51 | 143.07 | 159.89 | 166.54 | 177.84 | 181.12 | 190.67 | 199.60
52 | 145.11 | 162.40 | 169.15 | 180.45 | 183.97 | 193.75 | 202.87
53 | 147.16 | 164.92 | 171.76 | 183.07 | 186.82 | 196.84 | 206.15
54 | 149.20 | 167.44 | 174.37 | 185.68 | 189.67 | 199.93 | 209.43
55 | 151.24 | 169.96 | 176.99 | 188.29 | 192.52 | 203.02 | 212.71
56 | 153.28 | 172.47 | 179.60 | 190.90 | 195.37 | 206.10 | 215.98
57 | 155.33 | 174.99 | 182.21 | 193.52 | 198.22 | 209.19 | 219.26
58 | 157.37 | 177.51 | 184.82 | 196.13 | 201.07 | 212.28 | 222.54
59 | 159.41 | 180.03 | 187.44 | 198.74 | 203.92 | 215.37 | 225.82
60 | 161.45 | 182.54 | 190.05 | 201.35 | 206.77 | 218.45 | 229.09
61 | 163.50 | 185.06 | 192.66 | 203.97 | 209.62 | 221.54 | 232.37
62 | 165.54 | 187.58 | 195.27 | 206.58 | 212.47 | 224.63 | 235.65
63 | 167.58 | 190.10 | 197.89 | 209.19 | 215.32 | 227.72 | 238.93
64 | 169.62 | 192.61 | 200.50 | 211.80 | 218.17 | 230.80 | 242.20
65 | 171.67 | 195.13 | 203.11 | 214.42 | 221.02 | 233.89 | 245.48
66 | 173.71 | 197.65 | 205.72 | 217.03 | 223.87 | 236.98 | 248.76
67 |  |  |  |  |  |  |
68 |  |  |  |  |  |  |
69 |  |  |  |  |  |  |
70 |  |  |  |  |  |  |

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 156.23 | 207.29 | 279.16 | 176.32 | 236.93 | 331.36 | 231.71 | 201.54
52 | 158.46 | 210.47 | 283.77 | 178.93 | 240.78 | 337.11 | 235.46 | 204.63
53 | 160.69 | 213.66 | 288.37 | 181.55 | 244.63 | 342.86 | 239.21 | 207.72
54 | 162.93 | 216.84 | 292.98 | 184.16 | 248.47 | 348.60 | 242.96 | 210.81
55 | 165.16 | 220.02 | 297.59 | 186.77 | 252.32 | 354.35 | 246.72 | 213.89
56 | 167.39 | 223.20 | 302.20 | 189.38 | 256.17 | 360.10 | 250.47 | 216.98
57 | 169.62 | 226.39 | 306.80 | 192.00 | 260.02 | 365.85 | 254.22 | 220.07
58 | 171.86 | 229.57 | 311.41 | 194.61 | 263.86 | 371.59 | 257.97 | 223.16
59 | 174.09 | 232.75 | 316.02 | 197.22 | 267.71 | 377.34 | 261.73 | 226.24
60 | 176.32 | 235.93 | 320.63 | 199.83 | 271.56 | 383.09 | 265.48 | 229.33
61 | 178.55 | 239.12 | 325.23 | 202.45 | 275.41 | 388.84 | 269.23 | 232.42
62 | 180.79 | 242.30 | 329.84 | 205.06 | 279.25 | 394.58 | 272.98 | 235.51
63 | 183.02 | 245.48 | 334.45 | 207.67 | 283.10 | 400.33 | 276.74 | 238.59
64 | 185.25 | 248.66 | 339.06 | 210.28 | 286.95 | 406.08 | 280.49 | 241.68
65 | 187.48 | 251.85 | 343.66 | 212.90 | 290.80 | 411.83 | 284.24 | 244.77
66 | 189.72 | 255.03 | 348.27 | 215.51 | 294.64 | 417.57 | 287.99 | 247.86
67 | 191.95 | 258.21 | 352.88 | 218.12 | 298.49 | 423.32 | 291.75 | 250.94
68 | 194.18 | 261.39 | 357.49 | 220.73 | 302.34 | 429.07 | 295.50 | 254.03
69 | 196.41 | 264.58 | 362.09 | 223.35 | 306.19 | 434.82 | 299.25 | 257.12
70 | 198.65 | 267.76 | 366.70 | 225.96 | 310.03 | 440.56 | 303.00 | 260.21

Priority Mail International Parcels Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 284.91 | 203.49 | 193.90 | 172.57 | 212.52 | 232.09 | 149.63 | 166.54
52 | 289.70 | 206.48 | 196.79 | 175.09 | 215.70 | 235.93 | 151.57 | 168.96
53 | 294.50 | 209.48 | 199.69 | 177.60 | 218.88 | 239.78 | 153.52 | 171.38
54 | 299.30 | 212.47 | 202.59 | 180.12 | 222.06 | 243.63 | 155.47 | 173.80
55 | 304.10 | 215.46 | 205.49 | 182.64 | 225.25 | 247.48 | 157.42 | 176.23
56 | 308.89 | 218.45 | 208.38 | 185.16 | 228.43 | 251.32 | 159.36 | 178.65
57 | 313.69 | 221.45 | 211.28 | 187.67 | 231.61 | 255.17 | 161.31 | 181.07
58 | 318.49 | 224.44 | 214.18 | 190.19 | 234.79 | 259.02 | 163.26 | 183.49
59 | 323.29 | 227.43 | 217.08 | 192.71 | 237.98 | 262.87 | 165.21 | 185.92
60 | 328.08 | 230.42 | 219.97 | 195.23 | 241.16 | 266.71 | 167.15 | 188.34
61 | 332.88 | 233.42 | 222.87 | 197.74 | 244.34 | 270.56 | 169.10 | 190.76
62 | 337.68 | 236.41 | 225.77 | 200.26 | 247.52 | 274.41 | 171.05 | 193.18
63 | 342.48 | 239.40 | 228.67 | 202.78 | 250.71 | 278.26 | 173.00 | 195.61
64 | 347.27 | 242.39 | 231.56 | 205.30 | 253.89 | 282.10 | 174.94 | 198.03
65 | 352.07 | 245.39 | 234.46 | 207.81 | 257.07 | 285.95 | 176.89 | 200.45
66 | 356.87 | 248.38 | 237.36 | 210.33 | 260.25 | 289.80 | 178.84 | 202.87
67 |  |  |  |  |  |  | 180.79 |
68 |  |  |  |  |  |  | 182.73 |
69 |  |  |  |  |  |  | 184.68 |
70 |  |  |  |  |  |  | 186.63 |
Notes
1. The applicable Origin Zone for pieces destined to Canada is based on the applicable zone from the origin point to the serving International Service Center (ISC). In future releases, distance to and within Canada could be considered for application of the appropriate Origin Zone group.

Pickup On Demand Service

Add $22.00 for each Pickup On Demand stop

International Service Center (ISC) Zone Chart

The International Service Center (ISC) Zone Chart identifies the appropriate distance code assigned to each origin.

| Annual fee ($)
Zone Chart concerning appropriate International Service Center and partner Induction Facility from every ZIP Code in the nation (per year) | 68.00

2320 International Priority Airmail (IPA)

* * *

2320.6 Prices

International Priority Airmail Letters and Postcards

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.62 | 0.20 | 0.60 | 0.61 | 0.60 | 0.59 | 0.63 | 0.56 | 0.51 | 0.23
Mixed Country Containers |  |  |  |  |  |  |  |  | 0.60 | 0.25

| Price group: 11 ($) | Price group: 12 ($) | Price group: 13 ($) | Price group: 14 ($) | Price group: 15 ($) | Price group: 16 ($) | Price group: 17 ($) | Price group: 18 ($) | Price group: 19 ($) | Price group
Direct Country Containers | 0.22 | 0.55 | 0.51 | 0.20 | 0.56 | 0.23 | 0.23 | 0.22 | 0.18 |
Mixed Country Containers | 0.23 | 0.57 | 0.55 | 0.21 | 0.60 | 0.25 | 0.25 | 0.23 | 0.20 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.84 | 9.20 | 9.46 | 9.86 | 9.62 | 10.38 | 9.86 | 10.03 | 10.52 | 11.62
Direct Country Containers (ISC Drop Shipment) | 5.31 | 5.75 | 7.02 | 7.43 | 7.21 | 7.77 | 7.37 | 7.25 | 7.88 | 7.67
Mixed Country Containers (ISC Drop Shipment) |  |  |  |  |  |  |  |  | 8.26 | 8.04

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 10.28 | 9.99 | 10.11 | 10.80 | 10.07 | 10.43 | 11.67 | 10.33 | 11.45
Direct Country Containers (ISC Drop Shipment) | 7.82 | 7.32 | 7.37 | 8.35 | 7.28 | 7.78 | 7.71 | 7.86 | 9.01
Mixed Country Containers (ISC Drop Shipment) | 8.16 | 7.70 | 7.79 | 8.76 | 7.81 | 7.85 | 8.08 | 8.19 | 9.48

b. Worldwide Nonpresort Mail (Full Service and ISC Drop Shipment)

i. Per Piece

| ($)
Worldwide Nonpresorted Containers | 0.66

ii. Per Pound

| ($)
Worldwide Nonpresorted Containers (Full Service) | 13.38
Worldwide Nonpresorted Containers (ISC Drop Shipment) | 10.54

International Priority Airmail Large Envelopes (Flats)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.62 | 0.20 | 0.60 | 0.61 | 0.60 | 0.59 | 0.63 | 0.56 | 0.51 | 0.23
Mixed Country Containers |  |  |  |  |  |  |  |  | 0.60 | 0.25

| Price group: 11 ($) | Price group: 12 ($) | Price group: 13 ($) | Price group: 14 ($) | Price group: 15 ($) | Price group: 16 ($) | Price group: 17 ($) | Price group: 18 ($) | Price group: 19 ($) | Price group
Direct Country Containers | 0.22 | 0.55 | 0.51 | 0.20 | 0.56 | 0.23 | 0.23 | 0.22 | 0.18 |
Mixed Country Containers | 0.23 | 0.57 | 0.55 | 0.21 | 0.60 | 0.25 | 0.25 | 0.23 | 0.20 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 6.69 | 7.86 | 8.08 | 8.46 | 8.25 | 8.89 | 8.45 | 8.57 | 8.99 | 9.93
Direct Country Containers (ISC Drop Shipment) | 4.56 | 4.93 | 6.02 | 6.38 | 6.17 | 6.66 | 6.31 | 6.18 | 6.73 | 6.56
Mixed Country Containers (ISC Drop Shipment) |  |  |  |  |  |  |  |  | 7.05 | 6.90

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 8.80 | 8.53 | 8.64 | 9.24 | 10.07 | 10.43 | 11.67 | 10.33 | 11.45 |
Direct Country Containers (ISC Drop Shipment) | 6.70 | 6.28 | 6.31 | 7.15 | 7.28 | 7.78 | 7.71 | 7.86 | 9.01 |
Mixed Country Containers (ISC Drop Shipment) | 6.98 | 6.59 | 6.68 | 7.48 | 7.81 | 7.85 | 8.08 | 8.19 | 9.48 |

b. Worldwide Nonpresort Mail (Full Service and ISC Drop Shipment)

i. Per Piece

| ($)
Worldwide Nonpresorted Containers | 0.66

ii. Per Pound

| ($)
Worldwide Nonpresorted Containers (Full Service) | 13.38
Worldwide Nonpresorted Containers (ISC Drop Shipment) | 10.54

International Priority Airmail Packages (Small Packets and Rolls)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.62 | 0.20 | 0.60 | 0.61 | 0.60 | 0.59 | 0.64 | 0.56 | 0.51 | 0.23
Mixed Country Containers |  |  |  |  |  |  |  |  | 0.60 | 0.25

| Price group: 11 ($) | Price group: 12 ($) | Price group: 13 ($) | Price group: 14 ($) | Price group: 15 ($) | Price group: 16 ($) | Price group: 17 ($) | Price group: 18 ($) | Price group: 19 ($) | Price group
Direct Country Containers | 0.22 | 0.55 | 0.51 | 0.20 | 0.56 | 0.23 | 0.23 | 0.22 | 0.18 |
Mixed Country Containers | 0.23 | 0.57 | 0.55 | 0.21 | 0.60 | 0.25 | 0.25 | 0.23 | 0.20 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 6.39 | 7.51 | 7.72 | 8.04 | 7.86 | 8.49 | 8.04 | 8.18 | 8.59 | 9.47
Direct Country Containers (ISC Drop Shipment) | 4.34 | 4.71 | 5.73 | 6.07 | 5.89 | 6.35 | 6.01 | 5.91 | 6.42 | 6.25
Mixed Country Containers (ISC Drop Shipment) |  |  |  |  |  |  |  |  | 6.75 | 6.55

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 8.38 | 8.15 | 8.25 | 8.81 | 10.07 | 10.43 | 11.67 | 10.33 | 11.45 |
Direct Country Containers (ISC Drop Shipment) | 6.39 | 5.99 | 6.01 | 6.81 | 7.28 | 7.78 | 7.71 | 7.86 | 9.01 |
Mixed Country Containers (ISC Drop Shipment) | 6.67 | 6.26 | 6.37 | 7.13 | 7.81 | 7.85 | 8.08 | 8.19 | 9.48 |

b. Worldwide Nonpresort Mail (Full Service and ISC Drop Shipment)

i. Per Piece

| ($)
Worldwide Nonpresorted Containers | 0.66

ii. Per Pound

| ($)
Worldwide Nonpresorted Containers (Full Service) | 13.38
Worldwide Nonpresorted Containers (ISC Drop Shipment) | 10.54

International Priority Airmail M-Bag

The price to be paid is the applicable per-pound price. The per-pound price applies to the total weight of the sack (M-bag) for the specific Country Price Group.

a. International Priority Airmail M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 62.70 | 70.84 | 83.05 | 83.05 | 83.05 | 104.39 | 83.05 | 83.05 | 99.44 | 91.19
For each additional pound or fraction thereof | 5.70 | 6.44 | 7.55 | 7.55 | 7.55 | 9.49 | 7.55 | 7.55 | 9.04 | 8.29

Maximum weight (pounds) | Price group: 11 ($) | Price group: 12 ($) | Price group: 13 ($) | Price group: 14 ($) | Price group: 15 ($) | Price group: 16 ($) | Price group: 17 ($) | Price group: 18 ($) | Price group: 19 ($) | Price group
11 | 101.53 | 86.02 | 83.05 | 101.20 | 83.05 | 94.05 | 91.19 | 101.53 | 99.99 |
For each additional pound or fraction thereof | 9.23 | 7.82 | 7.55 | 9.20 | 7.55 | 8.55 | 8.29 | 9.23 | 9.09 |

b. International Priority Airmail M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 24.57 | 30.39 | 38.16 | 38.16 | 38.16 | 55.60 | 38.16 | 38.16 | 50.89 | 48.21
6 | 25.00 | 31.25 | 39.41 | 39.41 | 39.41 | 57.67 | 39.41 | 39.41 | 52.75 | 49.14
7 | 25.43 | 32.11 | 40.66 | 40.66 | 40.66 | 59.74 | 40.66 | 40.66 | 54.61 | 50.07
8 | 25.86 | 32.97 | 41.91 | 41.91 | 41.91 | 61.81 | 41.91 | 41.91 | 56.47 | 51.00
9 | 26.29 | 33.83 | 43.16 | 43.16 | 43.16 | 63.88 | 43.16 | 43.16 | 58.33 | 51.93
10 | 26.72 | 34.69 | 44.41 | 44.41 | 44.41 | 65.95 | 44.41 | 44.41 | 60.19 | 52.86
11 | 27.15 | 35.55 | 45.66 | 45.66 | 45.66 | 68.02 | 45.66 | 45.66 | 62.05 | 53.79
For each additional pound or fraction thereof | 2.48 | 3.23 | 4.16 | 4.16 | 4.16 | 6.18 | 4.16 | 4.16 | 5.64 | 4.89

Maximum weight (pounds) | Price group: 11 ($) | Price group: 12 ($) | Price group: 13 ($) | Price group: 14 ($) | Price group: 15 ($) | Price group: 16 ($) | Price group: 17 ($) | Price group: 18 ($) | Price group: 19 ($) | Price group
5 | 55.26 | 41.32 | 38.16 | 55.51 | 38.16 | 48.31 | 48.21 | 55.26 | 53.50 |
6 | 56.74 | 42.54 | 39.41 | 56.86 | 39.41 | 49.67 | 49.14 | 56.74 | 55.03 |
7 | 58.22 | 43.76 | 40.66 | 58.21 | 40.66 | 51.03 | 50.07 | 58.22 | 56.56 |
8 | 59.70 | 44.98 | 41.91 | 59.56 | 41.91 | 52.39 | 51.00 | 59.70 | 58.09 |
9 | 61.18 | 46.20 | 43.16 | 60.91 | 43.16 | 53.75 | 51.93 | 61.18 | 59.62 |
10 | 62.66 | 47.42 | 44.41 | 62.26 | 44.41 | 55.11 | 52.86 | 62.66 | 61.15 |
11 | 64.14 | 48.64 | 45.66 | 63.61 | 45.66 | 56.47 | 53.79 | 64.14 | 62.68 |
For each additional pound or fraction thereof | 5.82 | 4.42 | 4.16 | 5.79 | 4.16 | 5.14 | 4.89 | 5.82 | 5.70 |

2325 International Surface Air Lift (ISAL)

* * *

2325.6 Prices

International Surface Air Lift Letters and Postcards

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.57 | 0.18 | 0.54 | 0.57 | 0.57 | 0.54 | 0.58 | 0.52 | 0.46 | 0.22
Mixed Country Containers |  |  |  |  |  |  |  |  | 0.56 | 0.23

| Price group: 11 ($) | Price group: 12 ($) | Price group: 13 ($) | Price group: 14 ($) | Price group: 15 ($) | Price group: 16 ($) | Price group: 17 ($) | Price group: 18 ($) | Price group: 19 ($) | Price group
Direct Country Containers | 0.20 | 0.47 | 0.52 | 0.18 | 0.52 | 0.22 | 0.22 | 0.20 | 0.17 |
Mixed Country Containers | 0.21 | 0.48 | 0.56 | 0.20 | 0.56 | 0.23 | 0.23 | 0.21 | 0.18 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.64 | 8.80 | 8.57 | 9.16 | 8.99 | 9.71 | 9.16 | 9.00 | 9.67 | 10.96
Direct Country Containers (ISC Drop Shipment) | 5.16 | 5.52 | 6.39 | 6.89 | 6.73 | 7.26 | 6.82 | 6.50 | 7.23 | 7.24
Mixed Country Containers (ISC Drop Shipment) |  |  |  |  |  |  |  |  | 7.34 | 7.60

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 9.28 | 9.17 | 9.00 | 9.99 | 9.06 | 9.72 | 10.83 | 9.32 | 10.63 |
Direct Country Containers (ISC Drop Shipment) | 7.07 | 6.71 | 6.50 | 7.75 | 6.53 | 7.23 | 7.14 | 7.10 | 8.37 |
Mixed Country Containers (ISC Drop Shipment) | 7.32 | 7.06 | 7.22 | 7.95 | 7.25 | 7.29 | 7.50 | 7.35 | 8.52 |

b. Worldwide Nonpresort Mail (Full Service and ISC Drop Shipment)

i. Per Piece

| ($)
Worldwide Nonpresorted Containers | 0.61

ii. Per Pound

| ($)
Worldwide Nonpresorted Containers (Full Service) | 12.33
Worldwide Nonpresorted Containers (ISC Drop Shipment) | 9.72

International Surface Air Lift Large Envelopes (Flats)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.57 | 0.19 | 0.54 | 0.57 | 0.57 | 0.54 | 0.58 | 0.52 | 0.47 | 0.22
Mixed Country Containers |  |  |  |  |  |  |  |  | 0.56 | 0.23

| Price group: 11 ($) | Price group: 12 ($) | Price group: 13 ($) | Price group: 14 ($) | Price group: 15 ($) | Price group: 16 ($) | Price group: 17 ($) | Price group: 18 ($) | Price group: 19 ($) | Price group
Direct Country Containers | 0.20 | 0.48 | 0.52 | 0.18 | 0.52 | 0.22 | 0.22 | 0.20 | 0.17 |
Mixed Country Containers | 0.21 | 0.49 | 0.56 | 0.20 | 0.56 | 0.23 | 0.23 | 0.21 | 0.18 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 6.51 | 7.56 | 7.34 | 7.84 | 7.69 | 8.30 | 7.84 | 7.70 | 8.28 | 9.38
Direct Country Containers (ISC Drop Shipment) | 4.42 | 4.73 | 5.45 | 5.90 | 5.76 | 6.22 | 5.85 | 5.57 | 6.17 | 6.20
Mixed Country Containers (ISC Drop Shipment) |  |  |  |  |  |  |  |  | 6.28 | 6.51

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 7.95 | 7.82 | 7.70 | 8.54 | 9.06 | 9.72 | 10.83 | 9.32 | 10.63 |
Direct Country Containers (ISC Drop Shipment) | 6.06 | 5.74 | 5.57 | 6.63 | 6.53 | 7.23 | 7.14 | 7.10 | 8.37 |
Mixed Country Containers (ISC Drop Shipment) | 6.26 | 6.03 | 6.17 | 6.79 | 7.25 | 7.29 | 7.50 | 7.35 | 8.52 |

b. Worldwide Nonpresort Mail (Full Service and ISC Drop Shipment)

i. Per Piece

| ($)
Worldwide Nonpresorted Containers | 0.61

ii. Per Pound

| ($)
Worldwide Nonpresorted Containers (Full Service) | 12.33
Worldwide Nonpresorted Containers (ISC Drop Shipment) | 9.72

International Surface Air Lift Packages (Small Packets and Rolls)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.57 | 0.18 | 0.54 | 0.57 | 0.57 | 0.54 | 0.58 | 0.52 | 0.47 | 0.22
Mixed Country Containers |  |  |  |  |  |  |  |  | 0.56 | 0.23

| Price group: 11 ($) | Price group: 12 ($) | Price group: 13 ($) | Price group: 14 ($) | Price group: 15 ($) | Price group: 16 ($) | Price group: 17 ($) | Price group: 18 ($) | Price group: 19 ($) | Price group
Direct Country Containers | 0.20 | 0.48 | 0.52 | 0.18 | 0.52 | 0.22 | 0.22 | 0.20 | 0.17 |
Mixed Country Containers | 0.21 | 0.49 | 0.56 | 0.20 | 0.56 | 0.23 | 0.23 | 0.21 | 0.18 |

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 6.22 | 7.18 | 7.00 | 7.47 | 7.33 | 7.91 | 7.47 | 7.34 | 7.87 | 8.96
Direct Country Containers (ISC Drop Shipment) | 4.21 | 4.51 | 5.18 | 5.61 | 5.49 | 5.93 | 5.57 | 5.31 | 5.89 | 5.91
Mixed Country Containers (ISC Drop Shipment) |  |  |  |  |  |  |  |  | 5.99 | 6.21

| Price group: 11 ($) | Price group: 12 ($) | Price group: 13 ($) | Price group: 14 ($) | Price group: 15 ($) | Price group: 16 ($) | Price group: 17 ($) | Price group: 18 ($) | Price group: 19 ($) | Price group
Direct Country Containers (Full Service) | 7.59 | 7.49 | 7.34 | 8.16 | 9.06 | 9.72 | 10.83 | 9.32 | 10.63
Direct Country Containers (ISC Drop Shipment) | 5.79 | 5.47 | 5.31 | 6.35 | 6.53 | 7.23 | 7.14 | 7.10 | 8.37
Mixed Country Containers (ISC Drop Shipment) | 5.99 | 5.76 | 5.88 | 6.49 | 7.25 | 7.29 | 7.50 | 7.35 | 8.52

b. Worldwide Nonpresort Mail (Full Service and ISC Drop Shipment)

i. Per Piece

| ($)
Worldwide Nonpresorted Containers | 0.61

ii. Per Pound

| ($)
Worldwide Nonpresorted Containers (Full Service) | 12.33
Worldwide Nonpresorted Containers (ISC Drop Shipment) | 9.72

International Surface Air Lift M-Bags

The price to be paid is applicable per-pound price. The per-pound price applies to the total weight of the sack (M-bag) for the specific price group.

a. International Surface Air Lift M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 21.78 | 23.32 | 27.28 | 27.28 | 27.28 | 37.95 | 27.28 | 27.72 | 35.53 | 31.90
For each additional pound or fraction thereof | 1.98 | 2.12 | 2.48 | 2.48 | 2.48 | 3.45 | 2.48 | 2.52 | 3.23 | 2.90

Maximum Weight (pounds) | Price group: 11 ($) | Price group: 12 ($) | Price group: 13 ($) | Price group: 14 ($) | Price group: 15 ($) | Price group: 16 ($) | Price group: 17 ($) | Price group: 18 ($) | Price group: 19 ($) | Price group
11 | 35.53 | 28.60 | 27.72 | 37.40 | 27.72 | 31.90 | 31.90 | 35.53 | 44.44
For each additional pound or fraction thereof | 3.23 | 2.60 | 2.52 | 3.40 | 2.52 | 2.90 | 2.90 | 3.23 | 4.04

b. International Surface Air Lift M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 20.09 | 18.47 | 14.42 | 14.42 | 14.42 | 20.43 | 14.42 | 14.66 | 19.78 | 18.63
6 | 20.23 | 19.10 | 16.07 | 16.07 | 16.07 | 23.18 | 16.07 | 16.36 | 21.96 | 20.37
7 | 20.37 | 19.73 | 17.72 | 17.72 | 17.72 | 25.93 | 17.72 | 18.06 | 24.14 | 22.11
8 | 20.51 | 20.36 | 19.37 | 19.37 | 19.37 | 28.68 | 19.37 | 19.76 | 26.32 | 23.85
9 | 20.65 | 20.99 | 21.02 | 21.02 | 21.02 | 31.43 | 21.02 | 21.46 | 28.50 | 25.59
10 | 20.79 | 21.62 | 22.67 | 22.67 | 22.67 | 34.18 | 22.67 | 23.16 | 30.68 | 27.33
11 | 20.93 | 22.25 | 24.32 | 24.32 | 24.32 | 36.93 | 24.32 | 24.86 | 32.86 | 29.07
For each additional pound or fraction thereof | 1.90 | 2.02 | 2.21 | 2.21 | 2.21 | 3.36 | 2.21 | 2.25 | 2.99 | 2.65

Maximum weight (pounds) | Price group: 11 ($) | Price group: 12 ($) | Price group: 13 ($) | Price group: 14 ($) | Price group: 15 ($) | Price group: 16 ($) | Price group: 17 ($) | Price group: 18 ($) | Price group: 19 ($) | Price group
5 | 15.68 | 15.44 | 14.66 | 16.42 | 14.66 | 16.85 | 18.63 | 15.68 | 21.13
6 | 18.49 | 17.16 | 16.36 | 19.44 | 16.36 | 18.89 | 20.37 | 18.49 | 24.55
7 | 21.30 | 18.88 | 18.06 | 22.46 | 18.06 | 20.93 | 22.11 | 21.30 | 27.97
8 | 24.11 | 20.60 | 19.76 | 25.48 | 19.76 | 22.97 | 23.85 | 24.11 | 31.39
9 | 26.92 | 22.32 | 21.46 | 28.50 | 21.46 | 25.01 | 25.59 | 26.92 | 34.81
10 | 29.73 | 24.04 | 23.16 | 31.52 | 23.16 | 27.05 | 27.33 | 29.73 | 38.23
11 | 32.54 | 25.76 | 24.86 | 34.54 | 24.86 | 29.09 | 29.07 | 32.54 | 41.65
For each additional pound or fraction thereof | 2.97 | 2.34 | 2.25 | 3.14 | 2.25 | 2.65 | 2.65 | 2.97 | 3.79

2330 International Direct Sacks—Airmail M-Bags

* * *

2330.6 Prices

Outbound International Direct Sacks—Airmail M-Bags

The price is based on the applicable per-pound price. The per-pound price applies to the total weight of the sack (M-Bag) for the specific price group.

Maximum weight (pounds) | Price Group ¹: 1 ($) | Price Group ¹: 2 ($) | Price Group ¹: 3 ($) | Price Group ¹: 4 ($) | Price Group ¹: 5 ($) | Price Group ¹: 6 ($) | Price Group ¹: 7 ($) | Price Group ¹: 8 ($) | Price Group ¹: 9 ($)
11 | 48.40 | 44.00 | 86.35 | 68.75 | 57.20 | 82.50 | 70.40 | 69.30 | 66.00
For each additional pound or fraction thereof | 4.40 | 4.00 | 7.85 | 6.25 | 5.20 | 7.50 | 6.40 | 6.30 | 6.00
Notes
1. Same as Price Groups 1-9 for Single-Piece First-Class Mail International (SPFCMI).

Inbound International Direct Sacks—M-Bags

Payment is made in accordance with Part III of the Universal Postal Convention and associated UPU Letter Post Regulations. This information is available in the Letter Post Manual at www.upu.int.

2335 Outbound Single-Piece First-Class Package International Service

* * *

2335.6 Prices

Outbound Single-Piece First-Class Package International Service Retail Prices

Maximum weight (pounds) | Price Group ¹: 1 ($) | Price Group ¹: 2 ($) | Price Group ¹: 3 ($) | Price Group ¹: 4 ($) | Price Group ¹: 5 ($) | Price Group ¹: 6 ($) | Price Group ¹: 7 ($) | Price Group ¹: 8 ($) | Price Group ¹: 9 ($)
1 | 10.00 | 12.25 | 14.25 | 13.75 | 14.00 | 13.75 | 13.75 | 13.50 | 14.00
2 | 10.00 | 12.25 | 14.25 | 13.75 | 14.00 | 13.75 | 13.75 | 13.50 | 14.00
3 | 10.00 | 12.25 | 14.25 | 13.75 | 14.00 | 13.75 | 13.75 | 13.50 | 14.00
4 | 10.00 | 12.25 | 14.25 | 13.75 | 14.00 | 13.75 | 13.75 | 13.50 | 14.00
5 | 10.00 | 12.25 | 14.25 | 13.75 | 14.00 | 13.75 | 13.75 | 13.50 | 14.00
6 | 10.00 | 12.25 | 14.25 | 13.75 | 14.00 | 13.75 | 13.75 | 13.50 | 14.00
7 | 10.00 | 12.25 | 14.25 | 13.75 | 14.00 | 13.75 | 13.75 | 13.50 | 14.00
8 | 10.00 | 12.25 | 14.25 | 13.75 | 14.00 | 13.75 | 13.75 | 13.50 | 14.00
12 | 16.00 | 21.50 | 23.50 | 23.00 | 23.50 | 23.25 | 23.25 | 22.75 | 23.50
16 | 16.00 | 21.50 | 23.50 | 23.00 | 23.50 | 23.25 | 23.25 | 22.75 | 23.50
20 | 16.00 | 21.50 | 23.50 | 23.00 | 23.50 | 23.25 | 23.25 | 22.75 | 23.50
24 | 16.00 | 21.50 | 23.50 | 23.00 | 23.50 | 23.25 | 23.25 | 22.75 | 23.50
28 | 16.00 | 21.50 | 23.50 | 23.00 | 23.50 | 23.25 | 23.25 | 22.75 | 23.50
32 | 16.00 | 21.50 | 23.50 | 23.00 | 23.50 | 23.25 | 23.25 | 22.75 | 23.50
36 | 25.25 | 33.00 | 35.00 | 36.75 | 35.75 | 34.50 | 34.75 | 32.25 | 34.75
40 | 25.25 | 33.00 | 35.00 | 36.75 | 35.75 | 34.50 | 34.75 | 32.25 | 34.75
44 | 25.25 | 33.00 | 35.00 | 36.75 | 35.75 | 34.50 | 34.75 | 32.25 | 34.75
48 | 25.25 | 33.00 | 35.00 | 36.75 | 35.75 | 34.50 | 34.75 | 32.25 | 34.75
52 | 37.25 | 47.50 | 52.75 | 59.50 | 51.50 | 55.50 | 59.50 | 53.00 | 51.50
56 | 37.25 | 47.50 | 52.75 | 59.50 | 51.50 | 55.50 | 59.50 | 53.00 | 51.50
60 | 37.25 | 47.50 | 52.75 | 59.50 | 51.50 | 55.50 | 59.50 | 53.00 | 51.50
64 | 37.25 | 47.50 | 52.75 | 59.50 | 51.50 | 55.50 | 59.50 | 53.00 | 51.50

Outbound Single-Piece First-Class Package International Service Commercial Base Prices

Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 9.50 | 11.64 | 13.54 | 13.06 | 13.30 | 13.06 | 13.06 | 12.83 | 13.30
2 | 9.50 | 11.64 | 13.54 | 13.06 | 13.30 | 13.06 | 13.06 | 12.83 | 13.30
3 | 9.50 | 11.64 | 13.54 | 13.06 | 13.30 | 13.06 | 13.06 | 12.83 | 13.30
4 | 9.50 | 11.64 | 13.54 | 13.06 | 13.30 | 13.06 | 13.06 | 12.83 | 13.30
5 | 9.50 | 11.64 | 13.54 | 13.06 | 13.30 | 13.06 | 13.06 | 12.83 | 13.30
6 | 9.50 | 11.64 | 13.54 | 13.06 | 13.30 | 13.06 | 13.06 | 12.83 | 13.30
7 | 9.50 | 11.64 | 13.54 | 13.06 | 13.30 | 13.06 | 13.06 | 12.83 | 13.30
8 | 9.50 | 11.64 | 13.54 | 13.06 | 13.30 | 13.06 | 13.06 | 12.83 | 13.30
12 | 15.20 | 20.43 | 22.33 | 21.85 | 22.33 | 22.09 | 22.09 | 21.61 | 22.33
16 | 15.20 | 20.43 | 22.33 | 21.85 | 22.33 | 22.09 | 22.09 | 21.61 | 22.33
20 | 15.20 | 20.43 | 22.33 | 21.85 | 22.33 | 22.09 | 22.09 | 21.61 | 22.33
24 | 15.20 | 20.43 | 22.33 | 21.85 | 22.33 | 22.09 | 22.09 | 21.61 | 22.33
28 | 15.20 | 20.43 | 22.33 | 21.85 | 22.33 | 22.09 | 22.09 | 21.61 | 22.33
32 | 15.20 | 20.43 | 22.33 | 21.85 | 22.33 | 22.09 | 22.09 | 21.61 | 22.33
36 | 23.99 | 31.35 | 33.25 | 34.91 | 33.96 | 32.78 | 33.01 | 30.64 | 33.01
40 | 23.99 | 31.35 | 33.25 | 34.91 | 33.96 | 32.78 | 33.01 | 30.64 | 33.01
44 | 23.99 | 31.35 | 33.25 | 34.91 | 33.96 | 32.78 | 33.01 | 30.64 | 33.01
48 | 23.99 | 31.35 | 33.25 | 34.91 | 33.96 | 32.78 | 33.01 | 30.64 | 33.01
52 | 35.39 | 45.13 | 50.11 | 56.53 | 48.93 | 52.73 | 56.53 | 50.35 | 48.93
56 | 35.39 | 45.13 | 50.11 | 56.53 | 48.93 | 52.73 | 56.53 | 50.35 | 48.93
60 | 35.39 | 45.13 | 50.11 | 56.53 | 48.93 | 52.73 | 56.53 | 50.35 | 48.93
64 | 35.39 | 45.13 | 50.11 | 56.53 | 48.93 | 52.73 | 56.53 | 50.35 | 48.93

Outbound Single-Piece First-Class Package International Service Commercial Plus Prices

Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 9.50 | 11.64 | 13.54 | 13.06 | 13.30 | 13.06 | 13.06 | 12.83 | 13.30
2 | 9.50 | 11.64 | 13.54 | 13.06 | 13.30 | 13.06 | 13.06 | 12.83 | 13.30
3 | 9.50 | 11.64 | 13.54 | 13.06 | 13.30 | 13.06 | 13.06 | 12.83 | 13.30
4 | 9.50 | 11.64 | 13.54 | 13.06 | 13.30 | 13.06 | 13.06 | 12.83 | 13.30
5 | 9.50 | 11.64 | 13.54 | 13.06 | 13.30 | 13.06 | 13.06 | 12.83 | 13.30
6 | 9.50 | 11.64 | 13.54 | 13.06 | 13.30 | 13.06 | 13.06 | 12.83 | 13.30
7 | 9.50 | 11.64 | 13.54 | 13.06 | 13.30 | 13.06 | 13.06 | 12.83 | 13.30
8 | 9.50 | 11.64 | 13.54 | 13.06 | 13.30 | 13.06 | 13.06 | 12.83 | 13.30
12 | 15.20 | 20.43 | 22.33 | 21.85 | 22.33 | 22.09 | 22.09 | 21.61 | 22.33
16 | 15.20 | 20.43 | 22.33 | 21.85 | 22.33 | 22.09 | 22.09 | 21.61 | 22.33
20 | 15.20 | 20.43 | 22.33 | 21.85 | 22.33 | 22.09 | 22.09 | 21.61 | 22.33
24 | 15.20 | 20.43 | 22.33 | 21.85 | 22.33 | 22.09 | 22.09 | 21.61 | 22.33
28 | 15.20 | 20.43 | 22.33 | 21.85 | 22.33 | 22.09 | 22.09 | 21.61 | 22.33
32 | 15.20 | 20.43 | 22.33 | 21.85 | 22.33 | 22.09 | 22.09 | 21.61 | 22.33
36 | 23.99 | 31.35 | 33.25 | 34.91 | 33.96 | 32.78 | 33.01 | 30.64 | 33.01
40 | 23.99 | 31.35 | 33.25 | 34.91 | 33.96 | 32.78 | 33.01 | 30.64 | 33.01
44 | 23.99 | 31.35 | 33.25 | 34.91 | 33.96 | 32.78 | 33.01 | 30.64 | 33.01
48 | 23.99 | 31.35 | 33.25 | 34.91 | 33.96 | 32.78 | 33.01 | 30.64 | 33.01
52 | 35.39 | 45.13 | 50.11 | 56.53 | 48.93 | 52.73 | 56.53 | 50.35 | 48.93
56 | 35.39 | 45.13 | 50.11 | 56.53 | 48.93 | 52.73 | 56.53 | 50.35 | 48.93
60 | 35.39 | 45.13 | 50.11 | 56.53 | 48.93 | 52.73 | 56.53 | 50.35 | 48.93
64 | 35.39 | 45.13 | 50.11 | 56.53 | 48.93 | 52.73 | 56.53 | 50.35 | 48.93

Fee for Return of Undeliverable as Addressed Outbound U.S. Origin Mail Posted Through a Foreign Postal Administration or Operator

A fee is charged for the return of an undeliverable-as-addressed Outbound Single-Piece First-Class Mail International item bearing a U.S. return address which was originally posted to an international addressee through a foreign postal administration, consolidator, or operator. The fee for each returned item is equal to the First-Class Mail International postage which would have been charged if the item had been posted through the Postal Service as First-Class Mail International. The fee is charged to the return addressee.

Pickup On Demand Service

Add $22.00 for each Pickup On Demand stop.

2600 Special Services

* * *

2605 Address Enhancement Services

* * *

2605.2 Prices

| ($)
AEC
Per record processed | 0.25
Minimum charge per list | 25.00
AMS API Address Matching System Application Program Interface (per year, per platform) ¹
Developer's Kit, one platform | 5400.00
Each Additional, per platform | 1900.00
Resell License, one platform | 23750.00
Each Additional, per platform | 11950.00
Additional Database License |
Number of Additional Licenses
1-100 | 2850.00
101-200 | 5800.00
201-300 | 8700.00
301-400 | 11600.00
401-500 | 14600.00
501-600 | 17550.00
601-700 | 20300.00
701-800 | 23400.00
801-900 | 26500.00
901-1,000 | 29150.00
1,001-10,000 | 37750.00
10,001-20,000 | 46400.00
20,001-30,000 | 55550.00
30,001-40,000 | 64250.00
RDI API Developer's Kit ¹
Each, per platform | 435.00
Resell License, one platform | 1650.00
Each Additional, per platform | 930.00
Notes
1. Above API License Fees prorated during the first year based on the date of the license agreement.

2610 Greeting Cards, Gift Cards, and Stationery

* * *

2610.2 Prices ¹

| ($)
Greeting Cards | 0.99 to 25.00
Gift Cards
Open Loop | Face Value plus 1.99 to 8.99
Closed Loop | Face Value
Stationery | 0.10 to 75.99
Notes
1. Minimum price applies to average price paid per item when multiple items are purchased together.

2615 International Ancillary Services

2615.1 International Certificate of Mailing

* * *

2615.1.2 Prices

Individual Pieces Prices
| ($)
Original certificate of mailing for listed pieces of ordinary Outbound Single-Piece First-Class Package International Service | 1.40
Three or more pieces individually listed in a firm mailing book or an approved customer provided manifest (per piece) | 0.49
Each additional copy of original certificate of mailing or firm mailing bills (each copy) | 1.40

Multiple Pieces Prices
| ($)
Up to 1,000 identical-weight pieces (one certificate for total number) | 8.25
Each additional 1,000 identical-weight pieces or fraction thereof | 1.03
Duplicate copy | 1.40

2615.2 Outbound Competitive International Registered Mail

* * *

2615.2.2 Prices

| ($)
Per Piece | 15.50

2615.3 Outbound International Return Receipt

* * *

2615.3.2 Prices

Outbound International Return Receipt

| ($)
Per Piece | 4.00

Inbound International Return Receipt

No additional payment.

2615.5 Outbound International Insurance

* * *

2615.5.3 Prices

Outbound International Insurance

a. Priority Mail International Insurance and Priority Mail Express International Merchandise Insurance

Indemnity limit not over ($) | Price ($)
200 ¹ | 0.00
300 | 5.45
400 | 6.70
500 | 7.95
600 | 9.20
700 | 10.45
800 | 11.70
900 | 12.95
Over 900 | 12.95 plus 1.25 for each 100.00 or fraction thereof over 900.00. Maximum indemnity varies by country.
Notes
1. Insurance coverage is provided, for no additional charge, up to $200.00 for merchandise, and up to $100.00 for document reconstruction.

b. Global Express Guaranteed Insurance

($) |  | ($) | ($)
Amount of coverage:
0.01 | to | 100.00 | 0.00
100.01 | to | 200.00 | 1.00
200.01 | to | 300.00 | 2.00
300.01 | to | 400.00 | 3.00
400.01 | to | 500.00 | 4.00
For document reconstruction insurance or non-document insurance coverage above 500.00, add 1.00 per 100.00 or fraction thereof, up to a maximum of 2,499.00 per shipment. Maximum indemnity varies by country.
Up to |  | 2,499.00 | 24.00

2615.6 Custom Clearance and Delivery Fee

* * *

2615.6.2 Prices

| ($)
Per Dutiable Item | 6.25

2620 International Money Transfer Service—Outbound

* * *

2620.3 Prices

International Money Order

| ($)
Per International Money Order | 8.55
Inquiry Fee | 6.45

Vendor Assisted Electronic Money Transfer

| Transfer amount: Minimum amount ($) | Transfer amount: Maximum amount ($) | Per transfer ($)
Electronic Money Transfer | 0.01 750.01 | 750.00 1,500.00 | 12.20 18.45
Refund | 0.01 | 1,500.00 | 27.95
Change of Recipient | 0.01 | 1,500.00 | 13.45

Electronic Money Transfer

[Reserved]

2625 International Money Transfer Service—Inbound

* * *

2630 Premium Forwarding Service

* * *

2630.2 Prices

| ($)
Online Enrollment (Commercial and Residential) | 18.45
Retail Counter Enrollment (Residential Only) | 20.10
Weekly Reshipment (Residential Only) | 20.10
Priority Mail Half Tray Box (Commercial Only) | 21.15
Priority Mail Full Tray Box (Commercial Only) | 38.55
Priority Mail Express Half Tray Box (Commercial Only) | 51.95
Priority Mail Express Full Tray Box (Commercial Only) | 99.75

2635 Shipping and Mailing Supplies

* * *

2635.2 Prices ¹

| ($)
Mailers | 0.39 to 25.00
Cartons | 0.99 to 25.00
Supplies | 0.49 to 14.65
Shipping Fees | 0.00 to 25.00
Expedited Shipping Fees | 2.50
Notes
¹ Minimum price applies to average price paid per item when multiple items are purchased together.

2640 Post Office Box Service

* * *

2640.4 Prices

Regular—Semi-Annual Fees ¹ ² ³ ⁴
Box Size | C1 ($) | C2 ($) | C3 ($) | C4 ($) | C5 ($) | C6 ($) | C7 ($)
1 | 37.00 to 180.00 | 30.00 to 150.00 | 25.00 to 120.00 | 21.00 to 90.00 | 19.00 to 80.00 | 14.00 to 56.00 | 12.00 to 50.00
2 | 55.00 to 270.00 | 46.00 to 225.00 | 38.00 to 185.00 | 32.00 to 135.00 | 25.00 to 105.00 | 20.00 to 85.00 | 16.00 to 70.00
3 | 100.00 to 432.00 | 80.00 to 275.00 | 70.00 to 235.00 | 50.00 to 172.00 | 45.00 to 140.00 | 34.00 to 128.00 | 27.00 to 104.00
4 | 205.00 to 690.00 | 160.00 to 414.00 | 128.00 to 330.00 | 100.00 to 302.00 | 80.00 to 242.00 | 60.00 to 212.00 | 45.00 to 164.00
5 | 325.00 to 1080.00 | 275.00 to 708.00 | 215.00 to 570.00 | 185.00 to 526.00 | 140.00 to 402.00 | 105.00 to 344.00 | 80.00 to 272.00
Notes
¹ At ZIP Code locations specified on usps.com, customers who have not had box service for the last six months may obtain an initial 13 months of service for twice the semi-annual fees provided above.
² 3-month fees must fall within the range consisting of one-half the applicable minimum and one-half the applicable maximum in the above price table.
³ A portion of the fee may serve as postage on packages delivered to competitive Post Office Box service customers after being brought to the Post Office by a private carrier.
⁴ For customers using the Enterprise PO Box Online system, the semi-annual fees may be prorated one time to align payment periods for multiple boxes. The prorated fee for each such box will be based on the number of months between the expiration of the current fee and the month of the payment alignment.

Postal Facilities Primarily Serving Academic Institutions or Their Students
Period of box use (days) | Price
95 or less | ½ semiannual price.
96 to 140 | ¾ semiannual price.
141 to 190 | Semiannual price.
191 to 230 | 1¼ semiannual price.
231 to 270 | 1½ semiannual price.
271 to full year | Two times semiannual price.

Ancillary Post Office Box Services
| ($)
Key duplication or replacement | 6.00
Lock replacement | 22.00
Key deposit ¹ | 3.00
Notes
1. Key deposit only applies to additional keys or replacement keys.

2645 Competitive Ancillary Services

2645.1 Adult Signature

* * *

2645.1.2 Prices

| ($)
Adult Signature Required | 6.10
Adult Signature Restricted Delivery | 6.35

2645.2 Package Intercept Service

* * *

2645.2.2 Prices

| ($)
Package Intercept Service | 13.45

[FR Doc. 2017-22179 Filed 10-12-17; 8:45 am]

BILLING CODE 7710-12-P